DEPARTMENT OF STATE

[Public Notice 8331]

Office of the Chief of Protocol; Gifts to Federal Employees from Foreign Government Sources Reported to Employing Agencies in Calendar Year 2010

The Department of State submits the following comprehensive listing of the statements which, as required by law, Federal employees filed with their employing agencies during calendar year 2010 concerning gifts received from foreign government sources. The compilation includes reports of both tangible gifts and gifts of travel or travel expenses of more than minimal value, as defined by statute. Also, included are gifts received in previous years including one gift in 2003, two gifts in 2005, one gift in 2006, five gifts in 2007, seven gifts in 2008, 72 gifts in 2009, and eleven gifts with unknown dates of receipt. These latter gifts are being reported in 2010 as the Office of the Chief of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: May 3, 2013.
Patrick F. Kennedy,
Under Secretary for Management, Department of State.

AGENCY: The White House—Executive Office of the President
[Report of Tangible Gifts Furnished by The White House]
Name and title of person accepting the gift on behalf of the U.S. Government. | Gift, date of acceptance on behalf of the U.S. Government., estimated value, and current disposition or location | Identity of foreign donor and government | Circumstances justifying acceptance
The Honorable Barack Obama, President of the United States | Four books. Fiorentina Italian leather backgammon set, presented in a 17″ × 9″ presentation box. Baccarat crystal figurine, presented in a 7″ × 4.5″ red presentation box. Thinkashmir Scialli Charles black cashmere shawl. Plush stuffed animal. Two framed photo prints from the Providence Picture Frame Company. 28″ × 23″ dark brown wicker basket with white and red-colored bow tied to handle. Three scented Persian candles in individual 5″ × 3″ white boxes. Rec'd—2/1/2009. Est. Value—$2,045.00. Disposition—Archives Foreign; Perishable items handled pursuant to U.S. Secret Service policy | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable Barack Obama, President of the United States | 12.75″ × 7″ cylindrical “Franz Collection” vase featuring high relief blue iris leaves against a cream color background. Rec'd—4/1/2009. Est. Value—$1,000.00. Disposition—Archives Foreign | His Excellency Hu Jintao, President of the People's Republic of China | Non-acceptance would cause embarrassment to donor and U.S. Government.
The Honorable Barack Obama, President of the United States | 16.5″ × 12″ Pineider brown leather briefcase embossed with seal of the 2009 G8 Summit with a yellow dust bag and black handling gloves. Navy silk tie. Plastic watch. Book, title: “L'Aquila: Saving an Art City.” Office supplies with 2009 G8 Summit seal. Book, title: “G8 Now”. Rec'd—7/1/2009. Est. Value—$3,007.00. Disposition—Archives Foreign | His Excellency Silvio Berlusconi, Prime Minister of the Italian Republic | Non-acceptance would cause embarrassment to donor and U.S. Government.
The Honorable Barack Obama, President of the United States | Four bottles of tequila, presented in display boxes. Wooden trunk containing a silver ark with a decorative ceramic design on the front and silver bells on each side. Rec'd—8/9/2009. Est. Value—$1,880.00. Disposition—Archives Foreign; Perishable Items Handled Pursuant to U.S. Secret Service Policy | The Honorable Dr. Alfonso Petersen, Mayor of Guadalajara, Jalisco, United Mexican States | Non-acceptance would cause embarrassment to donor and U.S. Government.
The Honorable Barack Obama, President of the United States | 26″ × 32.5″ framed portrait of President Obama. Rec'd—9/30/2009. Est. Value—$1,200.00. Disposition—Archives Foreign | His Excellency Asif Ali Zardari, President of the Islamic Republic of Pakistan | Non-acceptance would cause embarrassment to donor and U.S. Government.
The Honorable Barack Obama, President of the United States | 16″ × 23.75″ metal panel with cityscape view of Singapore, presented in a wooden box with a plaque on the top that reads “APEC Singapore 2009.” 9.5″ × 6.75″ × 2.75″ bronze abstract sculpture in a braided motif inscribed, “From the 2009 APEC Conference in Singapore,” presented in a fitted wooden presentation box. Rec'd—11/1/2009. Est. Value—$9,000.00. Disposition—Archives Foreign | His Excellency Lee Hsien Loong, Prime Minister of the Republic of Singapore | Non-acceptance would cause embarrassment to donor and U.S. Government.
The Honorable Barack Obama, President of the United States | Three hardcover books. Two paperback books. Mara Fine Silver silver-plated tea caddie. 64 oz. fluted silver-plated pitcher. 9″ Cricklewood crystal oval vase. 24″ diameter tin plated copper tray. 4.5″ bronze Sona vessel with gold finish and a blackened-aluminum resting ring. Knit purple blanket with orange and green fabric. 16″ × 24″ black tray Rec'd—12/28/2009 Est. Value—$1,758.00. Disposition—Archives Foreign | His Majesty Sultan Haji Hassanal Bolkiah Mu'izzaddin Waddaulah ibni Al-Marhum Sultan Haji Omar `Ali Saifuddien Sa'adul Khairi Waddien, Sultan and Yang Di-Pertuan of Brunei Darussalam | Non-acceptance would cause embarrassment to donor and U.S. Government.
The Honorable Barack Obama, President of the United States | 8″ × 10″ Christolfe silver picture frame with a photograph of President Obama at a table with officials of the Kingdom of Bahrain. Rec'd—1/3/2010. Est. Value—$430.00. Disposition—Archives Foreign | Her Excellency Houda Nonoo, Ambassador of the Kingdom of Bahrain to the United States | Non-acceptance would cause embarrassment to donor and U.S. Government.
The Honorable Barack Obama, President of the United States | 6.25″ × 6.25″ silver plate engraved with royal signature, in blue presentation box. Rec'd—2/17/2010. Est. Value—$660.00. Disposition—Archives Foreign | His Majesty the King Juan Carlos and Her Majesty Queen Sophia, King and Queen of Spain | Non-acceptance would cause embarrassment to donor and U.S. Government.
The Honorable Barack Obama, President of the United States | 30″ × 54″ multicolored Tibetan scroll depicting a Buddhist deity on a gold-colored inlay. 26″ × 124″ white-patterned Tibetan shawl. 5.75″ × 7.5″ silver and cream-colored cardstock with written inscription. Rec'd—2/18/2010. Est. Value—$1,410.00. Disposition—Archives Foreign | His Holiness the Dalai Lama | Non-acceptance would cause embarrassment to donor and U.S. Government.
The Honorable Barack Obama, President of the United States | Four piece metal sculpture of Don Quixote and Sancho Panza on horses, by Alfredo Melara Farfan. Rec'd—3/8/2010. Est. Value—$1,000.00. Disposition—Archives Foreign | His Excellency Mauricio Funes and Mrs. Vanda Pignato, President and Spouse of the Republic of El Salvador | Non-acceptance would cause embarrassment to donor and U.S. Government.
The Honorable Barack Obama, President of the United States | Two first edition volumes of William Yates books, published in 1906 and 1907. Rec'd—3/16/2010. Est. Value—$357.00. Disposition—Archives Foreign | His Excellency Brian Cowen, Taoiseach of Ireland | Non-acceptance would cause embarrassment to donor and U.S. Government.
The Honorable Barack Obama, President of the United States | Anthology of Irish poetry, signed by six Irish poets. Rec'd—3/17/2010. Est. Value—$1,545.00. Disposition—Archives Foreign | The Arts Council of Ireland | Non-acceptance would cause embarrassment to donor and U.S. Government.
The Honorable Barack Obama, President of the United States | 312″ × 117″ burgundy and red carpet with intricate patterns and cream-colored fringe. Rec'd—3/28/2010. Est. Value—$2,000.00. Disposition—Archives Foreign | His Excellency Hamid Karzai, President of the Islamic Republic of Afghanistan | Non-acceptance would cause embarrassment to donor and U.S. Government.
The Honorable Barack Obama, President of the United States | Three bottles of 1961 Chateau Bages wine. Two 9″ × 13″ leather folders with facsimile letters of credece presented by Benjamin Franklin to Louis XVI, King of France, in 1778 and facsimile letters from Benjamin Franklin to Charles Gravier De Vergennes, dated 1781. Rec'd—3/30/2010. Est. Value—$2,150.00. Disposition—Archives Foreign; Perishable Items Handled Pursuant to U.S. Secret Service Policy | His Excellency Nicolas Sarkozy and Mrs. Carla Bruni-Sarkozy, President and First Lady of the French Republic | Non-acceptance would cause embarrassment to donor and U.S. Government.
The Honorable Barack Obama, President of the United States | Two 4″ Imperial porcelain painted eggs with porcelain bases, presented in yellow presentation boxes. Book, title: “An Attempt at a Pictorial Account of a Trip Across North America”. Rec'd—4/8/2010. Est. Value—$2,080.00. Disposition—Archives Foreign | His Excellency Dmitry Medvedev, President of the Russian Federation | Non-acceptance would cause embarrassment to donor and U.S. Government.
The Honorable Barack Obama, President of the United States | 14″ hand-blown Moser glass plate with 24-carat gold border. Rec'd—4/8/2010. Est. Value—$1,100.00. Disposition—Archives Foreign | His Excellency Vaclav Klaus, President of the Czech Republic | Non-acceptance would cause embarrassment to donor and U.S. Government.
The Honorable Barack Obama, President of the United States | Chris Aire gold cufflinks with centered citrine gemstone bordered by band of diamonds. Rec'd—4/11/2010. Est. Value—$8,315.00. Disposition—Archives Foreign | His Excellency Goodluck Ebele Azikiwe Jonathan, Vice President of the Federal Republic of Nigeria | Non-acceptance would cause embarrassment to donor and U.S. Government.
The Honorable Barack Obama, President of the United States | Creative Aurvana Live! black headphones. Creative pocket video camera. Creative noise cancelling earbud headphones. Rec'd—4/12/2010. Est. Value—$380.00. Disposition—Archives Foreign | His Excellency Lee Hsien Loong, Prime Minister of the Republic of Singapore | Non-acceptance would cause embarrassment to donor and U.S. Government.
The Honorable Barack Obama, President of the United States | Longines silver-colored watch with brown band, presented in brown presentation box. Red leather dog collar and leash with silver-colored fastenings Rec'd—4/14/2010. Est. Value—$2,604.00. Disposition—Archives Foreign | Her Excellency Doris Leuthard, President of the Swiss Confederation | Non-acceptance would cause embarrassment to donor and U.S. Government.
The Honorable Barack Obama, President of the United States | 12.5″ Jun purple and gray porcelain vase with a round wooden base, in a wooden presentation box. Rec'd—4/14/2010. Est. Value—$400.00. Disposition—Archives Foreign | His Excellency Hu Jintao, President of the People's Republic of China | Non-acceptance would cause embarrassment to donor and U.S. Government.
The Honorable Barack Obama, President of the United States | 9.5″ bowl made of silver, jasper, kahalong, and fianit, in a green and tan presentation box. Rec'd—4/14/2010. Est. Value—$3,200.00. Disposition—Archives Foreign | His Excellency Nursultan Nazarbayev, President of the Republic of Kazakhstan | Non-acceptance would cause embarrassment to donor and U.S. Government.
The Honorable Barack Obama, President of the United States | Three 13″ glass vases with gold-colored stripes and wooden toppers, in black presentation boxes. Rec'd—4/22/2010. Est. Value—$2,670.00. Disposition—Archives Foreign | His Majesty King Abdullah II ibn Al Hussein, King of the Hashemite Kingdom of Jordan | Non-acceptance would cause embarrassment to donor and U.S. Government.
The Honorable Barack Obama, President of the United States | 8″ × 5″ sterling silver bowl, presented in a green presentation box Rec'd—4/23/2010. Est. Value—$440.00. Disposition—Archives Foreign | His Excellency Yousef Raza Gilani, Prime Minister of the Islamic Republic of Pakistan | Non-acceptance would cause embarrassment to donor and U.S. Government.
The Honorable Barack Obama, President of the United States | Gena black three-piece suit Rec'd—4/26/2010. Est. Value—$510.00. Disposition—Archives Foreign | The Honorable Ivan Knez, Mayor of Biograd of Croatia | Non-acceptance would cause embarrassment to donor and U.S. Government.
The Honorable Barack Obama, President of the United States | 37″ × 29″ copper fire screen of an eagle, made by Gastone craftsmen Rec'd—4/28/2010. Est. Value—$484.00. Disposition—Archives Foreign | Her Excellency Inonge Mbikusita-Lewanika, Ambassador of the Republic of Zambia to the United States | Non-acceptance would cause embarrassment to donor and U.S. Government.
The Honorable Barack Obama, President of the United States | 9.5″ blue glass bird, hand-blown by Iittala craftsmen. Rec'd—5/4/2010. Est. Value—$445.00. Disposition—Archives Foreign | Her Excellency Tarja Halonen, President of the Republic of Finland | Non-acceptance would cause embarrassment to donor and U.S. Government.
The Honorable Barack Obama, President of the United States | 16″ × 16″ walnut chessboard with walnut and sterling silver chess pieces, presented in a wooden presentation box. Book, title: “He Flies Through the Air with the Greatest of Ease.” 9.5″ dark green bust of author William Saroyan on brown stone base with inscription, presented in a wooden presentation box. Bottle of 100 year old Ararat brandy, presented in wooden presentation box. Rec'd—5/4/2010. Est. Value—$2,985.00. Disposition—Archives Foreign; Perishable items handled pursuant to U.S. Secret Service policy | His Excellency Serzh Sargsian, President of the Republic of Armenia | Non-acceptance would cause embarrassment to donor and U.S. Government.
The Honorable Barack Obama, President of the United States | 80″ × 148″ brown and blue patterned rug. Rec'd—5/12/2010. Est. Value—$2,000.00. Disposition—Archives Foreign | His Excellency Hamid Karzai, President of the Islamic Republic of Afghanistan | Non-acceptance would cause embarrassment to donor and U.S. Government.
The Honorable Barack Obama, President of the United States | 32.25″ × 24.5″ watercolor of Arabic calligraphy by artist Samir Sayegh. Book, title: “Memoirs of Letters”. Rec'd—5/24/2010. Est. Value—$4,520.00. Disposition—Archives Foreign | His Excellency Saad Hariri, Prime Minister of the Republic of Lebanon | Non-acceptance would cause embarrassment to donor and U.S. Government.
The Honorable Barack Obama, President of the United States | 54″ × 12″ Kuna vicuna-brown scarf, presented in wooden presentation case with a silver label. Rec'd—6/1/2010. Est. Value—$584.00. Disposition—Archives Foreign | His Excellency Alan Perez, President of the Republic of Peru | Non-acceptance would cause embarrassment to donor and U.S. Government.
The Honorable Barack Obama, President of the United States | 17″ sugar maple-wood bowl signed by Don Thur. 24″ × 16″ handcrafted glass tree in a green frame. Rec'd—6/25/2010. Est. Value—$1,000.00. Disposition—Archives Foreign | The Right Honorable Stephen Harper, P.C., M.P., Prime Minister of Canada | Non-acceptance would cause embarrassment to donor and U.S. Government.
The Honorable Barack Obama, President of the United States | 20.75″ × 32″ framed silver-colored metal panel with an etching depicting a city in Laos. Rec'd—6/28/2010. Est. Value—$350.00. Disposition—Archives Foreign | His Excellency Mrs. Seng Soukhathivong and Mrs. Somdy Soukhathivong, Ambassador of the Lao People's Democratic Republic to the United Statea and Spouse | Non-acceptance would cause embarrassment to donor and U.S. Government.
The Honorable Barack Obama, President of the United States | 18.5″ clock with a gold-colored horse and two palm trees on a green and silver-colored marble base, in a green presentation box. Rec'd—6/28/2010. Est. Value—$500.00. Disposition—Archives Foreign | King Abdullah bin Abd al-Aziz Al Saud, Custodian of the Two Holy Mosques, King of the Kingdom of Saudi Arabia | Non-acceptance would cause embarrassment to donor and U.S. Government.
The Honorable Barack Obama, President of the United States | Three Bijan silk tie sets with matching handkerchiefs in silk presentation boxes. Five Brioni silk tie sets with matching handkerchiefs in red presentation boxes. Black Brioni silk tie in a red presentation box. Stefano Ricci silk tie in a red and black presentation box. Blue and pink Stefano Ricci silk tie with matching handkerchief in a red and black presentation box. Five silk ties with matching handkerchiefs in white presentation boxes. Two striped Eddia silk ties in pink presentation boxes. Blue Francesco Smalto silk tie in a pink presentation box. Blue Lanvin silk tie with matching handkerchief in a blue presentation box. 20″ × 14″ × 8″ gray briefcase. Rec'd—6/29/2010. Est. Value—$5,255.00. Disposition—Archives Foreign | King Abdullah bin Abd al-Aziz Al Saud, Custodian of the Two Holy Mosques, King of the Kingdom of Saudi Arabia | Non-acceptance would cause embarrassment to donor and U.S. Government.
The Honorable Barack Obama, President of the United States | 11″ × 9″ “Expo 2010 Shanghai China” blue vase with a floral pattern and image of the Shanghai skyline, in a presentation box. 10″ × 8.5″ framed “Expo 2010 Shanghai China, Colorful China Pavilion Pin Set” Rec'd—7/4/2010. Est. Value—$629.00. Disposition—Archives Foreign | The Government of the People's Republic of China | Non-acceptance would cause embarrassment to donor and U.S. Government.
The Honorable Barack Obama, President of the United States | 16″ × 10.5″ deluxe edition of hardcover book, title: “Great is Peace” Rec'd—9/1/2010. Est. Value—$780.00. Disposition—Archives Foreign | His Excellency Binyamin Netanyahu, Prime Minister of the State of Israel | Non-acceptance would cause embarrassment to donor and U.S. Government.
The Honorable Barack Obama, President of the United States | 11″ × 6.5″ silver jewelry box with red and black mosaic on top. Book, title: “The Mosaics of Jordan” Rec'd—9/1/2010. Est. Value—$400.00. Disposition—Archives Foreign | His Majesty King Abdullah II ibn Al Hussein, King of the Hashemite Kingdom of Jordan | Non-acceptance would cause embarrassment to donor and U.S. Government.
The Honorable Barack Obama, President of the United States | 26″ × 32.5″ framed portrait of President Barack Obama Rec'd—9/3/2010. Est. Value—$1,200.00. Disposition—Archives Foreign | His Excellency Asif Ali Zardari, President of the Islamic Republic of Pakistan | Non-acceptance would cause embarrassment to donor and U.S. Government.
The Honorable Barack Obama, President of the United States | 4.5″ × 3.5″ Bible in Arabic with metallic cross on cover. Book, title: “Our Common Christian-Islamic Heritage.” 16″ × 16″ white tote bag. Rec'd—9/18/2010. Est. Value—$356.00. Disposition—Archives Foreign | Dr. Laila Takla, Chair of the International Affairs Committee at the Egyptian Council of Human Rights | Non-acceptance would cause embarrassment to donor and U.S. Government.
The Honorable Barack Obama, President of the United States | 9.5″ sterling silver Tombac Ottoman Collection portable writing set with pen and ink case. 11″ × 5″ 24-carat gold plated Tombac Ottoman Collection bowl. Rec'd—9/22/2010. Est. Value—$1,360.00. Disposition—Archives Foreign | His Excellency Abdullah Gül, President of the Republic of Turkey | Non-acceptance would cause embarrassment to donor and U.S. Government.
The Honorable Barack Obama, President of the United States | Creative ZEN X-Fi 2 64GB MP3 player and earphones. OSIM uGoGo electronic pulse massager Rec'd—9/24/2010. Est. Value—$550.00. Disposition—Archives Foreign | His Excellency Lee Hsien Loong and Madam Ho Ching, Prime Minister of the Republic of Singapore and Spouse | Non-acceptance would cause embarrassment to donor and U.S. Government.
The Honorable Barack Obama, President of the United States | White “Flying Pigeon” electric bicycle. Rec'd—9/27/2010. Est. Value—$1,400.00. Disposition—Archives Foreign | His Excellency Wan Gang, Minister of Science and Technology of the People's Republic of China | Non-acceptance would cause embarrassment to donor and U.S. Government.
The Honorable Barack Obama, President of the United States | Set of two brass and crystal tea cups, presented in a blue velvet display case. 72″ × 49″ Garabagh Magical Knots Azerbaijani rug made by AZER-ILME Co. Ltd., presented in a matching red carrying case with inscription. Book, title: “Azar-ilma”. Rec'd—9/28/2010. Est. Value—$940.00. Disposition—Archives Foreign | His Excellency Dr. Ilham Aliyev, President of the Republic of Azerbaijan | Non-acceptance would cause embarrassment to donor and U.S. Government.
The Honorable Barack Obama, President of the United States | 18″ × 62″ embroidered beige tapestry with red floral motif, presented in a maroon cylinder with a gold and red embroidered crest. Rec'd—10/10/2010. Est. Value—$360.00. Disposition—Archives Foreign | His Excellency Viktor Yanukovych, President of Ukraine | Non-acceptance would cause embarrassment to donor and U.S. Government.
The Honorable Barack Obama, President of the United States | White blouse with beaded floral design, in a maroon velvet presentation box. Rec'd—10/14/2010. Est. Value—$360.00. Disposition—Archives Foreign | His Excellency Viktor Yanukovych, President of Ukraine | Non-acceptance would cause embarrassment to donor and U.S. Government.
The Honorable Barack Obama, President of the United States | 12″ silver-colored tray with dragon-shaped handle, presented in a blue presentation box. Rec'd—10/20/2010. Est. Value—$590.00. Disposition—Archives Foreign | His Excellency Abhisit Vejjajiva, Prime Minister of the Kingdom of Thailand | Non-acceptance would cause embarrassment to donor and U.S. Government.
The Honorable Barack Obama, President of the United States | 12″ × 8″ brown accessory box with four silver-plated bulls on bottom. Rec'd—10/29/2010. Est. Value—$650.00. Disposition—Archives Foreign | His Excellency Benigno S. Aquino III, President of the Republic of the Philippines | Non-acceptance would cause embarrassment to donor and U.S. Government.
The Honorable Barack Obama, President of the United States | 10 Blu-Ray disc set with leather cases, presented in a 32″ × 17″ wooden display box Rec'd—11/1/2010. Est. Value—$500.00. Disposition—Archives Foreign | His Excellency Dmitry Medvedev, President of the Russian Federation | Non-acceptance would cause embarrassment to donor and U.S. Government.
The Honorable Barack Obama, President of the United States | Book, title: “The Life of Mahatma Gandhi,” by Louis Fisher. 28″ × 15″ bronze-colored bust of Mahatma Gandhi. Brown and gold-colored photo album. 13″ × 15″ gold-colored “Diviniti” wooden frame and plaque of Rashtrapti Bhawan New Delhi India. 41″ × 57″ portrait of President Obama. Rec'd—11/8/2010. Est. Value—$7,404.00. Disposition—Archives Foreign | Her Excellency Pratibha Patil, President of the Republic of India | Non-acceptance would cause embarrassment to donor and U.S. Government.
The Honorable Barack Obama, President of the United States | 30″ × 42″ painting of bodhisattva on black and gold-colored scroll, presented in a 36″ blue presentation box. Red and gold-colored silk three piece Sari. 6″ × 9″ red and gold-colored beaded Sari handbag. 11″ × 13″ beige and gold-colored photo album. 13″ × 9″ blue booklet with floral pattern and gold plated image of Parliament. Rec'd—11/8/2010. Est. Value—$1,015.00. Disposition—Archives Foreign | Ms. Meira Kumar, Speaker of Lok Sabha of the Republic of India | Non-acceptance would cause embarrassment to donor and U.S. Government.
The Honorable Barack Obama, President of the United States | 8″ × 4″ Verizon Samsung Galaxy Tab SCH-1800. Black Samsung headphones. Black Samsung Galaxy Tab stereo video cable. Black Samsung Galaxy Tab USB charging data cable. 5″ × 9″ brown leather case. 5″ × 9″ black leather snap-on case. Black Samsung Galaxy Tab charger. 28″ × 28″ red and blue tapestry with decorative design. Rec'd—11/10/2010. Est. Value—$988.00. Disposition—Archives Foreign | His Excellency Lee Myung-bak, President of the Republic of Korea | Non-acceptance would cause embarrassment to donor and U.S. Government.
The Honorable Barack Obama, President of the United States | 4″ × 7″ silver-plated box with floral design and gold-colored flower with red stone, presented in a blue velvet presentation box. Book, title: “Najib: Beginning of a Legacy Commemorating One Year as Prime Minister of Malaysia” Rec'd—11/12/2010. Est. Value—$1,564.00. Disposition—Archives Foreign | His Excellency YAB Dato' Sri Haji Mohd Najib bin Tun Haji Abdul Razak, Prime Minister of Malaysia | Non-acceptance would cause embarrassment to donor and U.S. Government.
The Honorable Barack Obama, President of the United States | Two wooden “Asta Kriya” shadow puppets. Two 19″ × 16″ framed photographs commemorating the First Family's visit to Indonesia. Three-piece red and gold colored medals, presented in a wooden presentation case with an honorary diploma. Three shirts. Rec'd—11/13/2010. Est. Value—$1,403.00. Disposition—Archives Foreign | His Excellency Dr. H. Susilo Bambang Yudhoyono, President of the Republic of Indonesia | Non-acceptance would cause embarrassment to donor and U.S. Government.
The Honorable Barack Obama, President of the United States | 5″ titanium “SUSGallery” cup. 4″ titanium “SUSGallery” cup. 3.5″ titanium “SUSGallery” cup. 2.5″ titanium “SUSGallery” cup, presented in a wooden presentation box. 32″ × 27″ framed facsimile of letter written by President Abraham Lincoln to His Majesty the Tycoon of Japan in 1861. Rec'd—11/14/2010. Est. Value—$1.325.00. Disposition—Archives Foreign; Facsimile Retained for Offical Display | His Excellency Naoto Kan, Prime Minister of Japan | Non-acceptance would cause embarrassment to donor and U.S. Government.
The Honorable Barack Obama, President of the United States | W&J Graham's Port 1961 Single Harvest Tawny Port set, containing wine in red leather bottle holder and an informational booklet, presented in a rectangular wooden box that has “Graham's Single Harvest 1961” carved into top and sides. Set of four Atlantis crystal wine glasses and one crystal decanter presented in 11″ × 23″ × 10″ wooden box. Two bottles of Quinta de Noval 2008 Vintage Porto wine. Bronze water-dog statue on wooden base Rec'd—11/19/2010. Est. Value—$1,140.78 Disposition—Archives Foreign; Box is in White House Gift Office; Perishable Goods Handled Pursuant to U.S. Secret Service Policy | His Excellency Professor Aníbal Cavaco Silva, President of the Portuguese Republic | Non-acceptance would cause embarrassment to donor and U.S. Government.
The Honorable Barack Obama, President of the United States | Antique gold-colored Museu de Marinha Portugal astrolabe with inscribed wooden stand, in a wooden presentation box Rec'd—11/19/2010. Est. Value—$425.00. Disposition—Archives Foreign | His Excellency José Socrates, Prime Minister of Portugal | Non-acceptance would cause embarrassment to donor and U.S. Government.
The Honorable Barack Obama, President of the United States | “Lustre” necklace with 1″ × 1″ inscribed “Globe Crest” pendant. 5 DVD box set, title: “The Day the Universe Changed.” 21″ × 12″ black, unbranded, rubber container with rubber handles. 1.5 quart “Heath” brown teapot with copper handle and two matching mugs. 19″ × 13″ × 10″ wooden trunk with metal decoration on top. Somma grey blanket with darker grey floral pattern, presented in a brown cloth display box. Book on the Earth's ecosystems. One Fanciful “Bountiful Buffet” gift basket. 11″ × 5.5″ Tozai brown glass vase with leaf designs. 12″ × 8″ ceramic jar with 13 ounces of “Di Camillo” biscotti. “Bonifanti” Panettone bread. Luci de Stelle 1000g, in blue hexagonal box. Harney & Sons whole leaf tea, in silk satchels. Five 2.5 ounce Modern Alchemy votive candles, in black presentation box. Black display box containing scented D.L. & Company “Gingembre” candle in glass container. Island Heritage tin of chocolate covered macadamia nut shortbread cookies. Rec'd—12/1/2010. Est. Value—$1,932.00. Disposition—Archives Foreign; Perishable Items Handled Persuant to U.S. Secret Service Policy | His Majesty Sultan Haji Hassanal Bolkiah Mu'izzadin Waddaulah ibni Al-Marhum Sultan Haji Omar `Ali Saifuddien Sa'adul Khairi Waddien, Sultan and Yang Di-Pertuan of Brunei Darussalam | Non-acceptance would cause embarrassment to donor and U.S. Government.
The Honorable Barack Obama, President of the United States | 12″ round silver-colored tree statue with scented black decorations, in a red presentation box. Rec'd—12/1/2010. Est. Value—$585.00. Disposition—Archives Foreign | The Honorable Mohammed Salah Tekaya, Ambassador of the Republic of Tunisia to the United States | Non-acceptance would cause embarrassment to donor and U.S. Government.
The Honorable Barack Obama, President of the United States | 4.5″ × 6″ black and white ceramic Cmielow dog figurine, presented in a wooden presentation box. Book, title: “Fryderyk Chopin.” 2.5″ × 3″ circular miniature portrait of Chopin in a Burl Veneer frame. Two holiday ornaments. Rec'd—12/8/2010. Est. Value—$594.00. Disposition—Archives Foreign; Ceramic Dog Retained by President Obama | His Excellency Bronislaw Komorowski, President of the Republic of Poland | Non-acceptance would cause embarrassment to donor and U.S. Government.
The Honorable Barack Obama, President of the United States | 5.5″ × 5″ × 1″ lacquered wooden box with “OSCE Kazakhstan 2010” label, containing a 2.5″ diameter medallion of 199.37 gram gold alloy. Rec'd—12/15/2010. Est. Value—$1,200.00. Disposition—Archives Foreign | His Excellency Nursultan Nazarbayev, President of the Republic of Kazakhstan | Non-acceptance would cause embarrassment to donor and U.S. Government.
The Honorable Barack Obama, President of the United States | One titanium cup presented in wooden box with “APEC 2010, Naoto Kan, Prime Minster of Japan” imprinted on top of cover. Black Fujifilm FinePix Real 3D W3 digital camera in a blue and black cardboard box. Black Fujifilm FinePix Real 3D V1 Digital Viewer, presented in black and blue cardboard box. Rec'd—12/15/2010. Est. Value—$1896.81 Disposition—Archives Foreign | His Excellency Naoto Kan, Prime Minister of Japan | Non-acceptance would cause embarrassment to donor and U.S. Government.
The Honorable Barack Obama, President of the United States | Two 10″ × 12″ miniature paintings depicting a small indoor gathering, presented in blue velvet presentation boxes. Three gold-colored cloth ornaments. Rec'd—12/17/2010. Est. Value—$710.00. Disposition—Archives Foreign | Her Excellency Meera Shankar, Ambassador of the Republic of India to the United States | Non-acceptance would cause embarrassment to donor and U.S. Government.
The Honorable Barack Obama, President of the United States | 31″ × 26″ black and tan leather artwork of birds, trees, and other objects in a gold frame. Rec'd—12/25/2010. Est. Value—$485.00. Disposition—Archives Foreign | Mr. Rakhman Adanov, First Secretary of the Embassy of the Kyrgyz Republic | Non-acceptance would cause embarrassment to donor and U.S. Government.
The Honorable Barack Obama, President of the United States | 20″ × 16.5″ high purple and yellow leather and wooden ottoman with brown wooden circular legs containing 16″ × 6″ and 14″ × 4″ purple and yellow wooden containers. Six bottles of Vieux Magon wine. Eight bottles of Tunisian Olive Oil. Box of dates. Rec'd—12/30/2010. Est. Value—$910.00. Disposition—Archives Foreign; Perishable Items Handled Pursuant to U.S. Secret Service Policy | His Excellency Zine El-Abidine Ben Ali, President of the Republic of Tunisia | Non-acceptance would cause embarrassment to donor and U.S. Government.
The Honorable Barack Obama, President of the United States, and First Lady Michelle Obama | 4.5″ × 5.5″ gold-colored religious relic with a stand, in a brown wooden presentation case. Rec'd—7/1/2009 Est. Value—$680.00. Disposition—Archives Foreign | Unknown Government Official, Russian Federation | Non-acceptance would cause embarrassment to donor and U.S. Government.
The Honorable Barack Obama, President of the United States, and First Lady Michelle Obama | 9.5″ × 12″ wood-framed photograph of Her Majesty and His Royal Highness. Set of two books on Danish history. Rec'd—11/10/2009. Est. Value—$340.00. Disposition—Archives Foreign | Her Majesty Queen Margrethe II, Queen of Denmark and His Royal Highness Prince Henrik of Denmark | Non-acceptance would cause embarrassment to donor and U.S. Government.
The Honorable Barack Obama, President of the United States, and First Lady Michelle Obama | Two 11.5″ R & Y Augousti stingray and gold-colored candlesticks, presented in a stingray and mother of pearl presentation box. Two 4.5″ × 4.5″ stingray and mother of pearl jewelry boxes, in a stingray and mother of pearl presentation box. Rec'd—1/1/2010. Est. Value—$1,150.00. Disposition—Archives Foreign | His Majesty King Abdullah II ibn Al Hussein and Her Majesty Queen Rania Al Abdullah, King and Queen of the Hashemite Kingdom of Jordan | Non-acceptance would cause embarrassment to donor and U.S. Government.
The Honorable Barack Obama, President of the United States, and First Lady Michelle Obama | 32″ × 34″ traditional hand-woven portrait of President Obama. 32″ × 34″ traditional hand-woven portrait of First Lady Michelle Obama. Rec'd—4/12/2010. Est. Value—$450.00. Disposition—Archives Foreign | His Excellency YAB Dato' Sri Haji Mohd bin Tun Haji Abdul Razak, Prime Minister of Malaysia | Non-acceptance would cause embarrassment to donor and U.S. Government.
The Honorable Barack Obama, President of the United States, and First Lady Michelle Obama | Book, title: “Exquisite Indonesia: The Finest Crafts of the Archipelago.” 80″ × 152″ red, blue, and tan batik cloth, presented in a brown presentation box. 80″ × 152″ red, teal, and tan batik cloth with large bird design, in a brown presentation box. Rec'd—4/19/2010. Est. Value—$390.00. Disposition—Archives Foreign | His Excellency Dr. Boediono, Vice President of the Republic of Indonesia | Non-acceptance would cause embarrassment to donor and U.S. Government.
The Honorable Barack Obama, President of the United States, and First Lady Michelle Obama | 40″ × 70″ black wool shawl with colorful stripes. 16″ black handbag with colorful stripes. 64″ × 28″ black lace shawl with white trim. Senegalese white shirt with black trim. Senegalese white linen robe with black accents. Pair of Senegalese white linen drawstring pants. Rec'd—6/1/2010. Est. Value—$345.00. Disposition—Archives Foreign | Her Excellency Fatou Danielle Diagne, Ambassador of the Republic of Senegal to the United States | Non-acceptance would cause embarrassment to donor and U.S. Government.
The Honorable Barack Obama, President of the United States, and First Lady Michelle Obama | 83″ × 43″ framed oil painting of a carnival winter scene by K.V. Kiselev. Rec'd—6/24/2010. Est. Value—$4,000.00. Disposition—Archives Foreign | His Excellency Dmitry Medvedev, President of the Russian Federation | Non-acceptance would cause embarrassment to donor and U.S. Government.
The Honorable Barack Obama, President of the United States, and First Lady Michelle Obama | 39″ × 31″ canvas of graffiti letters spray-painted on black gloss, title: “Twenty First Century City,” by Ben Eine. Rec'd—7/22/2010. Est. Value—$4,000.00. Disposition—Archives Foreign | The Right Honorable David Cameron, MP, and Mrs. Samantha Cameron, Prime Minister of the United Kingdom of Great Britain and Northern Ireland and Spouse | Non-acceptance would cause embarrassment to donor and U.S. Government.
The Honorable Barack Obama, President of the United States, and First Lady Michelle Obama | 20″ × 20″ painting of First Family in a wooden frame with semi-precious stones and a presentation plaque Rec'd—9/24/2010. Est. Value—$950.00. Disposition—Archives Foreign | His Excellency Mahinda Rajapaksa and Madame Shiranthi, President and First Lady of the Democratic Socialist Republic of Sri Lanka | Non-acceptance would cause embarrassment to donor and U.S. Government.
The Honorable Barack Obama, President of the United States, and First Lady Michelle Obama | Two gold-colored Milla Guirst Joyeros cufflinks with Mayan designs, presented in a yellow presentation box. 10.5″ snakeskin purse with silver-colored plate and Mayan design Rec'd—10/18/2010. Est. Value—$560.00. Disposition—Archives Foreign | His Excellency Porfirio Lobo and Mrs. Elena Rosa De Lobo, President and First Lady of the Republic of Honduras | Non-acceptance would cause embarrassment to donor and U.S. Government.
The Honorable Barack Obama, President of the United States, and First Lady Michelle Obama | 10″ × 8″ Christofle silver photo frame, in a brown presentation box. 2″ Nieman Marcus picture frame. Rec'd—12/25/2010. Est. Value—$385.00. Disposition—Archives Foreign | His Excellency Sheikh Salem Al-Sabah, Ambassador of the State of Kuwait to the United States | Non-acceptance would cause embarrassment to donor and U.S. Government.
First Lady Michelle Obama | 144″ × 40″ Da Viva multicolored cloth. 144″ × 48″ Akosombo Textilis Limited green and yellow cloth, 143″ × 47″ Prestige V.I.P orange, green, blue and gold cotton cloth. 144″ × 40″ Prestige V.I.P multicolored cloth Rec'd—7/21/2009. Est. Value—$350.00. Disposition—Archives Foreign | Mrs. Ernestina Naadu Mills, First Lady of the Republic of Ghana | Non-acceptance would cause embarrassment to donor and U.S. Government.
First Lady Michelle Obama | 26″ × 32.5″ framed portrait of First Lady Michelle Obama Rec'd—9/30/2009. Est. Value—$1,200.00. Disposition—Archives Foreign | His Excellency Asif Ali Zardari, President of the Islamic Republic of Pakistan | Non-acceptance would cause embarrassment to donor and U.S. Government.
First Lady Michelle Obama | Necklace of opaque and freshwater pearls. Rec'd—10/15/2009. Est. Value—$375.00. Disposition—Archives Foreign | The Honorable Gina de Venecia, Member of the Philippine House of Representatives | Non-acceptance would cause embarrassment to donor and U.S. Government.
First Lady Michelle Obama | Cartier 18-carat white gold pearl earrings with diamonds. Rec'd—2/1/2010. Est. Value—$6,125.00. Disposition—Archives Foreign | His Excellency Yousef Al Otaiba, Ambassador of the United Arab Emirates | Non-acceptance would cause embarrassment to donor and U.S. Government.
First Lady Michelle Obama | 72″ × 144″ Thomas Fergusons Irish Linen white tablecloth, double damask with scroll design. Rec'd—3/17/2010. Est. Value—$512.00. Disposition—Archives Foreign | Mrs. Mary Molloy, Spouse of the Taoiseach of Ireland | Non-acceptance would cause embarrassment to donor and U.S. Government.
First Lady Michelle Obama | 14″ × 9″ × 4″ Le Darmanco coral and navy blue handbag with checkered design. 70″ × 32″ Le Darmanco coral and navy blue shawl with checkered design. Marie Lolita green traditional Senegalese gown with gold-colored design. 40″ × 29″ Marie Lolita green traditional Senegalese shawl. Book, title: “Gorée Inflamed Memories.” Orange and black necklace, handmade by Ambassador Diagne. Rec'd—3/26/2010. Est. Value—$375.00. Disposition—Archives Foreign | Her Excellency Fatou Danielle Diagne, Ambassador of the Republic of Senegal to the United States | Non-acceptance would cause embarrassment to donor and U.S. Government.
First Lady Michelle Obama | 13.67″ Daum France crystal ultraviolet vase. Daum France red dragonfly crystal brooch, in a silver Daum presentation box. Rec'd—3/30/2010. Est. Value—$4,580.00. Disposition—Archives Foreign | His Excellency. Nicolas Sarkozy and Mrs. Carla Bruni-Sarkozy, President and First Lady of the French Republic | Non-acceptance would cause embarrassment to donor and U.S. Government.
First Lady Michelle Obama | 27″ × 78″ Kashmir Loom blue cashmere stole with orange design, in a blue presentation box. Rec'd—4/11/2010. Est. Value—$512.00. Disposition—Archives Foreign | His Excellency Manmohan Singh, and Mrs. Gursharan Kaur, Prime Minister of the Republic of India, and Spouse | Non-acceptance would cause embarrassment to donor and U.S. Government.
First Lady Michelle Obama | 6″ gold-colored apple statue on green stone base, in a green presentation box. Rec'd—4/12/2010. Est. Value—$550.00. Disposition—Archives Foreign | His Excellency Nursultan Nazarbayev, President of the Republic of Kazakhstan | Non-acceptance would cause embarrassment to donor and U.S. Government.
First Lady Michelle Obama | VeVe Collections teal handbag with sequins. Book, title: “The Idea of Modernity in Haitian Contemporary Art.” 22″ × 28″ acrylic painting on canvas, title: “Guest for Life II,” by Philippe Dodard. 18.5″ × 24″ framed painting of Haitian landscape. Rec'd—4/13/2010. Est. Value—$2,094.00. Disposition—Archives Foreign | His Excellency René Préval and Mrs. Elisabeth Delator Préval, President and First Lady of the Republic of Haiti | Non-acceptance would cause embarrassment to donor and U.S. Government.
First Lady Michelle Obama | Soledad Garcia silver necklace, in a red presentation box. Rec'd—5/19/2010. Est. Value—$475.00. Disposition—Archives Foreign | Mrs. Margarita Zavala Gomez del Campo, First Lady of the United Mexican States | Non-acceptance would cause embarrassment to donor and U.S. Government.
First Lady Michelle Obama | 32″ × 70″ Dries Van Noten patterned green silk shawl. Rec'd—6/4/2010. Est. Value—$625.00. Disposition—Archives Foreign | Her Imperial and Royal Highness Princess Astrid of Belgium, Princess of the Belgians and Archduchess of Austria-Este | Non-acceptance would cause embarrassment to donor and U.S. Government.
First Lady Michelle Obama | 20″ gold Pina & Grau necklace with 1″ Mallorcan cross pendant Rec'd—8/8/2010. Est. Value—$3,600.00. Disposition—Archives Foreign | His Majesty King Juan Carlos and Her Majesty Queen Sophia, the King and Queen of Spain | Non-acceptance would cause embarrassment to donor and U.S. Government.
First Lady Michelle Obama | 42″ × 30″ framed orange and beige etching of tree rings. Rec'd—8/9/2010. Est. Value—$600.00. Disposition—Archives Foreign | Mrs. María Ángeles Muñoz Uriol, Mayor of Marbella, Spain | Non-acceptance would cause embarrassment to donor and U.S. Government.
First Lady Michelle Obama | 26″ × 32.5″ framed portrait of First Lady Michelle Obama. Rec'd—9/3/2010. Est. Value—$1,200.00. Disposition—Archives Foreign | His Excellency Asif Ali Zardari, President of the Islamic Republic of Pakistan | Non-acceptance would cause embarrassment to donor and U.S. Government.
First Lady Michelle Obama | 24″ orange and black beaded silver-colored necklace with Arabic inscription. Rec'd—9/18/2010. Est. Value—$380.00. Disposition—Archives Foreign | Dr. Laila Takla, Chair of the International Affairs Committee at the Egyptian Council of Human Rights | Non-acceptance would cause embarrassment to donor and U.S. Government.
First Lady Michelle Obama | 20″ multicolored necklace with ruby gemstones. Earrings with ruby, emerald, sapphire, peridot, and citrine gemstones. 20″ × 72″ burgundy and beige beaded cloth. 4″ × 20″ burgundy pillow. Box of Pelit chocolates. Rec'd—9/20/2010. Est. Value—$965.00. Disposition—Archives Foreign; Perishable Items Handled Pursuant to U.S. Secret Service Policy | Mrs. Hayrunnisa Gül, First Lady of the Republic of Turkey | Non-acceptance would cause embarrassment to donor and U.S. Government.
First Lady Michelle Obama | 3″ tall × 5″ diameter silver and lavender-colored vessel, presented in 7″ × 7″ × 4″ pink container. Rec'd—9/22/2010. Est. Value—$460.00. Disposition—Archives Foreign | Mrs. Ban Soon-taek, Spouse of Ban Ki-Moon, Secretary-General of the United Nations | Non-acceptance would cause embarrassment to donor and U.S. Government.
First Lady Michelle Obama | 16″ × 14″ pink and gold-colored vest with detachable sleeves and decorative beading. Rec'd—9/22/2010. Est. Value—$440.00. Disposition—Archives Foreign | Mrs. Nezafete Sejdiu, First Lady of the Republic of Kosovo | Non-acceptance would cause embarrassment to donor and U.S. Government.
First Lady Michelle Obama | 33″ × 39″ multicolored abstract painting, title: “Married Women in Swazi Culture Attending a Cultural Event”. Rec'd—9/24/2010. Est. Value—$475.00. Disposition—Archives Foreign | Her Majesty, The Indlovukatzi, Queen Mother of the Kingdom of Swaziland | Non-acceptance would cause embarrassment to donor and U.S. Government.
First Lady Michelle Obama | 8″ × 14″ Helena Caballero blue purse. Rec'd—9/24/2010. Est. Value—$525.00. Disposition—Archives Foreign | Mrs. María Clemencia Rodríguez de Santos, First Lady of the Republic of Colombia | Non-acceptance would cause embarrassment to donor and U.S. Government.
First Lady Michelle Obama | Agnes Santomenno pearl and gold-colored pendant and earrings. Rec'd—9/24/2010. Est. Value—$485.00. Disposition—Archives Foreign | Mrs. Marta Linares de Martinelli, First Lady of the Republic of Panama | Non-acceptance would cause embarrassment to donor and U.S. Government.
First Lady Michelle Obama | White gold diamond with blue sapphire earrings and pendant, in 4.5″ × 5″ × 1.5″ presentation box. Rec'd—9/24/2010. Est. Value—$1,080.00. Disposition—Archives Foreign | Mrs. Shiranthi Rajapaksa, First Lady of the Democratic Socialist Republic of Sri Lanka | Non-acceptance would cause embarrassment to donor and U.S. Government.
First Lady Michelle Obama | 20″ × 16.5″ painting of Haitian women dressed in white with eight fruit baskets in gold-colored frame. Rec'd—9/29/2010. Est. Value—$425.00. Disposition—Archives Foreign | Mrs. Elisabeth Delator Préval, First Lady of the Republic of Haiti | Non-acceptance would cause embarrassment to donor and U.S. Government.
First Lady Michelle Obama | 114″ × 35″ yellow shawl with purple and silver-colored stitching, in a decorative wooden presentation box Rec'd—10/18/2010. Est. Value—$415.00. Disposition—Archives Foreign | Datin Paduka Seri Bin Mansor, Spouse of the Prime Minister of Malaysia | Non-acceptance would cause embarrassment to donor and U.S. Government.
First Lady Michelle Obama | Two 13″ × 17″ black and red scarves. 34″ gold-colored pearl necklace. 31″ × 19″ hinged double framed portraits of President Barack Obama and First Lady. Rec'd—11/8/2010. Est. Value—$2,110.00. Disposition—Archives Foreign | Her Excellency Pratibha Patil, President of the Republic of India | Non-acceptance would cause embarrassment to donor and U.S. Government.
First Lady Michelle Obama | 7″ long silver-colored jewelry box with bird designs, in a black presentation box. Rec'd—11/8/2010. Est. Value—$460.00. Disposition—Archives Foreign | His Excellency Manmohan Singh and Mrs. Gursharan Kaur, Prime Minister of the Republic of India, and Spouse | Non-acceptance would cause embarrassment to donor and U.S. Government.
First Lady Michelle Obama | Red, white, and gold-colored apron. Red and gold-colored silk hat with floral pattern. Six copies of book, title: “Hansik: Stories of Korean Food,” by Kim Yoon-ok. Bottle of Sulwhasoo First Care Serum. Bottle of Sulwhasoo Balancing Water. Bottle of Sulwhasoo Balancing Emulsion. Container of Sulwhasoo Concentrated Ginseng Cream. Herbal Sulwhasoo soap, presented in colored lacquer black wooden box with mirror. 32″ × 32″ cloth, brown on one side and mint-colored on the other. 43″ × 43″ silk bojagi in blue and cream with light blue flowers embroidered in corners. 1.5″ × 38.5″ red ribbon with floral pattern. Rec'd—11/11/2010. Est. Value—$1,278.00. Disposition—Archives Foreign; Perishable items handled pursuant to U.S. Secret Service policy | Mrs. Kim Yoon-ok, First Lady of the Republic of Korea | Non-acceptance would cause embarrassment to donor and U.S. Government.
First Lady Michelle Obama | Two books. 36″ × 42″ blue Lenan Pearl of Silk scarf with floral design. 9″ × 14″ black box with red and gold abstract design on top and gold-colored plate inside. 42″ × 100″ black and orange scarf with floral design. Pair of orange and black custom “Air Force 1” shoes. Rec'd—11/13/2010. Est. Value—$1,658.00. Disposition—Archives Foreign | Mrs. Hj. Ani Bambang Yudhoyono, First Lady of the Republic of Indonesia | Non-acceptance would cause embarrassment to donor and U.S. Government.
First Lady Michelle Obama | 12″ tall blue glass and silver-colored metal container with silver-colored cords. Rec'd—12/1/2010. Est. Value—$425.00. Disposition—Archives Foreign | Mrs. Kinza Abbou Ben Smida, Spouse of Ambassador of the Republic of Tunisia to the United States | Non-acceptance would cause embarrassment to donor and U.S. Government.
First Family | 7.5″ × 1.5″ sterling silver chain bracelet, in a navy presentation box. Variety of Korres liquid facial products. Rec'd—3/15/2010. Est. Value—$834.00. Disposition—Archives Foreign; Perishable items handled pursuant to U.S. Secret Service policy | Mrs. Ada Papandreou, Spouse of the Prime Minister of the Hellenic Republic | Non-acceptance would cause embarrassment to donor and U.S. Government.
First Family | Nine paperback books and eleven hardcover books about Indonesian history and culture. Two Periplus travel maps of Indonesia. 74″ × 43″ orange and black silk tapestry. 76″ × 46″ orange and black silk tapestry. Rec'd—11/8/2010. Est. Value—$639.00. Disposition—Archives Foreign | His Excellency Dr. H. Susilo Bambang Yudhoyono, President of the Republic of Indonesia | Non-acceptance would cause embarrassment to donor and U.S. Government.
First Family | Two purple Samsung compact digital cameras. Two pieces of pink decorative brocade silk fabric. Rec'd—11/19/2009. Est. Value—$740.00. Disposition—Archives Foreign | His Excellency Lee Myung-bak, President of the Republic of Korea | Non-acceptance would cause embarrassment to donor and U.S. Government.
First Family Children | 4″ × 3″ Black Russian “MOCKBA KPEMJIb” keepsake box, presented in a red presentation box. 3″ × 2.25″ black Russian “MOCKBA KPEMJIb” keepsake box, in a red presentation box. Rec'd—7/1/2009. Est. Value—$720.00. Location—Archives Foreign | His Excellency Dmitry Medvedev, President of the Russian Federation | Non-acceptance would cause embarrassment to donor and U.S. Government.
First Family Children | Hermes PM Skipper bracelet, light blue silk cord with silver Chaine d'Ancre. Hermes bracelet in silver and evercalf leather. 7 CDs of European music. 34 hardcover books from the “Asterix” French comic book series. DVD, title: “Mozart: L'Opera Rock” Rec'd—3/30/2010. Est. Value—$1,419.00. Location—Archives Foreign | His Excellency Nicolas Sarkozy and Mrs. Carla Bruni-Sarkozy, President and First Lady of the French Republic | Non-acceptance would cause embarrassment to donor and U.S. Government.
First Family Children | Two 18″ × 12″ Roots brown leather backpacks printed with “Muskoka 2010 G8 Canada.”. Two messenger bags. Two frisbees. Twelve CDs. Book, title: “Me to We,” two copies. Rec'd—8/3/2010. Est. Value—$718.00. Location—Archives Foreign | The Right Honorable Stephen Harper, P.C., M.P., Prime Minister of Canada | Non-acceptance would cause embarrassment to donor and U.S. Government.
First Family Children | Two 8″ gold Pina & Grau bracelets with 0.5″ Mallorcan cross pendants. Rec'd—8/8/2010. Est. Value—$510.00. Location—Archives Foreign | His Majesty King Juan Carlos and Her Majesty Queen Sophia, King and Queen of Spain | Non-acceptance would cause embarrassment to donor and U.S. Government.
First Family Children | Four pairs of Nike shoes with Batik design. Set of Indonesian flashcards. Rec'd—11/8/2010. Est. Value—$380.00. Location—Archives Foreign | His Excellency Dr. H. Susilo Bambang Yudhoyono, President of the Republic of Indonesia | Non-acceptance would cause embarrassment to donor and U.S. Government.
First Family Children | Two books on tigers by Valmik Thapar. 46″ × 33″ brown and black painting of a tiger. Rec'd—11/9/2010. Est. Value—$1,495.00. Location—Archives Foreign | Her Excellency Pratibha Patil, President of the Republic of India | Non-acceptance would cause embarrassment to donor and U.S. Government.
White House Staff Member Brennan, John | 4.5″ inscribed black and gray Swiss pocket army knife. Inscribed Swiss bell with a leather strap. Rec'd—5/17/2010. Est. Value—$350.00. Location—Pending Transfer to the General Services Administration | Dr. Markus Seiler, Director of the Swiss Federal Intelligence Service | Non-acceptance would cause embarrassment to donor and U.S. Government.
White House Staff Member Brennan, John | 13”Osmanli Furug limited edition green glass and gold plate, presented in a wooden presentation box. Rec'd—9/23/2010. Est. Value—$820.00. Location—Pending Transfer to the General Services Administration | Under Secretary Hakan Fidan, Director of the Turkish National Intelligence Organization | Non-acceptance would cause embarrassment to donor and U.S. Government.
White House Staff Member Brennan, John | 4.5″ marble bowl with blue lapis and powa shell inlay, presented in a blue velvet presentation box. 3.5″ round paper mache container with gold-colored inlay and floral design on lid, presented in a blue velvet presentation box. Rec'd—10/14/2010. Est. Value—$555.00. Location—Pending Transfer to the General Services Administration | The Honorable Alok Prasad, Deputy National Security Adviser & Secretary, National Security Council Secretariat of the Republic of India | Non-acceptance would cause embarrassment to donor and U.S. Government.
White House Staff Member Donilon, Tom | 40″ × 56″ rug with black floral pattern. Rec'd—3/28/2010. Est. Value—$350.00. Location—Pending Transfer to the General Services Administration | His Excellency Hamid Karzai, President of the Islamic Republic of Afghanistan | Non-acceptance would cause embarrassment to donor and U.S. Government.
White House Staff Member Donilon, Tom | Two 12″ × 5″ white marble vases with hand-painted gilt rosettas and applied faux gemstones, presented in a blue velvet presentation box. Rec'd—11/8/2010. Est. Value—$930.00. Location—Pending Transfer to the General Services Administration | Her Excellency Pratibha Patil, President of the Republic of India | Non-acceptance would cause embarrassment to donor and U.S. Government.
White House Staff Member Emanuel, Rahm | 3″ × 16″ champagne-colored candleholder with a marble cylinder and coppertone flowers on top. Rec'd—1/4/2010. Est. Value—$425.00. Location—Pending Transfer to the General Services Administration | His Majesty King Abdullah II ibn Al Hussein and Her Majesty Rania Al Abdullah, King and Queen of the Hashemite Kingdom of Jordan | Non-acceptance would cause embarrassment to donor and U.S. Government.
White House Staff Member Emanuel, Rahm | 34″ × 53″ hand-woven wool rug with five borders and cream-colored center. Rec'd—3/28/2010. Est. Value—$350.00. Location—Pending Transfer to the General Services Administration | His Excellency Hamid Karzai, President of the Islamic Republic of Afghanistan | Non-acceptance would cause embarrassment to donor and U.S. Government.
White House Staff Member Froman, Michael | Riveri wristwatch with mother of pearl face. Pair of silver-colored cufflinks. Red silk tie. Silver-colored weave basket. Rec'd—7/21/2010. Est. Value—$540.00. Location—Pending Transfer to the General Services Administration | Unknown Government Official, Republic of Korea | Non-acceptance would cause embarrassment to donor and U.S. Government.
White House Staff Member Holdren, John | Montegrappa Kazan Limited Edition sterling silver fountain pen, presented in a wood presentation box with a silver plaque. Rec'd—11/1/2009. Est. Value—$1,400.00. Location—Pending Transfer to the General Services Administration | The Honorable Andrey Fursenko, Minister of Education and Science Russian Federation | Non-acceptance would cause embarrassment to donor and U.S. Government.
White House Staff Member Jones, James | Custom pen set, presented in a black leather presentation box. Book, title: “Palazzo Chigi”. Rec'd—4/13/2009. Est. Value—$726.00. Location—Pending Transfer to the General Services Administration | Ambassador Bruno Archi, Diplomatic Counselor to the Italian Prime Minister | Non-acceptance would cause embarrassment to donor and U.S. Government.
White House Staff Member Jones, James | Wooden folding chess/checkers set with carved details, presented in a black nylon carrying back. Iraqi rug with fringe, presented in a travel bag. Rec'd—10/6/2009. Est. Value—$855.00. Location—Pending Transfer to the General Services Administration | His Excellency Jalal Talabani, President of the Republic of Iraq | Non-acceptance would cause embarrassment to donor and U.S. Government.
White House Staff Member Jones, James | 6.5″ sterling silver figurine of an ibex on a brass base with the seal of the State of Qatar, presented in a red presentation box. Rec'd—1/5/2010. Est. Value—$500.00. Location—Pending Transfer to the General Services Administration | His Excellency Sheikh Hamad Bin Khalifa Al-Thani, Prime Minister and Minister of Foreign Affairs of the State of Qatar | Non-acceptance would cause embarrassment to donor and U.S. Government.
White House Staff Member Jones, James | 36″ × 48″ framed pencil portrait of James Jones. Rec'd—2/18/2010. Est. Value—$750.00. Location—Pending Transfer to the General Services Administration | His Excellency Asif Ali Zardari, President of the Islamic Republic of Pakistan | Non-acceptance would cause embarrassment to donor and U.S. Government.
White House Staff Member Jones, James | 60″ × 38″ multicolor rug with checkered and lined patterns and cream-colored fringe. Rec'd—3/28/2010. Est. Value—$400.00. Location—Pending Transfer to the General Services Administration | His Excellency Hamid Karzai, President of the Islamic Republic of Afghanistan | Non-acceptance would cause embarrassment to donor and U.S. Government.
White House Staff Member Jones, James | 8″ × 6″ white marble box with lid and inlaid floral pattern, presented in a blue velvet presentation box. Rec'd—6/23/2010. Est. Value—$490.00. Location—Pending Transfer to the General Services Administration | His Excellency SomanahalliMallaiah Krishna, Minister of External Affairs of the Republic of India | Non-acceptance would cause embarrassment to donor and U.S. Government.
White House Staff Member Jones, James | 17.75″ tall clock with a desert scene of two camels and palm trees on a green and gold-colored marble base, presented in a green presentation box. Rec'd—7/15/2010. Est. Value—$450.00. Location—Pending Transfer to the General Services Administration | King Abdullah bin Abd al-Aziz Al Saud, Custodian of the Two Holy Mosques, King of the Kingdom of Saudi Arabia | Non-acceptance would cause embarrassment to donor and U.S. Government.
White House Staff Member Pressman, David | Mountblanc Boheme Marron Ballpoint pen, presented in a presentation box. Rec'd—11/23/2010. Est. Value—$390.00. Location—Pending Transfer to the General Services Administration | Miodrag Rakic, Chief of Staff, Office of the President of the Republic of Serbia | Non-acceptance would cause embarrassment to donor and U.S. Government.
White House Staff Member Sher, Susan | 4″ decorative octagonal box with hand-painted lid depicting Moscow churches and eight hand-painted churches on each side, presented in a red presentation box. Rec'd—6/24/2010. Est. Value—$425.00. Location—Pending Transfer to the General Services Administration | His Excellency Sergey Kislyak, Ambassador of the Russian Federation to the United States | Non-acceptance would cause embarrassment to donor and U.S. Government.
White House Staff Member Summers, Larry | Bottle of Louis Roederer Cristal Rose champagne, presented in an orange presentation box. Rec'd—10/19/2010. Est. Value—$500.00. Location—Perishable Items Handled Pursuant to U.S. Secret Service Policy | Mr. Igor Shuvalov, First Deputy Prime Minister of the Russian Federation | Non-acceptance would cause embarrassment to donor and U.S. Government.
White House Staff Member | 16″ × 12″ Pineider green leather briefcase embossed with 2009 G8 Summit seal. Rec'd—7/1/2009. Est. Value—$1,568.00. Location—Pending Transfer to the General Services Administration | His Excellency Silvio Berlusconi, Prime Minister of the Italian Republic | Non-acceptance would cause embarrassment to donor and U.S. Government.

AGENCY: The White House—Office of the Vice President
[Report of Tangible Gifts Furnished by The White House—Office of the Vice President]
Name and title of person accepting the gift on behalf of the U.S. Government | Gift, date of acceptance on behalf of the U.S. Government, estimated value, and current disposition or location | Identity of foreign donor and government | Circumstances justifying acceptance
The Honorable Joseph R. Biden, Jr., Vice President of the United States | 50″ x 74″ carpet with medallion in beige and grey with five borders, presented in green bag. Rec'd—11/13/2009. Est. Value—$400.00. Disposition—Official Use on First Floor of the Vice President's Residence | His Excellency Asif Ali Zardari, President of the Islamic Republic of Pakistan | Non-acceptance would cause embarrassment to donor and U.S. Government.
The Honorable Joseph R. Biden, Jr., Vice President of the United States | Replica of Hammurabi's Code in silver and glass display case. Rec'd—1/10/2010. Est. Value—$475.00. Location—National Archives and Records Administration | His Excellency Dr. Adil Abdul-Mahdi, Vice President of the Republic of Iraq | Non-acceptance would cause embarrassment to donor and U.S. Government.
The Honorable Joseph R. Biden, Jr., Vice President of the United States | Pair of brass and stingray skin candlestick holders, presented in a stingray skin and mother of pearl box. Rec'd—1/15/2010. Est. Value—$950.00. Location—National Archives and Records Administration | His Majesty King Abdullah II ibn Al Hussein and Her Majesty Queen Rania Al Abdullah of the Hashemite Kingdom of | Non-acceptance would cause embarrassment to donor and U.S. Government.
The Honorable Joseph R. Biden, Jr., Vice President of the United States | 14″ tall x 6″ diameter Minh Long I multicolor hand-made vase with wooden stand inscribed “With Compliments from H.E. Mr. Nguyen Tan Dung, Prime Minister of the Socialist Republic of Vietnam,” presented in red and gold-colored box. Rec'd—4/13/2010. Est. Value—$1,200.00. Disposition—National Archives and Records Administration | His Excellency Nguyen Tan Dung, Prime Minister of the Socialist Republic of Vietnam | Non-acceptance would cause embarrassment to donor and U.S. Government.
The Honorable Joseph R. Biden, Jr., Vice President of the United States | 118″ x 98″ traditional hand-woven wool Afghan rug in red with three borders. Rec'd—5/12/2010. Est. Value—$1,200.00. Location—National Archives and Records Administration | His Excellency Hamid Karzai, President of the Islamic Republic of Afghanistan | Non-acceptance would cause embarrassment to donor and U.S. Government.
The Honorable Joseph R. Biden, Jr., Vice President of the United States | Sculpture of four elephants on a wooden base. Rec'd—6/9/2010. Est. Value—$390.00. Disposition—National Archives and Records Administration | His Excellency Mwai Kibaki, President of the Republic of Kenya | Non-acceptance would cause embarrassment to donor and U.S. Government.
The Honorable Joseph R. Biden, Jr., Vice President of the United States | 20″ wooden sculpture of a robed male with a shield and a spear. Rec'd—6/12/2010. Est. Value—$425.00. Location—Official Use on First Floor of the Vice President's Residence | The Honorable Kenneth Marende, Speaker of the National Assembly of Kenya | Non-acceptance would cause embarrassment to donor and U.S. Government.
The Honorable Joseph R. Biden, Jr., Vice President of the United States | White marble box with a colorful floral pattern, presented in a blue suede box. Rec'd—7/13/2010. Est. Value—$570.00. Location—National Archives and Records Administration | His Excellency Somanahalli Mallaiah Krishna, Minister of External Affairs of the Republic of India | Non-acceptance would cause embarrassment to donor and U.S. Government.
The Honorable Joseph R. Biden, Jr., Vice President of the United States | Navy blue box with gold trim and clear top with silver lion and gold details inside. Painting of a man on a canoe holding an oar with trees in the background in wooden frame trimmed with gold. Rec'd—8/31/2010. Est. Value—$795.00. Disposition—Pending Transfer to National Archives and Records Administration | His Excellency Jalal Talabani, President of the Republic of Iraq | Non-acceptance would cause embarrassment to donor and U.S. Government.
The Honorable Joseph R. Biden, Jr., Vice President of the United States | 28″ x 33″ framed rug depicting an eagle with wings spread on a green backdrop. Rec'd—9/1/2010. Est. Value—$650.00. Location—Official Use in West Wing, Office of the Vice President | His Excellency Masoud Barzani, President of the Kurdistan Region of the Republic of Iraq | Non-acceptance would cause embarrassment to donor and U.S. Government.
Dr. Jill Biden, Second Lady of the United States | Oval silver decorative box with lid and reticulated floral design. Rec'd—4/11/2010. Est. Value—$365.00. Location—National Archives and Records Administration | Her Excellency Michelle Bachelet, President of the Republic of Chile | Non-acceptance would cause embarrassment to donor and U.S. Government.
Herro Mustafa, Special Advisor for the Middle East, Afghanistan and Pakistan | Pierre Balmain wristwatch with white shagreen strap, round white face, white gold detail, and bezel of faux diamonds. Silver-plated box in the shape of a camel with a saddle that opens on a hinge. Rec'd—5/25/2010. Est. Value—$1,661.00. Location—Pending Transfer to National Archives and Records Administration | His Royal Highness Prince Salman bin Hamad bin Al Khalifa, Crown Prince of the Kingdom of Bahrain | Non-acceptance would cause embarrassment to donor and U.S. Government.

AGENCY: Department of State
[Report of Tangible Gifts Furnished by the Department of State]
Name and title of person accepting the gift on behalf of the U.S. Government | Gift, date of acceptance on behalf of the U.S. Government, estimated value, and current disposition or location | Identity of foreign donor and government | Circumstances justifying acceptance
The Honorable Hillary Clinton, Secretary of State of the United States | Embroidered art with purple flowers in large frame. Rec'd—1/5/2010. Est. Value—$460.00. Location—Pending Transfer to General Services Administration | His Excellency Yang Jiechi, Minister of Foreign Affairs of the People's Republic of China | Non-acceptance would cause embarrassment to donor and U.S. Government.
The Honorable Hillary Clinton, Secretary of State of the United States | Large scene of camel and palm tree made of gold and silver in red box. Rec'd—1/5/2010. Est. Value—$950.00. Location—Retain for Official Use Only | His Excelleny Sheikh Hamad bin Jassim bin Jabr Al-Thani, Prime Minister and Minister of Foreign Affairs of the State of Qatar | Non-acceptance would cause embarrassment to donor and U.S. Government.
The Honorable Hillary Clinton, Secretary of State of the United States | Gold coin with gold plaque and certificate in presentation box. Rec'd—1/21/2010. Est. Value—$1,100.00. Location—Pending Transfer to General Services Administration | His Excellency Milo Djukanovic, Prime Minister of Montenegro | Non-acceptance would cause embarrassment to donor and U.S. Government.
The Honorable Hillary Clinton, Secretary of State of the United States | Saint Louis Crystal Vase. Rec'd—1/29/2010. Est. Value—$385.00. Disposition—Pending Transfer to General Services Administration | His Excellency Nicolas Sarkozy, President of the French Republic | Non-acceptance would cause embarrassment to donor and U.S. Government.
The Honorable Hillary Clinton, Secretary of State of the United States | Crystal torch sculpture on base with inscription (clear-cut crystal). Rec'd—2/3/2010. Est. Value—$450.00. Disposition—Pending Transfer to General Services Administration | His Exellency Khalid bin Ahmed Al-Khalifa, Minister of Foreign Affairs of the Kingdom of Bahrain | Non-acceptance would cause embarrassment to donor and U.S. Government.
The Honorable Hillary Clinton, Secretary of State of the United States | Emerald and diamond bracelet, necklace, earrings, and ring. Rec'd—2/15/2010. Est. Value—$400,000.00. Disposition—Pending Transfer to General Services Administration | His Royal Highness King Abdullah bin Abd al-Aziz Al Saud, Custodian of the Two Holy Mosques, Kingdom of Saudi Arabia | Non-acceptance would cause embarrassment to donor and U.S. Government.
The Honorable Hillary Clinton, Secretary of State of the United States | Set of white gold watch with leather band and earrings, all encrusted in diamonds. Two perfume bottles. Rec'd—2/16/2010. Est. Value—$5,300.00. Disposition—Pending Transfer to General Services Administration | His Royal Highness Prince Khaled Al-Faisal, Mekkah Region Governor of the Kingdom of Saudi Arabia | Non-acceptance would cause embarrassment to donor and U.S. Government.
The Honorable Hillary Clinton, Secretary of State of the United States | Two books, titles: “Ethics for the New Millennium” and “The Universe in a Single Atom” by His Holiness. Wooden Skaher basket with sterling silver bowl. White Shawl blessed by His Holiness. Rec'd—2/18/2010. Est. Value—$470.00. Disposition—Pending Transfer to General Services Administration | His Holiness the Dalai Lama | Non-acceptance would cause embarrassment to donor and U.S. Government.
The Honorable Hillary Clinton, Secretary of State of the United States | Oryx desk clock. Rec'd—2/18/2010. Est. Value—$390.00. Disposition—Pending Transfer to General Services Administration | His Excellency Sheikh Hamad bin Jassim bin Jabr Al Thani, Prime Minister and Minister of Foreign Affairs of the State of Qatar | Non-acceptance would cause embarrassment to donor and U.S. Government.
The Honorable Hillary Clinton, Secretary of State of the United States | Orxy desk clock. Rec'd—2/18/2010. Est. Value—$490.00. Disposition—Pending Transfer to General Services Administration | His Highness Sheikh Hamad bin Khalifa Al Thani, Amir of the State of Qatar | Non-acceptance would cause embarrassment to donor and U.S. Government.
The Honorable Hillary Clinton, Secretary of State of the United States | Leather travel bag. Rec'd—3/1/2010. Est. Value—$475.00. Disposition—Pending Transfer to General Services Administration | Her Excellency Cristina Fernandez de Kirchner, President of the Argentine Republic | Non-acceptance would cause embarrassment to donor and U.S. Government.
The Honorable Hillary Clinton, Secretary of State of the United States | Framed photography of Itamaraty. Rec'd—3/5/2010. Est. Value—$500.00. Disposition—Pending Transfer to General Services Administration | His Excellency Celso Amorim, Foreign Minister of Brazil | Non-acceptance would cause embarrassment to donor and U.S. Government.
The Honorable Hillary Clinton, Secretary of State of the United States | 22″ × 18″ painting of indigenous male. Rec'd—3/8/2010. Est. Value—$490.00. Disposition—Pending Transfer to General Services Administration | His Excellency Álvaro Colom, President of the Republic of Guatamala | Non-acceptance would cause embarrassment to donor and U.S. Government.
The Honorable Hillary Clinton, Secretary of State of the United States | Large black and white painting of nude female. Rec'd—3/19/2010. Est. Value—$680.00. Disposition—Pending Transfer to General Services Administration | His Excellency Oscar Arias, President of the Republic of Costa Rica | Non-acceptance would cause embarrassment to donor and U.S. Government.
The Honorable Hillary Clinton, Secretary of State of the United States | Blue lightweight Kanuk jacket. Rec'd—3/29/2010. Est. Value—$570.00. Disposition—Pending Transfer to General Services Administration | His Excellency Lawrence Cannon, Foreign Minister of Canada | Non-acceptance would cause embarrassment to donor and U.S. Government.
The Honorable Hillary Clinton, Secretary of State of the United States | Sterling silver bowl with round feet in green box. Rec'd—4/10/2010. Est. Value—$360.00. Disposition—Pending Transfer to General Services Administration | His Excellency Makhdoom Shah Mehmood Qureshi, Foreign Minister of the Islamic Republic of Pakistan | Non-acceptance would cause embarrassment to donor and U.S. Government.
The Honorable Hillary Clinton, Secretary of State of the United States | Tabriz Mahabad ruby wool carpet. Rec'd—4/10/2010. Est. Value—$1,200.00. Disposition—Pending Transfer to General Services Administration | His Excellency Serzh Sargsian, President of Armenia | Non-acceptance would cause embarrassment to donor and U.S. Government.
The Honorable Hillary Clinton, Secretary of State of the United States | Boat-shaped silver purse. Rec'd—4/12/2010. Est. Value—$345.00. Disposition—Pending Transfer to General Services Administration | His Excellency Manmohan Singh, Prime Minister of the Republic of India | Non-acceptance would cause embarrassment to donor and U.S. Government.
The Honorable Hillary Clinton, Secretary of State of the United States | Decanter and glass set. Rec'd—4/12/2010. Est. Value—$480.00. Disposition—Pending Transfer to General Services Administration | His Excellency Nursultan Nazarbayev, President of the Republic of Kazakhstan | Non-acceptance would cause embarrassment to donor and U.S. Government.
The Honorable Hillary Clinton, Secretary of State of the United States | Large circular glass piece with turquoise, green, and blue accents. Rec'd—4/14/2010. Est. Value—$950.00. Disposition—Pending Transfer to General Services Administration | Her Excellency Maite Nkoana-Mashabane, Minister of International Relations and Co-Operation of South Africa | Non-acceptance would cause embarrassment to donor and U.S. Government.
The Honorable Hillary Clinton, Secretary of State of the United States | Perfume dispenser and censor in red case. Rec'd—4/28/2010. Est. Value—$450.00. Disposition—Pending Transfer to General Services Administration | His Excellency Kamel Morjane, Foreign Minister of the Republic of Tunisia | Non-acceptance would cause embarrassment to donor and U.S. Government.
The Honorable Hillary Clinton, Secretary of State of the United States | Woven portrait of President William J. Clinton. Rec'd—5/7/2010. Est. Value—$840.00. Disposition—Pending Transfer to General Services Administration | His Excellency YAB Dato' Sri Haji Mohd Najib bin Tun Haji Abdul Razak, Prime Minister of Malaysia | Non-acceptance would cause embarrassment to donor and U.S. Government.
The Honorable Hillary Clinton, Secretary of State of the United States | Embroidered top, long camisole, pants, shawl, and matching clutch. Rec'd—5/10/2010. Est. Value—$585.00. Disposition—Pending Transfer to General Services Administration | His Excellency Makhdoom Shah Mehmood Qureshi, Foreign Minister of the Islamic Republic of Pakistan | Non-acceptance would cause embarrassment to donor and U.S. Government.
The Honorable Hillary Clinton, Secretary of State of the United States | Large Afghan rug in brown slipcase. Rec'd—5/2010. Est. Value—$900.00. Disposition—Pending Transfer to General Services Administration | His Excellency Hamid Karzai, President of the Islamic Republic of Afghanistan | Non-acceptance would cause embarrassment to donor and U.S. Government.
The Honorable Hillary Clinton, Secretary of State of the United States | Sterling silver footed bowl featuring traditional design. Rec'd—6/3/2010. Est. Value—$460.00. Disposition—Pending Transfer to General Services Administration | His Excellency Somanahalli Mallaiah Krishna, Minister of External Relations of India | Non-acceptance would cause embarrassment to donor and U.S. Government.
The Honorable Hillary Clinton, Secretary of State of the United States | Two Heyder Aliyev Foundation books. Heyder Aliyev Foundation Space of Mugam CDs. Querabag Xan Ondior books and CDs. Pair of glass and tin tea glasses. Book, title: “Painting of Azerbaijan.” Postcards of Azerbaijan. Booklet of cuisine of Azerbaijan. Sakit booklet. Beed Araqsin hat. 13′11″ x 10′4″ Silk carpet. Azerbaijan CD. Five 110g Containers of Caspain Fish of the Sea Caviar. Rec'd—7/4/2010. Est. Value—$6,640.00. Disposition—Pending Transfer to General Services Administration | His Excellency Dr. Ilham Aliyev, President of the Republic of Azerbaijan | Non-acceptance would cause embarrassment to donor and U.S. Government.
The Honorable Hillary Clinton, Secretary of State of the United States | Glass and sterling silver coffee set. Book and CD of Armenian ornamental art. Rec'd—7/4/2010. Est. Value—$600.00. Disposition—Pending Transfer to General Services Administration | His Excellency Serzh Sargsian, President of Armenia | Non-acceptance would cause embarrassment to donor and U.S. Government.
The Honorable Hillary Clinton, Secretary of State of the United States | Large abstract painting on canvas. Rec'd—7/8/2010. Est. Value—$1,200.00. Disposition—Pending Transfer to General Services Administration | His Excellency Asunção dos Anjos, Foreign Minister of Angola | Non-acceptance would cause embarrassment to donor and U.S. Government.
The Honorable Hillary Clinton, Secretary of State of the United States | Silver jewelry box. Rec'd—7/19/2010. Est. Value—$490.00. Disposition—Pending Transfer to General Services Administration | His Excellency Yousuf Raza Gilani, Prime Minister of the Islamic Republic of Pakistan | Non-acceptance would cause embarrassment to donor and U.S. Government.
The Honorable Hillary Clinton, Secretary of State of the United States | Large artwork and framed photo. Rec'd—7/19/2010. Est. Value—$970.00. Disposition—Pending Transfer to General Services Administration | His Excellency Asif Ali Zardari, President of the Islamic Republic of Pakistan | Non-acceptance would cause embarrassment to donor and U.S. Government.
The Honorable Hillary Clinton, Secretary of State of the United States | Painting of Secretary Clinton and Chelsea Clinton wearing conical hats. Color sand portrait of Secretary Clinton. Black and white sand portrait of Secretary Clinton. Rec'd—7/22/2010. Est. Value—$3,410.00. Disposition—Pending Transfer to General Services Administration | His Excellency Pham Gia Khiem, Deputy Prime Minister of the Socialist Republic of Vietnam | Non-acceptance would cause embarrassment to donor and U.S. Government.
The Honorable Hillary Clinton, Secretary of State of the United States | 12′ × 15′ Tianjin carpet. Book about Nanjing silk and embroidery. Framed red paper cut-out of two women. Rec'd—7/2010. Est. Value—$4,865.00. Disposition—Pending Transfer to General Services Administration | His Excellency Dai Bingguo, State Councilor of the People's Republic of China | Non-acceptance would cause embarrassment to donor and U.S. Government.
The Honorable Hillary Clinton, Secretary of State of the United States | Guqin instrument in cloth bag. Rec'd—7/2010. Est. Value—$1,100.00. Disposition—Pending Transfer to General Services Administration | Her Excellency Liu Yandong, State Councilor of the People's Republic of China | Non-acceptance would cause embarrassment to donor and U.S. Government.
The Honorable Hillary Clinton, Secretary of State of the United States | 4′ x 6′ cream-colored carpet. Rec'd—8/20/2010. Est. Value—$575.00. Disposition—Pending Transfer to General Services Administration | His Excellency Sameh Shoukry, Ambassador of the Arab Republic of Egypt to the United States | Non-acceptance would cause embarrassment to donor and U.S. Government.
The Honorable Hillary Clinton, Secretary of State of the United States | Small black laquer box with painted design. Rec'd—8/2010. Est. Value—$920.00. Disposition—Pending Transfer to General Services Administration | His Excellency Sergey Kislyak, Ambassador of the Russian Federation | Non-acceptance would cause embarrassment to donor and U.S. Government.
The Honorable Hillary Clinton, Secretary of State of the United States | Blue woven Versace shawl. Versace scarf, black with floral design. Rec'd—8/2010. Est. Value—$400.00. Disposition—Pending Transfer to General Services Administration | His Excellency Elias Murr, Minister of Defense of the Republic of Lebanon | Non-acceptance would cause embarrassment to donor and U.S. Government.
The Honorable Hillary Clinton, Secretary of State of the United States | Necklace and bracelet in a wooden box. Rec'd—9/24/2010. Est. Value—$3,600.00. Disposition—Pending Transfer to General Services Administration | His Excellency Somananhalli Mallaiah Krishna, Minister of External Affairs of India | Non-acceptance would cause embarrassment to donor and U.S. Government.
The Honorable Hillary Clinton, Secretary of State of the United States | Place setting for ten including soup tureen, bowls, spoons, and service dishes. Rec'd—9/2010. Est. Value—$650.00. Disposition—Pending Transfer to General Services Administration | His Excellency Ho Nghia Dung, Minister of Transportation of Socialist Republic of Vietnam | Non-acceptance would cause embarrassment to donor and U.S. Government.
The Honorable Hillary Clinton, Secretary of State of the United States | Book, title: “The Wall,” in presentation box with piece of the Berlin Wall on the lid. Rec'd—10/3/2010. Est. Value—$850.00. Disposition—Pending Transfer to General Services Administration | His Excellency Dr. Guido Westerville, Federal Minister of Foreign Affairs of the Federative Republic of Germany | Non-acceptance would cause embarrassment to donor and U.S. Government.
The Honorable Hillary Clinton, Secretary of State of the United States | 4′ × 2′ framed copy of the Declaration of Independence of the Republic of Kosovo. Rec'd—10/12/2010. Est. Value—$390.00. Disposition—Pending Transfer to General Services Administration | His Excellency Jakup Krasniqi, Acting President of the Republic of Kosovo and His Excellency Hashim Thaci, Prime Minister of the Republic of Kosovo | Non-acceptance would cause embarrassment to donor and U.S. Government.
The Honorable Hillary Clinton, Secretary of State of the United States | 2′ × 3′ wood-framed portrait of Secretary Clinton. Rec'd—10/15/2010. Est. Value—$480.00 Disposition—Pending Transfer to General Services Administration | His Excellency Hajredin Kuci, Deputy Prime Minister of the Republic of Kosovo | Non-acceptance would cause embarrassment to donor and U.S. Government.
The Honorable Hillary Clinton, Secretary of State of the United States | Belleek silver bracelet and necklace with crystal accents. Rec'd—10/19/2010. Est. Value—$400.00. Disposition—Pending Transfer to General Services Administration | The Right Honorable Peter D. Robinson, MLA and Mr. Martin McGuiness, deputy First Minister of Northern Ireland | Non-acceptance would cause embarrassment to donor and U.S. Government.
The Honorable Hillary Clinton, Secretary of State of the United States | Black and brown rug in green case. Rec'd—10/20/2010. Est. Value—$350.00. Disposition—Pending Transfer to General Services Administration | His Excellency Makhdoom Shah Mehmood Qureshi, Minister of Foreign Affairs of the Islamic Republic of Pakistan | Non-acceptance would cause embarrassment to donor and U.S. Government.
The Honorable Hillary Clinton, Secretary of State of the United States | Secretary Clinton's name in Arabic calligraphy, presented in a frame. Rec'd—10/28/2010.Est. Value—$425.00. Disposition—Pending Transfer to General Services Administration | His Excellency Abdallah Baali, Ambassador of the People's Democratic Republic of Algeria | Non-acceptance would cause embarrassment to donor and U.S. Government.
The Honorable Hillary Clinton, Secretary of State of the United States | Oil painting of Lahore Fort. Rec'd—10/29/2010. Est. Value—$680.00. Disposition—Pending Transfer to General Services Administration | His Excellency Parkash Singh Badal, Chief Minister of Punjab, Republic of India | Non-acceptance would cause embarrassment to donor and U.S. Government.
The Honorable Hillary Clinton, Secretary of State of the United States | Large black and gold ceramic vase. Rec'd—10/30/2010. Est. Value—$425.00. Disposition—Pending Transfer to General Services Administration | His Excellency Pham Gia Khiem, Deputy Prime Minister of the Socialist Republic of Vietnam | Non-acceptance would cause embarrassment to donor and U.S. Government.
The Honorable Hillary Clinton, Secretary of State of the United States | Ceramic bowl on a stand in blue, white, and gold. Hand-made silver plate. Portrait made of coffee beans. Coffee in leather box. Rec'd—10/30/2010. Est. Value—$1,410.00. Location—Pending Transfer to General Services Administration | His Excellency Nguyen Tan Dung, Prime Minister of the Socialist Republic of Vietnam | Non-acceptance would cause embarrassment to donor and U.S. Government.
The Honorable Hillary Clinton, Secretary of State of the United States | Diamond and pearl necklace, earrings, and brooch. Rec'd—10/2010. Est. Value—$2,800.00. Location—Pending Transfer to General Services Administration | His Excellency Dai Bingguo, State Councilor of the People's Republic of China | Non-acceptance would cause embarrassment to donor and U.S. Government.
The Honorable Hillary Clinton, Secretary of State of the United States | Traditional silver water bowl with lid. Rec'd—11/1/2010. Est. Value—$960.00. Disposition—Permission to Retain for Official Use Only | His Royal Highness Norodom Sihamoni, King of Cambodia | Non-acceptance would cause embarrassment to donor and U.S. Government.
The Honorable Hillary Clinton, Secretary of State of the United States | Silver water pot. Rec'd—11/1/2010. Est. Value—$400.00. Location—Pending Transfer to General Services Administration | His Excellency Hor Namhong, Deputy Prime Minister and Minister of Foreign Affairs and International Cooperation of Cambodia | Non-acceptance would cause embarrassment to donor and U.S. Government.
The Honorable Hillary Clinton, Secretary of State of the United States | Gold mask with blue, yellow, and green sapphire stones. Brass topographic map of Papua New Guinea in a frame. Rec'd—11/4/2010. Est. Value—$5,234.00. Location—Pending Transfer to General Services Administration | His Excellency Michael Somare, Prime Minister of Papua New Guinea | Non-acceptance would cause embarrassment to donor and U.S. Government.
The Honorable Hillary Clinton, Secretary of State of the United States | Silverframed picture of a sailboat. Rec'd—11/4/2010. Est. Value—$350.00. Disposition—Pending Transfer to General Services Administration | Dame Carol Kidu, Department of Community Development of Papua New Guinea | Non-acceptance would cause embarrassment to donor and U.S. Government.
The Honorable Hillary Clinton, Secretary of State of the United States | Framed print of the Maori Moko. Rec'd—11/4/2010. Est. Value—$400.00. Disposition—Pending Transfer to General Services Administration | His Worship Bob Parker, Mayor of Christchurch, New Zealand | Non-acceptance would cause embarrassment to donor and U.S. Government.
The Honorable Hillary Clinton, Secretary of State of the United States | Afghan rug. Rec'd—11/19/2010. Est. Value—$700.00. Disposition—Pending Transfer to General Services Administration | His Excellency Hamid Karzai, President of the Islamic Republic of Afghanistan | Non-acceptance would cause embarrassment to donor and U.S. Government.
The Honorable Hillary Clinton, Secretary of State of the United States | Round sterling silver bowl with leaf design. Rec'd—11/29/2010. Est. Value—$940.00. Location—Pending Transfer to General Services Administration | His Excellency Ahmet Davutoghu, Minister of Foreign Affairs of the Republic of Turkey | Non-acceptance would cause embarrassment to donor and U.S. Government.
The Honorable Hillary Clinton, Secretary of State of the United States | Tea set. Rec'd—12/2/2010. Est. Value—$395.00. Disposition—Pending Transfer to General Services Administration | His Excellency Islam Karimov, President of the Republic of Uzbekistan | Non-acceptance would cause embarrassment to donor and U.S. Government.
The Honorable Hillary Clinton, Secretary of State of the United States | Gold coin. Framed, signed photograph of Secretary Clinton and His Majesty. Rec'd—12/3/2010. Est. Value—$2,090.00. Disposition—Pending Transfer to General Services Administration | His Majesty King Hamad bin Isa Al Khalifa, King of the Kingdom of Bahrain | Non-acceptance would cause embarrassment to donor and U.S. Government.
The Honorable Hillary Clinton, Secretary of State of the United States | Tunic and ornate silver plate. Rec'd—12/4/2010. Est. Value—$1,160.00. Disposition—Pending Transfer to General Services Administration | His Excellency Jaliya Wickramasuriya, Ambassador of Democratic Socialist Republic of Sri Lanka | Non-acceptance would cause embarrassment to donor and U.S. Government.
The Honorable Hillary Clinton, Secretary of State of the United States | Small shell-shaped Mikimoto travel clock with pearl. Rec'd—12/6/2010. Est. Value—$385.00. Location—Pending Transfer to General Services Administration | His Excellency Seiji Maehara, Minister of Foreign Affairs of Japan | Non-acceptance would cause embarrassment to donor and U.S. Government.
The Honorable Hillary Clinton, Secretary of State of the United States | Religious painting. Rec'd—12/9/2010. Est. Value—$600.00. Location—Pending Transfer to General Services Administration | His Excellency Edmond Hax Hinasto, Minister of Foreign Affairs of the Republic of Albania | Non-acceptance would cause embarrassment to donor and U.S. Government.
The Honorable Hillary Clinton, Secretary of State of the United States | Pearl and green stone brooch. Rec'd—12/10/2010. Est. Value—$525.00. Location—Pending Transfer to General Services Administration | Her Excellency Roza Otunbayeva, President of the Kyrgyz Republic | Non-acceptance would cause embarrassment to donor and U.S. Government.
The Honorable Hillary Clinton, Secretary of State of the United States | Gold and silver horse figure. Rec'd—12/2010. Est. Value—$940.00. Location—Pending Transfer to General Services Administration | His Excellency Adel Al-Jubeir, Ambassador of the Kingdom of Saudi Arabia to the United States | Non-acceptance would cause embarrassment to donor and U.S. Government.
The Honorable Hillary Clinton, Secretary of State of the United States | Two scarves by E. Marinella in blue box. Rec'd—Unknown. Est. Value—$600.00. Disposition—Pending Transfer to General Services Administration | His Excellency Silvio Berlusconi, Prime Minister of the Italian Republic | Non-acceptance would cause embarrassment to donor and U.S. Government.
The Honorable Hillary Clinton, Secretary of State of the United States | Gold and silver desert scene on stone and marble base. Rec'd—Unknown. Est. Value—$3,200.00. Disposition—Pending Transfer to General Services Administration | King Abdullah bin Abd al-Aziz Al Saud, Custodian of the Two Holy Mosques, King of the Kingdom of Saudi Arabia | Non-acceptance would cause embarrassment to donor and U.S. Government.
The Honorable Hillary Clinton, Secretary of State of the United States | Large wooden statue. Small wood statue. Rec'd—Unknown. Est. Value—$1,080.00. Disposition—Pending Transfer to General Services Administration | His Majesty King Abduallah II ibn Al Hussein and Her Majesty Queen Rania Al Abdullah of the Hashemite Kingdom of Jordan | Non-acceptance would cause embarrassment to donor and U.S. Government.
Former President William Clinton | Patek Philippe 18-karat yellow gold cross cufflinks. Rec'd—10/2009. Est. Value—$4,455.00. Disposition—Pending Transfer to General Services Administration | His Excellency Mian Muhammad Nawaz Sharif, Former Prime Minister of the Islamic Republic of Pakistan | Non-acceptance would cause embarrassment to donor and U.S. Government.
Former President William Clinton | Jasper and silver desk set consisting of a calendar leaf stand, letter opener, ashtray, pen holder, and letter holder. Rec'd—4/12/2010. Est. Value—$1,900.00. Disposition—Pending Transfer to General Services Administration | His Excellency Nursultan Nazarbayev, President of the Republic of Kazakhstan | Non-acceptance would cause embarrassment to donor and U.S. Government.
Former President William Jefferson Clinton | Large leather case with photo prints. Rec'd—11/23/2010. Est. Value—$1,100.00. Disposition—Pending Transfer to General Services Administration | His Excellency Nursultan Nazarbayev, President of the Republic of Kazakhstan | Non-acceptance would cause embarrassment to donor and U.S. Government.
Chelsea Clinton | Tea set in a wooden box. Rec'd—7/2010. Est. Value—$650.00. Disposition—Pending Transfer to General Services Administration | His Excellency Dai Bingguo, State Councilor of the People's Republic of China | Non-acceptance would cause embarrassment to donor and U.S. Government.
Chelsea Clinton | 24″ × 24″ oil painting. Rec'd—10/13/2010. Est. Value—$350.00. Disposition—Pending Transfer to General Services Administration | His Excellency Dr. Haris Silajdzic, Chairman of the Presidency of Bosnia and Herzegovina | Non-acceptance would cause embarrassment to donor and U.S. Government.
Chelsea Clinton and Marc Mezvinsky | Limited edition crystal vase. Rec'd—7/21/2010. Est. Value—$940.00. Disposition—Pending Transfer to General Services Administration | Ministry of Foreign Affairs of the Republic of Turkey | Non-acceptance would cause embarrassment to donor and U.S. Government.
The Honorable James B. Steinberg, Deputy Secretary of State | Wooden statue. Rec'd—12/30/2010. Est. Value—$425.00. Disposition—Pending Transfer to General Services Administration | His Majesty King Abdullah II ibn Al Hussein and Her Majesty Queen Rania Al Abdullah of the Hashemite Kingdom of Jordan | Non-acceptance would cause embarrassment to donor and U.S. Government.
The Honorable Kurt Campbell, Assistant Secretary for East Asia and Pacific Affairs | Depiction of a project for a Chinese garden in the National Arboretum. Rec'd—Unknown. Est. Value—$490.00. Disposition—Pending Transfer to General Services Administration | Madame Jiang Zehui, Director of the Chinese Academy of Forestry | Non-acceptance would cause embarrassment to donor and U.S. Government.
The Honorable Johnnie Carson, Assistant Secretary for African Affairs | Tan and green round leather floor mat with three matching seat cushions. Rec'd—5/5/2010. Est. Value—$550.00. Disposition—Pending Transfer to General Services Administration | His Excellency Goodluck Ebele Azikiwe Jonathan, Vice President of Nigeria | Non-acceptance would cause embarrassment to donor and U.S. Government.
The Honorable Jeffrey D. Feltman, Assistant Secretary for Near Eastern Affairs | Qom rug. Rec'd—9/17/2010. Est. Value—$950.00. Disposition—Pending Transfer to General Services Administration | Ali Bin Mohsen Bin Fatais Al-Marri, Attorney General of the State of Qatar | Non-acceptance would cause embarrassment to donor and U.S. Government.
Janet Sanderson, Deputy Assistant Secretary | Amouage Jubilation 25 bar soap. 300ml Amouage Jubilation 25 hand cream. Amouage Jubilation 25 body lotion. Amouage Jubilation 25 eau de parfum. Rec'd—10/01/2010. Est. Value—$600.00. Disposition—Pending Transfer to General Services Administration | His Excellency Sayyid Badr bin Hamad bin Hamud Al Busaidi, Secretary General of the Ministry of Foreign Affairs of Oman | Non-acceptance would cause embarrassment to donor and U.S. Government.
The Honorable Capricia Penavic Marshall, Chief of Protocol | Women's Rolex Yacht Master gold tone chapter ring watch (M329251). Men's Rolex deep sea watch. Rec'd—5/20/2010. Est. Value—$20,000.00. Disposition—Pending Transfer to General Services Administration | His Excellency Sheikh Hamad bin Jassim bin Jabr Al-Thani, Prime Minister and Minister of Foreign Affairs of the State of Qatar | Non-acceptance would cause embarrassment to donor and U.S. Government.
The Honorable Capricia Penavic Marshall, Chief of Protocol | Bulgari watch with silver face and black leather strap. Rec'd—7/26/2010. Est. Value—$10,500.00. Disposition—Pending Transfer to General Services Administration | His Excellency Mohammed Al-Tobaishi, Chief of Royal Protocol of the Kingdom of Saudi Arabia | Non-acceptance would cause embarrassment to donor and U.S. Government.
The Honorable Capricia Penavic Marshall, Chief of Protocol | Black Montblanc calligraphy pens. Black Montblanc ballpoint pen. Rec'd—9/1/2010. Est. Value—$420.00. Disposition—Pending Transfer to General Services Administration | His Majesty King Abdullah II ibn Al Hussein, King of the Hashemite Kingdom of Jordan | Non-acceptance would cause embarrassment to donor and U.S. Government.
The Honorable Capricia Penavic Marshall, Chief of Protocol | Large tea set. Rec'd—12/2010. Est. Value—$485.00. Disposition—Pending Transfer to General Services Administration | Dr. Zhang Kunsheng, Director-General of the Protocol Department and Assistant Minister of the Foreign Affairs Ministry of the People's Republic of China | Non-acceptance would cause embarrassment to donor and U.S. Government.
The Honorable Capricia Penavic Marshall, Chief of Protocol | Standing elephant in gold-trimmed transparent box. Rec'd—Unknown. Est. Value—$385.00. Disposition—Pending Transfer to General Services Administration | His Excellency Don Pramudwinai, Ambassador of the Kingdom of Thailand to the United States | Non-acceptance would cause embarrassment to donor and U.S. Government.
Dennis Cheng, Deputy Chief of Protocol | Black leather briefcase with brass detail. Rec'd—4/16/2010. Est. Value—$3,500.00. Disposition—Pending Transfer to General Services Administration | His Excellency Yousuf Raza Gilani, Prime Minister of the Islamic Republic of Pakistan | Non-acceptance would cause embarrassment to donor and U.S. Government.
Dennis Cheng, Deputy Chief of Protocol | Raymon Weil silver men's watch. Rec'd—9/3/2010. Est. Value—$950.00. Disposition—Pending Transfer to General Services Administration | His Majesty King Abdullah II ibn Al Hussein, King of the Hashemite Kingdom of Jordan | Non-acceptance would cause embarrassment to donor and U.S. Government.
The Honorable Adam Ereli, U.S. Ambassador to Kingdom Bahrain | Pair of Tufenkjian yellow gold cufflinks with white stone. Rec'd—6/2/2010. Est. Value—$771.00. Disposition—Pending Transfer to General Services Administration | Prince Khalifa Bin Salman Al Khalifa, Prime Minister of the Kingdom of Bahrain | Non-acceptance would cause embarrassment to donor and U.S. Government.
The Honorable Janet E. Garvey, U.S. Ambassador to the Republic of Cameroon | Case of Chateau Lynch-Bages wine. Case of Mouton-Cadet Bordeaux Rouge wine. Case of Moet and Chandon Brut Vintage wine. Rec'd—4/29/2010. Est. Value—$1,344.96. Disposition—Official Use at U.S. Embassy | Mrs. Chantal Biya, First Lady of the Republic of Cameroon | Non-acceptance would cause embarrassment to donor and U.S. Government.
The Honorable Jon Huntsman, U.S. Ambassador to the People's Republic of China | Pearl necklace. Rec'd—12/2/2009. Est. Value—$460.00. Disposition—Pending Transfer to General Services Administration | Liang Baohua, Party Secretary of the Jiangsu Province of the People's Republic of China | Non-acceptance would cause embarrassment to donor and U.S. Government.
The Honorable Jon Huntsman, U.S. Ambassador to the People's Republic of China | Ye Hai pearl necklace. Rec'd—10/30/2010. Est. Value—$350.00. Disposition—Pending Transfer to General Services Administration | Wu Shicun, Director General of the Hainan Foreign and Overseas Chinese Affairs Office of the People's Republic of China | Non-acceptance would cause embarrassment to donor and U.S. Government.
The Honorable James Jeffrey, U.S. Ambassador to the Republic of Turkey | Silk carpet. Rec'd—07/2009. Est. Value—$1,500.00. Disposition—Pending Transfer to General Services Administration | Mevlut Bilinci, Governor of Kayseri of the Republic of Turkey | Non-acceptance would cause embarrassment to donor and U.S. Government.
The Honorable Joseph Lebaron, U.S. Ambassador to the State of Qatar | Haurex Caimano watch. Viscose shawl. Glass hurricane with candles. Rec'd—6/17/2010. Est. Value—$630.00. Disposition—Pending Transfer to General Services Administration; Glass Hurricane Retained for Official Use | Brigadier General Rashid bin Abdullah Al Nuaimi of the Qatar Armed Forces | Non-acceptance would cause embarrassment to donor and U.S. Government.
The Honorable Richard Olson, U.S. Ambassador to the United Arab Emirates | Montblanc Starwalker black resin ballpoint pen. Business card holder. Meisterstuck 6CC leather wallet. Day planner. Rec'd—01/10/2010. Est. Value—$656.00. Disposition—Pending Transfer to General Services Administration | His Excellency Hanif Hassan Ali Al Qassim, Minister of Health of the United Arab Emirates | Non-acceptance would cause embarrassment to donor and U.S. Government.
The Honorable Richard Olson, U.S. Ambassador to the United Arab Emirates | Burberry extra-large stainless steel watch. Rec'd—1/24/2010. Est. Value—$600.00. Disposition—Pending Transfer to General Services Administration | Joint Command and Staff College of the United Arab Emirates | Non-acceptance would cause embarrassment to donor and U.S. Government.
The Honorable Clark Randt, U.S. Ambassador to the People's Republic of China | Multicolor glass phoenix. Rec'd—8/18/2006. Est. Value—$575.00. Disposition—Pending Transfer to General Services Administration | Government of the People's Republic of China | Non-acceptance would cause embarrassment to donor and U.S. Government.
The Honorable Clark Randt, U.S. Ambassador to the People's Republic of China | Bronze and glass replica of Ancient Hua Gu with base. Rec'd—5/17/2007. Est. Value—$485.00. Disposition—Pending Transfer to General Services Administration | Unknown Foreign Government Official Donor | Non-acceptance would cause embarrassment to donor and U.S. Government.
The Honorable Clark Randt, U.S. Ambassador to the People's Republic of China | Large art of blossoming trees in white marble vase with wooden stand. Rec'd—Unknown. Est. Value—$465.00. Disposition—Pending Transfer to General Services Administration | Unknown Foreign Government Official Donor | Non-acceptance would cause embarrassment to donor and U.S. Government.
The Honorable Clark Randt, U.S. Ambassador to the People's Republic of China | Silver tea set. Rec'd—Unknown. Est. Value—$475.00. Disposition—Pending Transfer to General Services Administration | Unknown Foreign Government Official Donor | Non-acceptance would cause embarrassment to donor and U.S. Government.
The Honorable Clark Randt, U.S. Ambassador to the People's Republic of China | Five scarves of different colors. Rec'd—Unknown. Est. Value—$800.00. Disposition—Pending Transfer to General Services Administration | Unknown Foreign Government Official Donor | Non-acceptance would cause embarrassment to donor and U.S. Government.
The Honorable Clark Randt, U.S. Ambassador to the People's Republic of China | White and blue porcelain vase. Rec'd—Unknown. Est. Value—$495.00. Location—Pending Transfer to General Services Administration | Government of the People's Republic of China | Non-acceptance would cause embarrassment to donor and U.S. Government.
The Honorable Daniel Speckhard, U.S. Ambassador to the Hellenic Republic | Book, title: “Great Moments in Greek Archaeology.” Silver boat decoration, title: “Evangelistria”. Rec'd—9/10/2010. Est. Value—$364.62. Disposition—Pending Transfer to General Services Administration | Yannis Sgouros, Prefect of the Athens Prefecture of the Hellenic Republic | Non-acceptance would cause embarrassment to donor and U.S. Government.
The Honorable William E. Todd, U.S. Ambassador to Brunei Darussalam | 18-karat white gold watch. Rec'd—6/3/2010. Est. Value—$585.00. Disposition—Pending Transfer to General Services Administration | His Majesty Sultan Haji Hassanal Bolkiah Mu'izzaddin Waddaulah ibni Al-Marhum Sultan haji Omar `Ali Saifuddien Sa'adul Khairi Waddien, Sultan and Yang Di-Pertuan of Brunei Darussalam | Non-acceptance would cause embarrassment to donor and U.S. Government.
The Honorable William E. Todd, U.S. Ambassador to Brunei Darussalam | Montblanc rollerball pen. Rec'd—6/3/2010. Est. Value—$385.00. Disposition—Pending Transfer to General Services Administration | His Excellency Al Muhtaogg Billad, Senior Minister of Brunei Darussalam | Non-acceptance would cause embarrassment to donor and U.S. Government.
The Honorable William E. Todd, U.S. Ambassador to Brunei Darussalam | Picture frame. Rec'd—6/3/2010. Est. Value—$900.00. Disposition—Pending Transfer to General Services Administration | His Excellency Mohamed Bolkiah ibni Al-Marhum Sultan Haji Omar `Ali Saifuddien Sa'adul Khairi Waddien, Foreign Minister of Brunei Darussalam | Non-acceptance would cause embarrassment to donor and U.S. Government.
Daniel Goodspeed, U.S. Consul General | Frederique Constant watch. Rec'd—6/7/2010. Est. Value—$533.00. Disposition—Pending Transfer to General Services Administration | Faisal Al-Sudairy, Deputy Consul General of the Saudi Consulate in Los Angeles | Non-acceptance would cause embarrassment to donor and U.S. Government.
Andrew Smkin, U.S. Consul General | Tissot men's watch. Rec'd—9/13/2010. Est. Value—$450.00. Disposition—Pending Transfer to General Services Administration | Anna Centenary Library, Government of the Tamil Nadu, Republic of India | Non-acceptance would cause embarrassment to donor and U.S. Government.
Laurie M. Major, Deputy Consul General | Gio Monaco Eclisse diamond wristwatch. Rec'd—11/29/2010. Est. Value—$8,500.00. Disposition—Pending Transfer to General Services Administration | Daham Al-Daham, Deputy Undersecretary for Protocol of the Minister of Foreign Affairs of the Kingdom of Saudi Arabia | Non-acceptance would cause embarrassment to donor and U.S. Government.
Bruce Swartley, Assistant Attache, DHS-ICE and Training Staff | Six Longines dive watches. Rec'd—8/7/2010. Est. Value—$10,200.00. Disposition—Pending Transfer to General Services Administration | Brigadier General Jasim Al Marzouki, Ministry of the Interior of the United Arab Emirates | Non-acceptance would cause embarrassment to donor and U.S. Government.
Lance Bailey, Regional Security Officer | Ebel men's watch (model number 9251K51). Ebel women's watch (model number 9957K21). Rec'd—8/8/2010. Est. Value—$3,150.00. Disposition—Pending Transfer to General Services Administration | Lieutenant General Sheikh Rashed bin Abdulla Al-Khalifa, Minister of Interior of the Kingdom of Bahrain | Non-acceptance would cause embarrassment to donor and U.S. Government.
Alexander Laskaris, Team Leader, RRT Erbil Iraqi Kurdistan Region | Longines Conquistador watch. Rec'd—10/22/2010. Est. Value—$840.00. Disposition—Pending Transfer to General Services Administration | Mr. Kosrat Rasul, Vice President of the Kurdistan Regional Government of the Patriotic Union of Kurdistan, The Republic of Iraq | Non-acceptance would cause embarrassment to donor and U.S. Government.
Alys Spensley, Consulate Expo Liaison Officer | Collection of Chinese traditional flower paintings. Rec'd—11/9/2010. Est. Value—$338.00. Disposition—Pending Transfer to General Services Administration | Shanghai Expo Bureau Protocol Officer, People's Republic of China | Non-acceptance would cause embarrassment to donor and U.S. Government.

AGENCY—Administrative Office of the United States Courts
[Report of Tangible Gifts Furnished by the Administrative Office of the U.S. Courts]
Name and title of person accepting the gift on behalf of the U.S. Government | Gift, date of acceptance on behalf of the U.S. Government, estimated value, and current disposition or location | Identity of foreign donor and government | Circumstances justifying acceptance
The Honorable John G. Roberts, Jr., Chief Justice | Soapstone bookends. Rec'd—3/28/2010. Est. Value—$414.00. Disposition—United States Supreme Court | The Right Honorable Beverly McLachlin, Supreme Court of Canada | Non-acceptance would cause embarrassment to donor and U.S. Government.
The Honorable John G. Roberts, Jr., Chief Justice | Leather document box. Rec'd—5/26/2010. Est. Value—$400.00. Disposition—United States Supreme Court | His Excellency Giorgio Napolitano, President of the Italian Republic | Non-acceptance would cause embarrassment to donor and U.S. Government.
The Honorable James F. Holderman United States Chief Judge, Northern District of Illinois | 12” Tai-Hwa Pottery painted porcelain platter, title: “Happy Family”. Rec'd—10/19/2010. Est. Value—More than Minimal Value. Disposition—United States District Court for the Northern District of Illinois | High Court of Taiwan | Non-acceptance would cause embarrassment to donor and U.S. Government.
The Honorable James F. Holderman United States Chief Judge, Northern District of Illinois | Hsiao Fang Pottery white porcelain tea set. Rec'd—10/20/2010. Est. Value—More than Minimal Value. Disposition—United States District Court for the Northern District of Illinois | Intellectual Property Court of Taiwan | Non-acceptance would cause embarrassment to donor and U.S. Government.
The Honorable James F. Holderman United States Chief Judge, Northern District of Illinois | Tai-Hwa Pottery porcelain vessel and wooden base. Rec'd—10/21/2010. Est. Value—More than Minimal Value. Disposition—United States District Court for the Northern District of Illinois | Taichung Branch of the High Court of Taiwan | Non-acceptance would cause embarrassment to donor and U.S.
The Honorable James F. Holderman United States Chief Judge, Northern District of Illinois | Cochin ceramic plaque with personalized dedication. Rec'd—10/22/2010. Est. Value—More than Minimal Value. Disposition—United States District Court for the Northern District of Illinois | Tainan Branch of the High Court of Taiwan | Non-acceptance would cause embarrassment to donor and U.S. Government.
The Honorable James F. Holderman United States Chief Judge, Northern District of Illinois | Chu Ken engraved glass and Lazurite swan figure sculpture. Taiwan Post Co., Ltd. Taoyuan Lantern Festival stamp book. Year of Tiger figurine. Rec'd—10/24/2010. Est. Value—More than Minimal Value. Disposition—United States District Court for the Northern District of Illinois | The Honorable Su Jia-Ming, Mayor of Taoyuan City of Taiwan | Non-acceptance would cause embarrassment to donor and U.S. Government.

AGENCY—Central Intelligence Agency
[Report of Tangible Gifts Furnished by the Central Intelligence Agency]
Name and title of person accepting the gift on behalf of the U.S. Government | Gift, date of acceptance on behalf of the U.S. Government, estimated value, and current disposition or location | Identity of foreign donor and government | Circumstances justifying acceptance
The Honorable Leon E. Panetta, Director of the Central Intelligence Agency | Short sword with a single edge curved blade in a steel scabbard with a tiger head pommel. Rec'd—09/29/2009. Est. Value—$1,500.00. Disposition—On official display at the Agency | 5 U.S.C. 7342(f)(4) | Non-acceptance would cause embarrassment to donor and U.S. Government.
The Honorable Leon E. Panetta, Director of the Central Intelligence Agency | Antique revolver. Rec'd—11/23/2009. Est. Value—$1,500.00. Disposition—On official display at the Agency | 5 U.S.C. 7342(f)(4) | Non-acceptance would cause embarrassment to donor and U.S. Government.
The Honorable Leon E. Panetta, Director of the Central Intelligence Agency | Yellow gold mounted glass model of a chariot on a mirrored wooden base. Rec'd—01/28/2010. Est. Value—$2,500.00. Disposition—On official display at the Agency | 5 U.S.C. 7342(f)(4) | Non-acceptance would cause embarrassment to donor and U.S. Government.
The Honorable Leon E. Panetta, Director of the Central Intelligence Agency | Firenze Viscante fountain pen in a red leather case. Rec'd—2/23/2010. Est. Value—$500.00. Disposition—Pending Transfer to General Services Administration | 5 U.S.C. 7342(f)(4) | Non-acceptance would cause embarrassment to donor and U.S. Government.
The Honorable Leon E. Panetta, Director of the Central Intelligence Agency | Oblong mother of pearl picture of the Nativity Church of Bethlehem. Rec'd—04/22/2010. Est. Value—$800.00. Disposition—Pending Transfer to General Services Administration | 5 U.S.C. 7342(f)(4) | Non-acceptance would cause embarrassment to donor and U.S. Government.
The Honorable Leon E. Panetta, Director of the Central Intelligence Agency | Double-edged dagger with a metal scabbard and a simulated ivory hilt. Rec'd—04/22/2010. Est. Value—$500.00. Disposition—On official display at the Agency | 5 U.S.C. 7342(f)(4) | Non-acceptance would cause embarrassment to donor and U.S. Government.
The Honorable Leon E. Panetta, Director of the Central Intelligence Agency | Religious framed icon. Rec'd—05/25/2010. Est. Value—$1,000.00. Disposition—Pending Transfer to General Services Administration | 5 U.S.C. 7342(f)(4) | Non-acceptance would cause embarrassment to donor and U.S. Government.
The Honorable Leon E. Panetta, Director of the Central Intelligence Agency | Mont Blanc fountain pen. Rec'd—07/22/2010. Est. Value—$500.00. Disposition—Pending Transfer to General Services Administration | 5 U.S.C. 7342(f)(4) | Non-acceptance would cause embarrassment to donor and U.S. Government.
The Honorable Leon E. Panetta, Director of the Central Intelligence Agency | Yellow gold and green jade replica of the Chonma-Chong crown. Rec'd—10/02/2010. Est. Value—$15,000.00. Disposition—On official display at the Agency | 5 U.S.C. 7342(f)(4) | Non-acceptance would cause embarrassment to donor and U.S. Government.
The Honorable Leon E. Panetta, Director of the Central Intelligence Agency | Double edged dagger in a silver and jeweled scabbard with a white resin handle. Rec'd—12/06/2010. Est. Value—$1,000.00. Disposition—On official display at the Agency | 5 U.S.C. 7342(f)(4) | Non-acceptance would cause embarrassment to donor and U.S. Government.
Mr. Michael J. Morell, Deputy Director | Silver model of an elephant. Rec'd—07/14/2010. Est. Value—$500.00. Disposition—On official display at the Agency | 5 U.S.C. 7342(f)(4) | Non-acceptance would cause embarrassment to donor and U.S. Government.
Mr. Michael J. Morell, Deputy Director | Silver model of an elephant. Rec'd—07/14/2010. Est. Value—$500.00. Disposition—On official display at the Agency | 5 U.S.C. 7342(f)(4) | Non-acceptance would cause embarrassment to donor and U.S. Government.
Mr. Michael J. Morell, Deputy Director | Single-edge curved sword within a gold and silver inlaid steel scabbard. Rec'd—08/02/2010. Est. Value—$1,500.00. Disposition—On official display at the Agency | 5 U.S.C. 7342(f)(4) | Non-acceptance would cause embarrassment to donor and U.S. Government.
Mr. Michael J. Morell, Deputy Director | Bronze figure of an infantryman. Rec'd—11/03/2010. Est. Value—$2,500.00. Disposition—On official display at the Agency | 5 U.S.C. 7342(f)(4) | Non-acceptance would cause embarrassment to donor and U.S. Government.
Mr. Michael J. Morell, Deputy Director | Silver footed bowl. Rec'd—12/13/2010. Est. Value—$1,500.00. Disposition—On official display at the Agency | 5 U.S.C. 7342(f)(4) | Non-acceptance would cause embarrassment to donor and U.S. Government.
An Agency Employee | Silver-plated ivory necklace, bracelet, earrings, and ring. Rec'd—10/01/2003. Est. Value—$800.00. Disposition—Pending Transfer to General Services Administration | 5 U.S.C. 7342(f)(4) | Non-acceptance would cause embarrassment to donor and U.S. Government.
An Agency Employee | 3′4″ x 2′6″ silk carpet. Rec'd—06/20/2005. Est. Value—$800.00. Disposition—Pending Transfer to General Services Administration | 5 U.S.C. 7342(f)(4) | Non-acceptance would cause embarrassment to donor and U.S. Government.
An Agency Employee | 3′11″ x 2′8″ silk carpet. Rec'd—06/20/2005. Est. Value—$2,500.00. Disposition—Pending Transfer to General Services Administration | 5 U.S.C. 7342(f)(4) | Non-acceptance would cause embarrassment to donor and U.S. Government.
An Agency Employee | Ebel sports watch. Rec'd—12/04/2007. Est. Value—$1,000.00. Disposition—Pending Transfer to General Services Administration | 5 U.S.C. 7342(f)(4) | Non-acceptance would cause embarrassment to donor and U.S. Government.
An Agency Employee | Mont Blanc ballpoint pen. Rec'd—12/17/2007. Est. Value—$400.00. Disposition—Pending Transfer to General Services Administration | 5 U.S.C. 7342(f)(4) | Non-acceptance would cause embarrassment to donor and U.S. Government.
An Agency Employee | Baume & Mercier stainless steel wristwatch. Rec'd—12/17/2007. Est. Value—$2,000.00. Disposition—Pending Transfer to General Services Administration | 5 U.S.C. 7342(f)(4) | Non-acceptance would cause embarrassment to donor and U.S. Government.
An Agency Employee | 5′ x 3′ silk carpet. Rec'd—12/24/2007. Est. Value—$1,500.00. Disposition—Pending Transfer to General Services Administration | 5 U.S.C. 7342(f)(4) | Non-acceptance would cause embarrassment to donor and U.S. Government.
An Agency Employee | Longines wristwatch. Rec'd—05/02/2009. Est. Value—$500.00. Disposition—Pending Transfer to General Services Administration | 5 U.S.C. 7342(f)(4) | Non-acceptance would cause embarrassment to donor and U.S. Government.
An Agency Employee | Fred Paris women's stainless steel wristwatch with black leather band. Rec'd—6/22/2009. Est. Value—$3,500.00. Disposition—Pending Transfer to General Services Administration | 5 U.S.C. 7342(f)(4) | Non-acceptance would cause embarrassment to donor and U.S. Government.
An Agency Employee | Fred Paris women's stainless steel wristwatch with black leather band. Rec'd—6/22/2009. Est. Value—$3,500.00. Disposition—Pending Transfer to General Services Administration | 5 U.S.C. 7342(f)(4) | Non-acceptance would cause embarrassment to donor and U.S. Government.
An Agency Employee | Two stainless steel wristwatches, leather wallets, and ballpoint pen sets. Rec'd—08/19/2009. Est. Value—$4,000.00. Disposition—Pending Transfer to General Services Administration | 5 U.S.C. 7342(f)(4) | Non-acceptance would cause embarrassment to donor and U.S. Government.
An Agency Employee | Baume & Mercier stainless steel wristwatch. Rec'd—12/24/2009. Est. Value—$1,800.00. Disposition—Pending Transfer to General Services Administration | 5 U.S.C. 7342(f)(4) | Non-acceptance would cause embarrassment to donor and U.S. Government.
An Agency Employee | Baume & Mercier stainless steel wristwatch and a twisted five-strand pearl necklace. Rec'd—12/24/2009. Est. Value—$3,000.00. Disposition—Pending Transfer to General Services Administration | 5 U.S.C. 7342(f)(4) | Non-acceptance would cause embarrassment to donor and U.S. Government.
An Agency Employee | Silk carpet. Rec'd—1/6/2010. Est. Value—$1,100.00. Disposition—Retained for display in emplyee's office | 5 U.S.C. 7342(f)(4) | Non-acceptance would cause embarrassment to donor and U.S. Government.
An Agency Employee | Longines wristwatch. Rec'd—01/19/2010. Est. Value—$1,500.00. Disposition—Pending Transfer to General Services Administration | 5 U.S.C. 7342(f)(4) | Non-acceptance would cause embarrassment to donor and U.S. Government.
An Agency Employee | 9′9″ x 6′9″ carpet. Rec'd—04/08/2010. Est. Value—$4,500.00. Disposition—Pending Transfer to General Services Administration | 5 U.S.C. 7342(f)(4) | Non-acceptance would cause embarrassment to donor and U.S. Government.
An Agency Employee | Stainless steel Longines women's wristwatch. Rec'd—4/22/2010. Est. Value—$450.00. Disposition—Pending Transfer to General Services Administration | 5 U.S.C. 7342(f)(4) | Non-acceptance would cause embarrassment to donor and U.S. Government.
An Agency Employee | Stainless steel Longines wristwatch. Rec'd—4/22/2010. Est. Value—$750.00. Disposition—Pending Transfer to General Services Administration | 5 U.S.C. 7342(f)(4) | Non-acceptance would cause embarrassment to donor and U.S. Government.
An Agency Employee | Frederique Constant stainless steel wristwatch with a brown leather band. Rec'd—05/07/2010. Est. Value—$1,400.00. Disposition—Pending Transfer to General Services Administration | 5 U.S.C. 7342(f)(4) | Non-acceptance would cause embarrassment to donor and U.S. Government.
An Agency Employee | Gold necklace, earrings, and bracelet. Rec'd—5/11/2010. Est. Value—$3,000.00. Disposition—Pending Transfer to General Services Administration | 5 U.S.C. 7342(f)(4) | Non-acceptance would cause embarrassment to donor and U.S. Government.
An Agency Employee | Breitling Black enamel and stainless steel watch with a blue rubber band. Rec'd—05/12/2010. Est. Value—$2,800.00. Disposition—Pending Transfer to General Services Administration | 5 U.S.C. 7342(f)(4) | Non-acceptance would cause embarrassment to donor and U.S. Government.
An Agency Employee | Cartier fountain and ballpoint pen set. Rec'd—05/27/2010. Est. Value—$1,000.00. Disposition—Pending Transfer to General Services Administration | 5 U.S.C. 7342(f)(4) | Non-acceptance would cause embarrassment to donor and U.S. Government.
An Agency Employee | Corum stainless steel watch. Rec'd—05/30/2010. Est. Value—$500.00. Disposition—Pending Transfer to General Services Administration | 5 U.S.C. 7342(f)(4) | Non-acceptance would cause embarrassment to donor and U.S. Government.
An Agency Employee | Javial men's wristwatch. Javial pen. Javial wallet. Rec'd—6/15/2010. Est. Value—$450.00. Disposition—Pending Transfer to General Services Administration | 5 U.S.C. 7342(f)(4) | Non-acceptance would cause embarrassment to donor and U.S. Government.
An Agency Employee | Men's Ebel watch. Women's Ebel watch. Two Apple iPads with docking stations. Rec'd—6/15/2010. Est. Value—$4,700.00. Disposition—Pending Transfer to General Services Administration | 5 U.S.C. 7342(f)(4) | Non-acceptance would cause embarrassment to donor and U.S. Government.
An Agency Employee | Mont Blanc pen. Set of cufflinks. Rec'd—6/20/2010. Est. Value—$775.00. Disposition—Pending Transfer to General Services Administration | 5 U.S.C. 7342(f)(4) | Non-acceptance would cause embarrassment to donor and U.S. Government.
An Agency Employee | Raymond Well Collection Tango wristwatch. Rec'd—6/20/2010. Est. Value—$850.00. Disposition—Pending Transfer to General Services Administration | 5 U.S.C. 7342(f)(4) | Non-acceptance would cause embarrassment to donor and U.S. Government.
An Agency Employee | White gold necklace with diamonds in the pendant. Rec'd—6/26/2010. Est. Value—$2,500.00. Disposition—Pending Transfer to General Services Administration | 5 U.S.C. 7342(f)(4) | Non-acceptance would cause embarrassment to donor and U.S. Government.
An Agency Employee | Louis Vuitton silk shawl. Rec'd—7/23/2010. Est. Value—$450.00. Disposition—Pending Transfer to General Services Administration | 5 U.S.C. 7342(f)(4) | Non-acceptance would cause embarrassment to donor and U.S. Government.
An Agency Employee | N.O.A. Driver's wristwatch. Rec'd—07/26/2010. Est. Value—$4,800.00. Disposition—Pending Transfer to General Services Administration | 5 U.S.C. 7342(f)(4) | Non-acceptance would cause embarrassment to donor and U.S. Government.
An Agency Employee | N.O.A. automatic chronograph limited edition wristwatch. Rec'd—7/26/2010. Est. Value—$4,000.00. Disposition—Pending Transfer to General Services Administration | 5 U.S.C. 7342(f)(4) | Non-acceptance would cause embarrassment to donor and U.S. Government.
An Agency Employee | N.O.A. automatic chronograph limited edition wristwatch. Rec'd—7/26/2010. Est. Value—$4,000.00. Disposition—Pending Transfer to General Services Administration | 5 U.S.C. 7342(f)(4) | Non-acceptance would cause embarrassment to donor and U.S. Government.
An Agency Employee | Mont Blanc ballpoint pen. Black wallet. Cologne. Rec'd—08/02/2010. Est. Value—$700.00 . Disposition—Pending Transfer to General Services Administration | 5 U.S.C. 7342(f)(4) | Non-acceptance would cause embarrassment to donor and U.S. Government.
An Agency Employee | Collection of spa products. Plaque with a metal design. Two Hugo Boss ties. Bottle of Chanel Chance perfume. Silver sword with a filigree design encased in a wooden box. Rec'd—8/2/2010. Est. Value—$1,250.00. Disposition—Pending Transfer to General Services Administration | 5 U.S.C. 7342(f)(4) | Non-acceptance would cause embarrassment to donor and U.S. Government.
An Agency Employee | Mont Blanc belt. Mont Blanc cufflinks. Terr D'Hermes Cologne. Plaque with a metal design. Rec'd—8/2/2010. Est. Value—$805.00. Disposition—Pending Transfer to General Services Administration | 5 U.S.C. 7342(f)(4) | Non-acceptance would cause embarrassment to donor and U.S. Government.
An Agency Employee | Black Navigator commander Titan wristwatch. Rec'd—8/5/2010. Est. Value—$400.00. Disposition—Pending Transfer to General Services Administration | 5 U.S.C. 7342(f)(4) | Non-acceptance would cause embarrassment to donor and U.S. Government.
An Agency Employee | His and hers Omega stainless steel watches. Rec'd—11/01/2010. Est. Value—$3,500.00. Disposition—Pending Transfer to General Services Administration | 5 U.S.C. 7342(f)(4) | Non-acceptance would cause embarrassment to donor and U.S. Government.
An Agency Employee | Baume and Mercier Classimo Executive wristwatch with brown leather band. Rec'd—12/6/2010. Est. Value—$3,500.00. Disposition—Pending Transfer to General Services Administration | 5 U.S.C. 7342(f)(4) | Non-acceptance would cause embarrassment to donor and U.S. Government.
An Agency Employee | Baume and Mercier Classimo Executive wristwatch with a black leather band. Rec'd—12/6/2010. Est. Value—$4,000.00. Disposition—Pending Transfer to General Services Administration | 5 U.S.C. 7342(f)(4) | Non-acceptance would cause embarrassment to donor and U.S. Government.
An Agency Employee | Baume and Mercier wristwatch with a silver face and black leather band. Rec'd—12/6/2010. Est. Value—$3,500.00. Disposition—Pending Transfer to General Services Administration | 5 U.S.C. 7342(f)(4) | Non-acceptance would cause embarrassment to donor and U.S. Government.
An Agency Employee | Baume & Mercier stainless steel wristwatch with a brown leather band. Rec'd—12/10/2010. Est. Value—$5,000.00. Disposition—Pending Transfer to General Services Administration | 5 U.S.C. 7342(f)(4) | Non-acceptance would cause embarrassment to donor and U.S. Government.
An Agency Employee | Rado Chronograph wristwatch. Rec'd—12/29/2010. Est. Value—$700.00. Disposition—Pending Transfer to General Services Administration | 5 U.S.C. 7342(f)(4) | Non-acceptance would cause embarrassment to donor and U.S. Government.

AGENCY: Department of Agriculture
[Report of Tangible Gifts Furnished by the Department of Agriculture]
Name and title of person accepting the gift on behalf of the U.S. Government | Gift, date of acceptance on behalf of the U.S. Government, estimated value, and current disposition or location | Identity of foreign donor and government | Circumstances justifying acceptance
The Honorable Thomas Vilsack, Secretary of Agriculture of the United States | 5′ x 7′ hand-knotted rug. Rec'd—1/11/2010. Est. Value—$2,000.00. Disposition—Retained in the FFAS Under Secretary's office as an official gift | His Excellency Hamid Karzai, President of the Islamic Republic of Afghanistan | Non-acceptance would cause embarrassment to donor and U.S. Government.
The Honorable Thomas Vilsack, Secretary of Agriculture of the United States | Kutani porcelain flower vase. 9″ by 10″ framed paper art by Issei Yamauchi. Rec'd—04/08/2010. Est. Value—$975.00. Disposition—Retained in the Secretary's office as an official gift; Art retained in FAS Administrator's office as an official gift | Hirotaka Akamatsu, Minister of Agriculture of Japan | Non-acceptance would cause embarrassment to donor and U.S. Government.
The Honorable Thomas Vilsack, Secretary of Agriculture of the United States | Lapis stones gathered into a bunch of grapes. Rec'd—09/30/2010. Est. Value—$367.00. Disposition—Retained in the Deputy Secretary's office as an official gift | His Excellency Arturo Fermandois, Ambassador of Chile to the United States | Non-acceptance would cause embarrassment to donor and U.S. Government.

AGENCY: Department of Commerce
[Report of Tangible Gifts and Travel Furnished by the Department of Commerce]
Name and title of person accepting the gift on behalf of the U.S. Government | Gift, date of acceptance on behalf of the U.S. Government, estimated value, and current disposition or location | Identity of foreign donor and government | Circumstances justifying acceptance
The Honorable Gary F. Locke, Secretary of Commerce of the United States | 10′ x 13′ Afghan hand-knotted Soumak rug. Rec'd—08/11/2010. Est. Value—$1,165.99. Disposition—Official Use in Herbert C. Hoover Building (room 6521) | Minister Wahidullah Shahsani, Minister of Commerce and Industries of the Islamic Republic of Afghanistan | Non-acceptance would cause embarrassment to donor and U.S. Government.
Gwen Lyle, Commercial Officer | TRAVEL: To attend the 3rd tourism working group meeting. Rec'd—1/12/2010. Est. Value—$440.00 | China National Tourism Administration | Non-acceptance would cause embarrassment to donor and U.S. Government.
Claudia Salgado, Commercial Assistant | TRAVEL: Show organizers are interested with U.S. Trade Exports. Rec'd—1/14/2010. Est. Value—$811.48 | The California Gift Show and LA Mart (Mexico City, Mexico) | Non-acceptance would cause embarrassment to donor and U.S. Government.
Martha Sanchez, Commercial Assistant | TRAVEL: To attend franchise trade-show, FEES. Rec'd—1/14/2010. Est. Value—$796.00 | Feher & Feher Consultoria en Gegocios y Franquicias (Mexico City, Mexico) | Non-acceptance would cause embarrassment to donor and U.S. Government.
Peng Aiqun, Commercial Specialist | TRAVEL: To attend Chongqing Foreign Government Loan Promotional Seminar. Rec'd—1/23/2010. Est. Value—$635.00 | Chongqing Bureau of Finance, People's Republic of China | Non-acceptance would cause embarrassment to donor and U.S. Government.
Deborah Cooney, Commercial Specialist | TRAVEL: To attend 2010 Sino/US leadership summit. Rec'd—1/28-30/2010. Est. Value—$388.00 | China National Tourism Administration | Non-acceptance would cause embarrassment to donor and U.S. Government.
David Gossack, Principal Commercial Officer | TRAVEL: To attend 2010 Sino/US leadership summit. Rec'd—1/28-30/2010. Est. Value—$388.00 | China National Tourism Administration | Non-acceptance would cause embarrassment to donor and U.S. Government.
Andrew Billard, Commercial Officer | TRAVEL: To attend the Invest in America Seminar. Rec'd—1/28-30/2010. Est. Value—$388.00 | Her Excellency Chen Xin, Secretary Chief of International Relations Dept. CCPIT, People's Republic of China | Non-acceptance would cause embarrassment to donor and U.S. Government.
Michelle He, Executive Assistant | TRAVEL: To attend 2010 Sino/US leadership summit. Rec'd—1/28-30/2010. Est. Value—$388.00 | China National Tourism Administration | Non-acceptance would cause embarrassment to donor and U.S. Government.
Silvia Cardenas, Commercial Specialist | TRAVEL: Health Care information Technology Orientation Visit. Rec'd—02/28/2010. Est. Value—$2,336.00 | AERO Expo Organizer Committee (Mexico City, Mexico) | Non-acceptance would cause embarrassment to donor and U.S. Government.
Juan Carlos Prieto, Commercial Specialist | TRAVEL: Health Care information Technology Orientation Visit. Rec'd—02/28/2010. Est. Value—$2,336.00 | ProMexico of the United Mexican States | Non-acceptance would cause embarrassment to donor and U.S. Government.
Fred Elliott, International Trade Specialist | TRAVEL: Travel costs (round trip air fare, lodging, meals, local transportation). Rec'd—03/1-4/2010. Est. Value—$2,725.00 | Puglia Region, the Italian Republic | Non-acceptance would cause embarrassment to donor and U.S. Government.
Geoffrey Bogart, Principal Commercial Officer | TRAVEL: To participate as main speaker during the 1st Student Colloqium “Espiritu Lince” that will take place on UVM Campus in San Luis Potos, SLP. Rec'd—5/24/2010. Est. Value—$360.00 | Universidad del Valle de Mexico-Maestra, Eugenia Santos de Alba, Director of Professional Studies (Monterrey, Mexico) | Non-acceptance would cause embarrassment to donor and U.S. Government.
Juan Herrera, Commercial Specialist | TRAVEL: To attend the Expo Pack event. Rec'd—6/21/2010. Est. Value—$427.50 | Expo Pack—Enrique Guzman—Marketing Director for Latin America (Guadalajara, Mexico) | Non-acceptance would cause embarrassment to donor and U.S. Government.
Yazmin Rojas, Commercial Specialist | TRAVEL: To attend Cosmoprof North America Las Vegas. Rec'd—7/18/2010. Est. Value—$422.07 | Cosmoprof North America 10 (Monterrey, Mexico) | Non-acceptance would cause embarrassment to donor and U.S. Government.
Gwen Lyle, Commercial Officer | TRAVEL: To attend 2010 Sino/US travel leadership summit. Rec'd—10/09/2010. Est. Value—$393.00 | China National Tourism Administration | Non-acceptance would cause embarrassment to donor and U.S. Government.
Mr. Richard R. Craig, Commercial Officer | TRAVEL: Lodgings, local transportation and some meals for Peace Corps Reunion week. Rec'd—10/10-16/2010. Est. Value—$900.00 | The Korea Foundation, Seoul, Korea (82-2) 2046-8527. Ms. Y.K. Lee, www.kf.or.kr | Non-acceptance would cause embarrassment to donor and U.S. Government.
Ellen Lenny-Pessagno, Senior Commercial Officer | TRAVEL: To be one of the key speakers and participate in the IV Meeting of Galician Enterpreneurs Abroad in Santiago de Compostela from Octover 26-27, 2010 for Galician Companies organized by IGAPE (Galician Institute for Economic Promotion). Transporation and lodging. Rec'd—10/26-27/2010. Est. Value—$1,000.00 | IGAPE, Instituto Gallego de Promocion Economica (Investment Support Services for Regional and International Development), Xunta de Galicia Complexo Administrativo San Lazaro 15703 Santiago de Compostela. IGAPE, Instituto Gallego de Promocion Economica Complexo Administrativo San Lazaro 15703 Santiago de Compostela. (Madrid, Spain) | Non-acceptance would cause embarrassment to donor and U.S. Government.
Angela Turrin, Trade Specialist | TRAVEL: CS Spain showcased 5 NTM U.S. companies catalogs at CS's nooth as a result from the partnership with several multipliers. Rec'd—11/4-8/2010. Est. Value—$670.00 | FIRA DE BARCELONA—Hostelco Avda/Reina Ma Cristina, s/n—08004. Barcelona, Spain. TEL 00 34 902 2300 200. Note: FIRA de Barcelona is publicly owned with autonomous company management
Cao Shujuan, Commercial Specialist | TRAVEL: To support China Urban Development Committee. Rec'd—11/16/2010. Est. Value—$2,969.00 | Urban Development Committee of the China Council for the Promotion of International Trade

AGENCY: Department of Justice
[Report of Tangible Gifts Furnished by the Department of Justice]
Name and title of person accepting the gift on behalf of the U.S. Government | Gift, date of acceptance on behalf of the U.S. Government, estimated value, and current disposition or location | Identity of foreign donor and government | Circumstances justifying acceptance
The Honorable Eric H. Holder, Attorney General of the United States | iPad. Rec'd—5/28/2010. Est. Value—$500.00. Disposition—Attorney General's Office for Official Use | Dr. Attilio Fontana, Mayor of Varese, Italian Republic | Non-acceptance would cause embarrassment to donor and U.S. Government.
The Honorable Eric H. Holder, Attorney General of the United States | Cartier watch. Persian rug. Rec'd—9/16/2010. Est. Value—$5,275.00. Disposition—Transferred to General Services Administration; Rug on Display in Attorney General's Office for Official Use | Ali Bin Mohsen Bin Fetais, Attorney General of the State of Qatar | Non-acceptance would cause embarrassment to donor and U.S. Government.

AGENCY: Department of Defense
[Report of Tangible Gifts Furnished by the Department of Defense]
Name and title of person accepting the gift on behalf of the U.S. Government | Gift, date of acceptance on behalf of the U.S. Government, estimated value, and current disposition or location | Identity of foreign donor and government | Circumstances justifying acceptance
The Honorable Robert M. Gates, Secretary of Defense | 16″ x 18″ hand-woven wool Afghan rug pile. Rec'd—12/8/2009. Est. Value—$980.00. Disposition—Pending Transfer to General Services Administration | His Excellency Hamid Karzai, President of the Islamic Republic of Afghanistan | Non-acceptance would cause embarrassment to donor and U.S. Government.
The Honorable Robert M. Gates, Secretary of Defense | Black leather brief case. Silver and gold-finish Parker pen set. Book, title: “Kultur Baskenti Instanbul: The Capital of Cultures.” Umbrella. Writing Tablet. Rec'd—2/2/2010. Est. Value—$480.00. Disposition—Pending Transfer to General Services Administration | His Excellency M. Vecdi Gonul, Minister of National Defense of the Republic of Turkey | Non-acceptance would cause embarrassment to donor and U.S. Government.
The Honorable Robert M. Gates, Secretary of Defense | Silver vase. Filigree necklace set. Rec'd—2/4/2010. Est. Value—$485.00. Disposition—Pending Transfer to General Services Administration | His Excellency M. Vecdi Gonul, Minister of National Defense of the Republic of Turkey | Non-acceptance would cause embarrassment to donor and U.S. Government.
The Honorable Robert M. Gates, Secretary of Defense | Silver replica of a fountain located on the grounds of the Prime Minister's residence. Rec'd—2/4/20. Est. Value—$5,160.00. Disposition—Pending Transfer to General Services Administration | His Excellency Silvio Berlusconi, President of the Council of Ministers of the Italian Republic | Non-acceptance would cause embarrassment to donor and U.S. Government.
The Honorable Robert M. Gates, Secretary of Defense | 4′ x 7′ rug. Turbin from Afghanistan. Rec'd—3/9/2010. Est. Value—$530.00. Disposition—Pending Transfer to General Services Administration | His Excellency Hamid Karzai, President of the Islamic Republic of Afghanistan | Non-acceptance would cause embarrassment to donor and U.S. Government.
The Honorable Robert M. Gates, Secretary of Defense of the United States | Decorative candlestick holders. Rec'd—4/1/2010. Est. Value—$950.00. Disposition—Pending Transfer to General Services Administration | His Majesty Abdullah II ibn Al Hussein, King of the Hashemite Kingdom of Jordan | Non-acceptance would cause embarrassment to donor and U.S. Government.
The Honorable Robert M. Gates, Secretary of Defense | Plaque. Silver palm tree table lamp. Rec'd—5/13/2010. Est. Value—$495.00. Disposition—Pending Transfer to General Services Administration | His Excellency Ridha Grira, Minister of Defense of the Republic of Tunisia | Non-acceptance would cause embarrassment to donor and U.S. Government.
The Honorable Robert M. Gates, Secretary of Defense of the United States | Silver serving tray set. Rec'd—5/20/2010. Est. Value—$430.00. Disposition—Pending Transfer to General Services Administration | His Excellency Saad Hariri, Prime Minister of the Republic of Lebanon | Non-acceptance would cause embarrassment to donor and U.S. Government.
The Honorable Robert M. Gates, Secretary of Defense of the United States | 32 piece hand-made porcelain chess set. Book, title: “Prague Art and History.” Decorative plate with country emblem. Rec'd—6/4/2010. Est. Value—$1,530.00. Disposition—Pending Transfer to General Services Administration | Colonel General Safar Abiyev, Minister of Defense of Azerbaijan | Non-acceptance would cause embarrassment to donor and U.S. Government.
The Honorable Robert M. Gates, Secretary of Defense of the United States | Artwork of gold oasis scene. Rec'd—7/9/2010. Est. Value—$1,400.00. Disposition—Pending Transfer to General Services Administration | His Excellency Abdullah bin Abd al-Aziz Al Saud, Custodian of the Two Holy Mosques, King of the Kingdom of Saudi Arabia | Non-acceptance would cause embarrassment to donor and U.S. Government.
The Honorable Robert M. Gates, Secretary of Defense | Statue of an oryx. Rec'd—10/5/2010. Est. Value—$360.00. Location—Gift on Display at Pentagon for Official Use | His Excellency Sheikh Hamad bin Jassim bin Jabr Al Thani, Prime Minister and Minister of Foreign Affairs of the State of Qatar | Non-acceptance would cause embarrassment to donor and U.S. Government.
Becky Gates, Spouse of Robert M. Gates, Secretary of Defense | 5′ x 7′ Baku rug with certificate of authenticity for handmade rug. 5′ x 5′ purple silk scarf. Rec'd—6/5/2010. Est. Value—$370.00. Disposition—Pending Transfer to General Services Administration | Mrs. Almas Abiyeva, Spouse of the Minister of Defense of Azerbaijan | Non-acceptance would cause embarrassment to donor and U.S. Government.
Admiral Michael G. Mullen, Chairman of the Joint Chiefs of Staff | Large silver palm tree encased in shadow box. Rec'd—12/19/2009. Est. Value—$460.00. Disposition—Pending Transfer to General Services Administration | Lieutenant General Abdul Qadir Mohammed Jassim, Minister of Defense of the Republic of Iraq | Non-acceptance would cause embarrassment to donor and U.S. Government.
Admiral Michael G. Mullen, Chairman of the Joint Chiefs of Staff | Bottle of Dimple Scotch. Fourteen books. Rec'd—12/20/2009. Est. Value—$393.00. Disposition—Pending Transfer to General Services Administration | His Excellency Husain Haqqani, Ambassador of the Islamic Republic of Pakistan | Non-acceptance would cause embarrassment to donor and U.S. Government.
Admiral Michael G. Mullen, Chairman of the Joint Chiefs of Staff | Italian naval oil painting with certificate. Rec'd—1/10/2010. Est. Value—$755.00. Disposition—Pending Transfer to General Services Administration | Mr. Allan O'Mill, Official Painter of the Italian Navy | Non-acceptance would cause embarrassment to donor and U.S. Government.
The Honorable Admiral Michael G. Mullen USN, Chairman of the Joint Chiefs of Staff of the United States | Gold cross on gold chain. Rec'd—2/9/2010. Est. Value—$545.00. Disposition—Pending Transfer to General Services Administration | His Excellency Lieutenant General Samy Enan, Chief of Staff of the Armed Forces of the Arab Republic of Egypt | Non-acceptance would cause embarrassment to donor and U.S. Government.
The Honorable Admiral Michael G. Mullen USN, Chairman of the Joint Chiefs of Staff of the United States | Gold-plated bird ornament on crystal stand. Rec'd—2/14/2010. Est. Value—$500.00. Disposition—Pending Transfer to General Services Administration | General Gabi Ashkenazi, Chief of Defense of the State of Israel | Non-acceptance would cause embarrassment to donor and U.S. Government.
The Honorable Admiral Michael G. Mullen USN, Chairman of the Joint Chiefs of Staff of the United States | Medium silver bowl. Rec'd—2/14/2010. Est. Value—$370.00. Disposition—Pending Transfer to General Services Administration | His Excellency Lieutenant General Samy Enan, Chief of Staff of the Armed Forces of the Arab Republic of Egypt | Non-acceptance would cause embarrassment to donor and U.S. Government.
The Honorable Admiral Michael G. Mullen, Chairman of the Joint Chiefs of Staff | Silver gift box. Rec'd—2/16/2010. Est. Value—$980.00. Disposition—Pending Transfer to General Services Administration | His Majesty King Abdullah II ibn Al Hussein, King of the Hashemite Kingdom of Jordan | Non-acceptance would cause embarrassment to donor and U.S. Government.
The Honorable Admiral Michael G. Mullen USN, Chairman of the Joint Chiefs of Staff of the United States | Large sword. Rec'd—2/16/10. Est. Value—$425.00. Disposition—Pending Transfer to General Services Administration | Samir Rifai, Chief of Defense of the Hashemite Kingdom of Jordan | Non-acceptance would cause embarrassment to donor and U.S. Government.
The Honorable Admiral Michael G. Mullen USN, Chairman of the Joint Chiefs of Staff of the United States | Crystal tea service set on crystal tray. Rec'd—2/18/2010. Est. Value—$650.00. Location—Official Use at Pentagon | Ms. Hamad Mohammed Thani Al Rumaithi, Wife of Armed Forces Chief of Staff of the United Arab Emirates | Non-acceptance would cause embarrassment to donor and U.S. Government.
The Honorable Admiral Michael G. Mullen, Chairman of the Joint Chiefs of Staff | Silver boom sailing ship in wooden box. Rec'd—4/1/2010. Est. Value—$485.00. Disposition—Pending Transfer to General Services Administration | His Excellency Nasser Mohammed Al Ahmed Al-Sabah, Prime Minister of the State of Kuwait | Non-acceptance would cause embarrassment to donor and U.S. Government.
The Honorable Admiral Michael G. Mullen, Chairman of the Joint Chiefs of Staff | Encased gold sword on display stand. Rec'd—4/1/2010. Est. Value—$2,200.00. Disposition—Pending Transfer to General Services Administration | Lieutenant General Sheikh Ahmad Al-KHaled Al-Hamad Al-Sabah, Chief of Staff of the Kuwaiti Army | Non-acceptance would cause embarrassment to donor and U.S. Government.
The Honorable Admiral Michael G. Mullen, Chairman of the Joint Chiefs of Staff | Saber with curved steel blade and intaglio foliate scrolls on both sides. Plaque. Rec'd—4/22/2010. Est. Value—$400.00. Disposition—Pending Transfer to General Services Administration | His Excellency General of the Army Nikolai Makrov, Chief of General Staff of the Armed Forces of the Russian Federation | Non-acceptance would cause embarrassment to donor and U.S. Government.
The Honorable Admiral Michael G. Mullen, Chairman of the Joint Chiefs of Staff | Medium shield-shaped plaque. Pair of male and female bust portraits. Rec'd—5/10/2010. Est. Value—$405.00. Disposition—Pending Transfer to General Services Administration | Air Chief Marshal P.V. Naik, Chief of the Air Staff, Indian Air Force, India | Non-acceptance would cause embarrassment to donor and U.S. Government.
The Honorable Admiral Michael G. Mullen, Chairman of the Joint Chiefs of Staff | Medium marble candle holder. Rec'd—5/10/2010. Est. Value—$385.00. Location—Gift on Display at Pentagon for Official Use | His Majesty King Abdullah II ibn Al Hussein and Her Majesty Queen Rania Al Abdullah, King and Queen of the Hashemite Kingdom of Jordan | Non-acceptance would cause embarrassment to donor and U.S. Government.
The Honorable Admiral Michael G. Mullen USN, Chairman of the Joint Chiefs of Staff of the United States | Narrow rug. Rec'd—6/14/2010. Est. Value—$1,500.00. Disposition—Pending Transfer to General Services Administration | His Excellency Makhdoom Shah Mehmood Qureshi, Foreign Minister of the Islamic Republic of Pakistan | Non-acceptance would cause embarrassment to donor and U.S. Government.
The Honorable Admiral Michael G. Mullen USN, Chairman of the Joint Chiefs of Staff of the United States | AK 47/Serial #NM 26 1684. Rec'd—6/30/2010. Est. Value—$780.00. Transferred to the Department of the Army | General Freddy Padilla de Leon, Commander of the Military Forces of the Republic of Colombia | Non-acceptance would cause embarrassment to donor and U.S. Government.
The Honorable Admiral Michael G. Mullen, Chairman of the Joint Chiefs of Staff | Saber with black curved steel blade. Rec'd—7/13/2010. Est. Value—$450.00. Disposition—Pending Transfer to General Services Administration | Brigidier General Abdulla Saeed Al-Mansoori, Royal Bahrain Naval Forces Commander | Non-acceptance would cause embarrassment to donor and U.S. Government.
The Honorable Admiral Michael G. Mullen, Chairman of the Joint Chiefs of Staff | Envelope opener. Key ring. Business card case. Rec'd—7/21/2010. Est. Value—$385.00. Disposition—Pending Transfer to General Services Administration | His Excellency Kim Tae-young, Minister of Defense of the Republic of Korea | Non-acceptance would cause embarrassment to donor and U.S. Government.
The Honorable Admiral Michael G. Mullen, Chairman of the Joint Chiefs of Staff | Bohemia cyrstal vase. Praha crystal plate. Rec'd—7/29/2010. Est. Value—$494.00. Disposition—Pending Transfer to General Services Administration | General Vlastimil Picek, Chief of the General Staff of the Armed Forces of the Czech Republic | Non-acceptance would cause embarrassment to donor and U.S. Government.
The Honorable Admiral Michael G. Mullen, Chairman of the Joint Chiefs of Staff | Plaque in presentation box. Scarf. Jewelry box. Rec'd—10/6/2010. Est. Value—$395.00. Disposition—Pending Transfer to General Services Administration | Major General Hazim Attallah, Chief of Palestinian Civil Police | Non-acceptance would cause embarrassment to donor and U.S. Government.
The Honorable Admiral Michael G. Mullen, Chairman of the Joint Chiefs of Staff | Vase with canted top and bottom. Green scarf with paisley pattern and metallic threads. Cuff bracelets of lapis lazuli panels set in silver. Two cleaning brushes. Rec'd—Unknown. Est. Value—$524.00. Disposition—Pending Transfer to General Services Administration | Unknown Foreign Government Official of the Islamic Republic of Afghanistan | Non-acceptance would cause embarrassment to donor and U.S. Government.
The Honorable Assistant Secretary of Defense, Alexander Vershbow, OSD Policy | Kutahya Porselen vase. Vakko silk scarf. Rec'd—12/16/2009. Est. Value—$395.00. Disposition—Pending Transfer to General Services Administration | His Excellency Aslan Guner, Deputy Chief of Defense of the Republic of Turkey | Non-acceptance would cause embarrassment to donor and U.S. Government.
Deputy Assistant Secretary of Defense, Michael Schiffer, OSD Policy | Amber-color crystal Chinese calligraphy writing set. Rec'd—12/17/2009. Est. Value—$980.00. Location—Gift on Display at Pentagon | Major General Qian Lihua, Director of the Foreign Affairs Office of the Ministry of National Defense of the People's Republic of China | Non-acceptance would cause embarrassment to donor and U.S. Government.
The Honorable Assistant Secretary of Defense, Alexander Vershbow, OSD Policy | Personalized engraved plaque. Ballpoint pen. Fountain pen with gold ring and cap. Rec'd—12/16/2009. Est. Value—$375.00. Disposition—Pending Transfer to General Services Administration | His Excellency Aslan Guner, Deputy Chief of Defense of the Republic of Turkey | Non-acceptance would cause embarrassment to donor and U.S. Government.
Gen. James E. Cartwright, Vice Chairman, Joint Chiefs of Staff | Pen set with display box. Wooden plaque. Rec'd—12/16/2009. Est. Value—$375.00. Disposition—Pending Transfer to General Services Administration | His Excellency Aslan Guner, Deputy Chief of Defense of the Republic of Turkey | Non-acceptance would cause embarrassment to donor and U.S. Government.
Country Director for Bahrain, OSD Policy, Andre Sekowski | Wallet and pen set. Rec'd—12/29/2009. Est. Value—$790.00. Disposition—Pending Transfer to General Services Administration | Staff Brigadier General Abdulrahman Ibrahim Al-Hemaidi, Defense Military, Naval, and Air Attaché of the State of Qatar | Non-acceptance would cause embarrassment to donor and U.S. Government.
The Honorable Assistant Secretary of Defense, Alexander Vershbow, OSD Policy | Desk clock. Watch, wallet, pen, and cufflinks in accessory box. Rec'd—1/14/2010. Est. Value—$6,090. Disposition—Pending Transfer to General Services Administration | Brigadier General Abdulla Juma'an, General Coordinator of the Qatar Armed Forces | Non-acceptance would cause embarrassment to donor and U.S. Government.
Principal Deputy Assistant Secretary of Defense for International Security Affairs, Joseph McMillan, OSD Policy | Desk clock. Watch, wallet, pen, and cufflinks in accessory box. Rec'd—1/15/2010. Est. Value—$6,090. Disposition—Pending Transfer to General Services Administration | Brigadier General Abdulla Juma'an, General Coordinator of the Qatar Armed Forces | Non-acceptance would cause embarrassment to donor and U.S. Government.
Event Planner, Martha Jordan, OSD Policy | Carven stainless steel and coppertone wristwatch. Pierre Cardin black ink ballpoint pen. Rec'd—1/15/2010. Est. Value—$2,185.00. Disposition—Pending Transfer to General Services Administration | Brigadier General Abdulla Juma'an, General Coordinator of the Qatar Armed Forces | Non-acceptance would cause embarrassment to donor and U.S. Government.
Country Director for Bahrain, OSD Policy, Andre Sekowski, | Wallet, cufflinks, pen, and watch in presentation box. Rec'd—1/15/2010. Est. Value—$790.00. Disposition—Pending Transfer to General Services Administration | Brigadier General Abdulla Juma'an, General Coordinator of the Qatar Armed Forces | Non-acceptance would cause embarrassment to donor and U.S. Government.
Principal Deputy Assistant Secretary of Defense, Joseph McMillan | Artwork of silver ship displaying the flag of Kuwait, the capital building, and a gold oasis scene. Rec'd—1/26/2010. Est. Value—$980.00. Disposition—Pending Transfer to General Services Administration | Major General Abdulrahman Al-Othman, Assistant Chief of Staff for Operations and Plans of the Kuwait Armed Forces, Kuwait | Non-acceptance would cause embarrassment to donor and U.S. Government.
Vice Admiral Jeffrey A. Wieringa, Director, Defense Security Cooperation Agency | Men's two-toned Eco-Drive Citizen watch; Women's gold bracelet with diamonds. Rec'd—4/9/2010. Est. Value—$1,160.00. Disposition—Pending Transfer to General Services Administration | Major General and Mrs. Mohamed Elkeshky, Defense, Military, Naval & Air Attaché of the Arab Republic of Egypt and Spouse, and Vice Admiral and Mrs. Mohab Mameesh, Commander in Chief of the Egyptian Naval Forces | Non-acceptance would cause embarrassment to donor and U.S. Government.
Mrs. Sandee Cartwright, Spouse of Vice Chairman Joint Chiefs of Staff James Cartwright | Square tablecloth. Haddad Cutlery manicure set. Haddad Cutlery six-piece serving set. Rec'd—4/15/2010. Est. Value—$645.00. Disposition—Pending Transfer to General Services Administration | Najwa Fakhr Al Din, Spouse of the Vice Chief of Defense of the Republic of Lebanon | Non-acceptance would cause embarrassment to donor and U.S. Government.
The Honorable William J. Lynn III, Deputy Secretary of Defense | Decorative candle holder. Rec'd—4/21/10. Est. Value—$385.00. Disposition—Pending Transfer to General Services Administration | His Majesty King Abdullah II ibn Al Hussein, Her Majesty Queen Rania Al Abdullah, King and Queen of the Hashemite Kingdom of Jordan and Prince Zeid Raad Zied Al-Hussein, Ambassador of the Hashemite Kingdom of Jordan | Non-acceptance would cause embarrassment to donor and U.S. Government.
Andre Sekowski, Country Director for Bahrain, OSD Policy | Book, title: “Mosaic: A Journey Through the Multi-faceted world of Bahrain's Arts and Crafts.” Maurice-Lacroix men's wristwatch. Rec'd—5/20/2010. Est. Value—$1,167.00. Disposition—Pending Transfer to General Services Administration | His Royal Highesn Salman bin Hamad, Crown Prince of the Kingdom of Bahrain | Non-acceptance would cause embarrassment to donor and U.S. Government.
The Honorable Under Secretary of Defense Michele Flournoy, OSD Policy | Painting of a duck by Mohammad Mandi. Rec'd—6/29/2010. Est. Value—$970.00. Location—Gift on Display at Pentagon | His Excellency Dr. Anwar Mohammad Gargash, Minister of State for Foreign Affairs of the United Arab Emirates | Non-acceptance would cause embarrassment to donor and U.S. Government.
Principal Deputy Under Secretary of Defense, James Miller, OSD Policy | Two pens in black and gold. Rec'd—7/1/2010. Est. Value—$785.00. Location—Gift on Display at Pentagon | His Excellency Lee Myung-bak, President of the Republic of Korea | Non-acceptance would cause embarrassment to donor and U.S. Government.
Deputy Assistant Secretary of Defense, Celeste Wallander, OSD Policy | Plaque. CD, title: “Dedicated to the victims of the Armenia Genocide of 1915.” Book, title: “Jansem.” Book, title: “Western Media Coverage of the Nagorno-Karabekh Conflict in 1988-1990.” Pamphlet, title: “Remembering and Understanding the Armenian Genocide.” Armed Forces of Armenia round gold coin. Rec'd—7/1/2010. Est. Value—$453.00. Disposition—Pending Transfer to General Services Administration | His Excellency Seyrah Ohanyan, Minister of Defense of the Republic of Armenia | Non-acceptance would cause embarrassment to donor and U.S. Government.
Gen. James E. Cartwright, Vice Chairman, Joint Chiefs of Staff | Miniature Pounamu Mere in a display box. Rec'd—7/19/2010. Est. Value—$585.00. Disposition—Pending Transfer to General Services Administration | Rear Admiral Jack Steer, Chief of the Royal New Zealand Navy | Non-acceptance would cause embarrassment to donor and U.S. Government.
Asian and Pacific Security Affairs, Chip Gregson, OSD Policy | Business card case. Envelope opener. Key ring. Rec'd—7/21/2010. Est. Value—$380.00. Disposition—Pending Transfer to General Services Administration | His Excellency Yu Myung-hwan, Minister of Foreign Affairs and Trade of the Republic of Korea | Non-acceptance would cause embarrassment to donor and U.S. Government.
Senior Taiwan Director, Joseph Skinner, OSD Policy | Glass paperweight featuring birds and grapes. Rec'd—8/5/2010. Est. Value—$385.00. Disposition—Pending Transfer to General Services Administration | The Honorable Dr. Hu Wei-Jen, Secretary General of the Taiwan National Security Council | Non-acceptance would cause embarrassment to donor and U.S. Government.
Principal Deputy Assistant Secretary of Defense, Asian and Pacific Security Affairs Derek Mitchell, OSD Policy | Single strand pearl necklace. Bed cover and two pillowcases with hand-embroidered designs. Rec'd—8/6/2010. Est. Value—$1,510.00. Disposition—Pending Transfer to General Services Administration | General Md Abdul Mubeen, Chief of Army Staff of Bangladesh | Non-acceptance would cause embarrassment to donor and U.S. Government.
Senior Taiwan Director, Joseph Skinner, OSD Policy | Glass paperweight featuring birds and grapes. Rec'd—8/5/2010. Est. Value—$385.00. Disposition—Pending Transfer to General Services Administration | The Honorable Dr. Hu Wei-Jen, Secretary General of the Taiwan National Security Council | Non-acceptance would cause embarrassment to donor and U.S. Government.
The Honorable Assistant Secretary of Defense, Alexander Vershbow, OSD Policy | Bronze platter with small red rhinestones. Rec'd—9/23/2010. Est. Value—$820.00. Disposition—Pending Transfer to General Services Administration | Under Secretary Hakan Fidan, Director of the Turkish National Intelligence Organization of the Republic of Turkey | Non-acceptance would cause embarrassment to donor and U.S. Government.
Major General William B. Garrett | Framed map of the province of Vicenza, Italy. Rec'd—11/15/2010. Est. Value—$520.00. Disposition—Pending Transfer to General Services Administration | Dr. Achille Variati, Major of Vicenza, Italian | Non-acceptance would cause embarrassment to donor and U.S. Government.
The Honorable Assistant Secretary of Defense, Asian and Pacific Security Affairs, Chip Gregson, OSD Policy | White porcelain vase. Rec'd—11/30/2010. Est. Value—$620.00. Disposition—Pending Transfer to General Services Administration | General (Retired) Liu Dongdong Political Commissar of the Jinan Military Region of the People's Republic of China | Non-acceptance would cause embarrassment to donor and U.S. Government.

AGENCY: Department of the Air Force
[Report of Tangible Gifts Furnished by the Department of the Air Force]
Name and title of person accepting the gift on behalf of the U.S. Government | Gift, date of acceptance on behalf of the U.S. Government, estimated value, and current disposition or location | Identity of foreign donor and government | Circumstances justifying acceptance
The Honorable Michael Wynne, Secretary of the Air Force, Pentagon, Washington DC | French Officer dagger. Rec'd—4/1/2008. Est. Value—$421.00. Disposition—Pending Transfer to General Services Administration | General Stéphane Abrial, Chief of Staff of the French Air Force | Non-acceptance would cause embarrassment to donor and U.S. Government.
The Honorable Michael B. Donley, Secretary of the Air Force, Pentagon, Washington DC | 4′ × 6′ Afghan wool rug. Rec'd—8/28/2009. Est. Value—$550.00. Disposition—Currently on display in the Pentagon, Washington DC, Rm 4E833 | His Excellency Abdul Rahim Wardak, Minister of Defenseof the Islamic Republic of Afghanistan | Non-acceptance would cause embarrassment to donor and U.S. Government.
The Honorable Michael B. Donley, Secretary of the Air Force, Pentagon, Washington DC | 4′ × 6′ Afghan wool rug. Rec'd—8/28/2009. Est. Value—$550.00. Disposition—Currently on display in the Pentagon, Washington DC, Rm 4E833 | Major General Mohammed Darwan of the Afghan National Army Air Corps Commander | Non-acceptance would cause embarrassment to donor and U.S. Government.
The Honorable Michael B. Donley, Secretary of the Air Force, Pentagon, Washington DC | 6′ × 8′ Afghan wool rug. Rec'd—4/1/2008. Est. Value—$1,295.00. Disposition—Currently on display in the Pentagon, Washington DC, Rm 4E833 | Brigadier General Chris Tickell, Chief of Afghan National Air Corps Training | Non-acceptance would cause embarrassment to donor and U.S. Government.
The Honorable Michael B. Donley, Secretary of the Air Force, Pentagon, Washington DC | 4′ × 6′ handmade wool rug. Rec'd—10/14/2009. Est. Value—$550.00. Disposition—Currently on display in the Pentagon, Washington DC, Rm 4E833 | His Excellency Rao Qamar Suleman, Chief of Pakistan Air Force of the Islamic Republic of Pakistan | Non-acceptance would cause embarrassment to donor and U.S. Government.
General Norton Schwartz, Chief of Staff of the Air Force, Pentagon, Washington DC | Torgeon Swiss men's T01101 Chronograph watch. Jewelry case. Rec'd—12/2/2010. Est. Value—$410.00. Disposition—Pending Transfer to General Services Administration | Major General Ahmed Boutaleb, Chief of Staff of the Moroccan Air Force of the Kingdom Morocco | Non-acceptance would cause embarrassment to donor and U.S. Government.
General Norton Schwartz, Chief of Staff of the United States Air Force | Hungarian dagger. Rec'd—12/2/2010. Est. Value—$1,500.00. Disposition—Pending Transfer to General Services Administration | Major General Zoltán Pintér, Chief of Staff of the Hungarian Air Force | Non-acceptance would cause embarrassment to donor and U.S. Government.
Major General Floyd C Williams, Chief, Office of Military Cooperation, Cairo, Egypt | 18-karat gold men's tie clip. Rec'd—1/7/2009. Est. Value—$480.00. Disposition—Pending Transfer to General Services Administration | His Excellency Field Marshal Mohamed Hussein Tantawi, Minister of Defense of the Arab Republic of Egypt | Non-acceptance would cause embarrassment to donor and U.S. Government.
Mrs. Rebecca Williams, wife of Major General Floyd C Williams, Chief, Office of Military Cooperation, Cairo, Egypt | 18-karat gold necklace. Rec'd—11/12/2009. Est. Value—$355.00. Disposition—Pending Transfer to General Services Administration | Vice Admiral Mohab Mameesh, Commander in Chief of the Egyptian Navy | Non-acceptance would cause embarrassment to donor and U.S. Government.
Major General Frederick F. Roggero, Commander Headquarters Air Force Safety Center and Commander Headquarters Air Force Safety, Pentagon, Washington DC | Tag Heuer Aquaracer automatic wristwatch. Rec'd—11/18/2009. Est. Value—$1,800.00. Disposition—Pending Transfer to General Services Administration | Lieutenant General Hamad Mohammed Thani Al Rumaithi, Chief of Staff of the United Arab Emirates Armed Forces | Non-acceptance would cause embarrassment to donor and U.S. Government.
John M. Polhemus, GS-12, Protocol Specialist, 89th Airlift Wing, Joint Base Andrews, MD | Bvlgari Solotempo men's watch ST42SL. Rec'd—2/4/2010. Est. Value—$1,044.00. Disposition—Missing—Report of Survey (#2011-125) determined disappeared and remains to be found | Mr. Ziad Soubra, Chief of Protocol of the Embassy of the State of Qatar | Non-acceptance would cause embarrassment to donor and U.S. Government.
Brigadier General Lyn D Sherlock, Director of Regional Affairs, International Affairs, Pentagon, Washington DC | Silver earrings, necklace, and bracelet set. Rec'd—8/30/2010. Est. Value—$600.00. Disposition—Pending Transfer to General Services Administration | Major General Ahmed Boutaleb, Chief of Staff of the Moroccan Air Force of the Kingdom of Morocco | Non-acceptance would cause embarrassment to donor and U.S. Government.
Colonel Angel Diaz, Director, Host Nation Coordination Cell, 379 Air Expeditionary Wing South West Asia | Black watch. Black ballpoint pen. Pierre Cardin cufflinks. JBR cologne. Rec'd—9/7/2010. Est. Value—$647.00. Disposition—Pending Transfer to General Services Administration | Major General Hamad bin Ali Al-Attiyah, Chief of Staff of the Qatar Armed Forced | Non-acceptance would cause embarrassment to donor and U.S. Government.
Brigadier General Randal A Kee, Commander, 379 Air Expeditionary Wing, South West Asia | Gold watch. Gold ballpoint pen. Pierre Cardin cufflinks. JBR cologne. Rec'd—10/5/2010. Est. Value—$678.00. Disposition—Pending Transfer to General Services Administration | Major General Hamad bin Ali Al-Attiyah, Chief of Staff of the Qatar Armed Forced | Non-acceptance would cause embarrassment to donor and U.S. Government.
Brigadier General Lyn D Sherlock, Director of Regional Affairs, International Affairs, Pentagon, Washington DC | Silver earrings, necklace, and bracelet set. Rec'd—11/10/2010. Est. Value—$550.00. Disposition—Pending Transfer to General Services Administration | Major General Ahmed Boutaleb, Chief of Staff of the Moroccan Air Force of the Kingdom of Morocco | Non-acceptance would cause embarrassment to donor and U.S. Government.
Brigadier General Scott Hansen, 321nd Air Expeditionary Wing Commander and Director, Iraq Training and Advisory Mission—Air Force, Baghdad, Iraq | Men's Baum and Mercier watch. Women's Baum and Mercier watch. Rec'd—12/21/2010. Est. Value—$4,000.00. Disposition—Pending Transfer to General Services Administration | Major General Hamad bin Ali Al-Attiyah, Chief of Staff of the Qatar Armed Forced | Non-acceptance would cause embarrassment to donor and U.S. Government.

AGENCY: Department of the Army
[Report of Tangible Gifts Furnished by the Department of the Army]
Name and title of person accepting the gift on behalf of the U.S. Government | Gift, date of acceptance on behalf of the U.S. Government, estimated value, and current disposition or location | Identity of foreign donor and government | Circumstances justifying acceptance
Colonel John P. Rooney, Commander, US Army Aberdeen Test Center | Baume & Mercier watch. Givenchy brown leather wallet. Givenchy Very Irresistible eau de toilette spray (3.4 oz). Rec'd—1/8/2008. Est. Value—$3,377.00. Disposition—Pending Transfer to General Services Administration | Major General Hamad bin Ali Al-Attiyah, Chief of Staff of the Qatar Armed Forces | Non-acceptance would cause embarrassment to donor and U.S. Government.
Brigadier General (Promotable) Robert B. Brown, O-7, Deputy Commanding General—Support, 25th Infantry Division, Multi-National Division-North, Iraq | Gold and white gold Rado men's Swiss wristwatch. Rec'd—12/8/2008. Est. Value—$2,100.00. Disposition—Pending Transfer to General Services Administration | His Excellency Masoud Barzani, President of the Kurdistan Region of the Republic of Iraq | Non-acceptance would cause embarrassment to donor and U.S. Government.
Lieutenant General Charles H. Jacoby, Jr., O-9, Deputy Commanding General (Operations), US Forces-Iraq & commander, I Corps | Longine's men's watch. Rec'd—4/2/2009. Est. Value—$645.00. Disposition—Purchased through General Services Administration in March 2010 | His Excellency Masoud Barzani, President of the Kurdistan Region of the Republic of Iraq | Non-acceptance would cause embarrassment to donor and U.S. Government.
Brigadier General (Promotable) Robert B. Brown, O-7, Deputy Commanding General—Support, 25th Infantry Division, Multi-National Division-North, Iraq | Silver men's Victorinox Swiss Army men's wristwatch. Rec'd—4/12/2009. Est. Value—$800.00. Disposition—Pending Transfer to General Services Administration | Brigadier General Jameel Ali Ibrahim, Liaison Officer for the Kurdistan Regional Government, Republic of Iraq | Non-acceptance would cause embarrassment to donor and U.S. Government.
Brigadier General (Promotable) Robert B. Brown, O-7, Deputy Commanding General—Support, 25th Infantry Division, Multi-National Division-North, Iraq | 22″ x 30″ rectangular shaped rug in red and gold. Rec'd—4/28/2009. Est. Value—$1,800.00. Disposition—Pending Transfer to General Services Administration | Sheikh Abdullah Shamer, Sheikh of Western Ninewa Province, the Republic of Iraq | Non-acceptance would cause embarrassment to donor and U.S. Government.
Lieutenant Bryan P. Ewing, O-2 | Stainless steel men's sapphire crystal Longines wristwatch. Rec'd—9/1/2009. Est. Value—$1,825.00. Disposition—Pending Transfer to General Services Administration | Mansour Ranza, ALMCO Multi-National Security Transition Command, Republic of Iraq | Non-acceptance would cause embarrassment to donor and U.S. Government.
Brigadier General (Promotable) Robert B. Brown, O-7, Deputy Commanding General—Support, 25th Infantry Division, Multi-National Division-North, Iraq | 30″ x 44″ rectangular shaped rug in gold and pink. Rec'd—9/9/2009. Est. Value—$1,800.00. Disposition—Pending Transfer to General Services Administration | Major General Jabbar Yawar, Deputy Minister of Peshmerga of the Kurdistan Regional Government, Republic of Iraq | Non-acceptance would cause embarrassment to donor and U.S. Government.
Brigadier General Kevin W. Mangum, O-7, Director of the Iraqi National Counter-Terrorism Force Transition Team, Multi-National Security Transition Command-Iraq (For daughter Anela) | Women's 21-karat yellow gold snake ring with zirconia stones. Rec'd—9/13/2009. Est. Value—$375.00. Disposition—Purchased through the General Services Administration in April 2010 | Major General Fadil Jalil al-Barwari, Commander of the 1st Special Forces Brigade of the Republic of Iraq | Non-acceptance would cause embarrassment to donor and U.S. Government.
Brigadier General Kevin W. Mangum, O-7, Director of the Iraqi National Counter-Terrorism Force Transition Team, Multi-National Security Transition Command-Iraq (For wife Angel) | Women's 21-karat yellow gold fashion ring with zirconia stones. Rec'd—9/13/2009. Est. Value—$450.00. Disposition—Purchased through the General Services Administration in April 2010 | Major General Fadil Jalil al-Barwari, Commander of the 1st Special Forces Brigade of the Republic of Iraq | Non-acceptance would cause embarrassment to donor and U.S. Government.
Brigadier General (Promotable) Robert B. Brown, O-7, Deputy Commanding General—Support, 25th Infantry Division, Multi-National Division-North, Iraq | 22″ x 30″ rectangular shaped rug in blue and pink. Rec'd—9/23/2009. Est. Value—$1,800.00. Disposition—Pending Transfer to General Services Administration | Major General Aziz Weyzi, Zervani, Commander of Peshmerga, the Republic of Iraq | Non-acceptance would cause embarrassment to donor and U.S. Government.
Brigadier General (Promotable) Robert B. Brown, O-7, Deputy Commanding General—Support, 25th Infantry Division, Multi-National Division-North, Iraq | 22″ x 30″ rectangular shaped rug in pink and tan. Rec'd—10/2/2009. Est. Value—$1,800.00. Disposition—Pending Transfer to General Services Administration | Lieutenant General Sherwan Ali Abdulrahman, Deputy Minister of Peshmerga, the Republic of Iraq | Non-acceptance would cause embarrassment to donor and U.S. Government.
Brigadier General (Promotable) Robert B. Brown, O-7, Deputy Commanding General—Support, 25th Infantry Division, Multi-National Division-North, Iraq | Gold and white gold women's Rimador Japan Quartz wristwatch. Rec'd—10/10/2009. Est. Value—$1,800.00. Disposition—Pending Transfer to General Services Administration | Brigadier General Ali, Army Commander of the Republic of Iraq | Non-acceptance would cause embarrassment to donor and U.S. Government.
Brigadier General (Promotable) Robert B. Brown, O-7, Deputy Commanding General—Support, 25th Infantry Division, Multi-National Division-North, Iraq | Onyx and silver earring and jewelry set. Rec'd—10/15/2009. Est. Value—$1,600.00. Disposition—Pending Transfer to General Services Administration | Mr. Abdul Karim Sultan Sinjair, Minister of Interior of the Kurdistan Regional Government, Republic of Iraq | Non-acceptance would cause embarrassment to donor and U.S. Government.
Brigadier General (Promotable) Robert B. Brown, O-7, Deputy Commanding General—Support, 25th Infantry Division, Multi-National Division-North, Iraq | 30″ x 44″ rectangular shaped rug in blue and red. Rec'd—10/18/2009. Est. Value—$2,500.00. Disposition—Pending Transfer to General Services Administration | General Sheikh Jaffer Ali Mustafa, Minister of Peshmerga Affairs, Republic of Iraq | Non-acceptance would cause embarrassment to donor and U.S. Government.
General David Petraeus, Commander, US Central Command | Chopard Swiss wristwatch. Rec'd—11/17/2009. Est. Value—$6,000.00. Disposition—Pending Transfer to General Services Administration | Major General Hamad bin Ali Al-Attiyah, Chief of Staff of the Qatar Armed Forces | Non-acceptance would cause embarrassment to donor and U.S. Government.
Brigadier General Mangum, O-7, Deputy Commanding General—Center, US Division—Center, Camp Liberty | Gold necklace and earrings. Rec'd—1/22/2010. Est. Value—$500.00. Disposition—Pending Transfer to General Services Administration | Major General Fadil Jalil al-Barwari, Commander of the 1st Special Forces Brigade of the Republic of Iraq | Non-acceptance would cause embarrassment to donor and U.S. Government.
Lieutenant Colonel Troy D. Joslin, O-5, Director of Public Works, Task Force Cyclone | Personalized medium gold-plated castle statue encased in wood and glass. Rec'd—2/3/2010. Est. Value—$550.00. Disposition—Retain for Official Display: Camp Phoenix, Afghanistan, APO AE 09320 on return to use displayed in the museum at Camp Atterbury Joint Maneruver Training center, Camp Atterbur, Indiana | His Highness General Shiekh Mohamed bin Zayed Al Nahyan, Crown Prince of Abu Dhabi, Deputy Supreme Commander of the United Arab Emirates Armed Forces and Chairman of the Abu Dhabi Executive Council | Non-acceptance would cause embarrassment to donor and U.S. Government.
Brigadier General Joseph L . Culver, O-7, Commander, Task Force Cyclose | Personalized large gold-plated castle statue encased in wood and glass. Rec'd—2/3/2010. Est. Value—$800.00. Disposition—Retain for Official Display: Conference Room of Joint Forces Headquarters, Kentucky National Guard, Frankfort, Kentucky | His Highness General Shiekh Mohamed bin Zayed Al Nahyan, Crown Prince of Abu Dhabi, Deputy Supreme Commander of the United Arab Emirates Armed Forces and Chairman of the Abu Dhabi Executive Council | Non-acceptance would cause embarrassment to donor and U.S. Government.
Colonel Richard D. Shatto, O-6, Brigade Commander, Task Force Cyclone | Personalized large gold-plated castle statue encased in wood and glass. Rec'd—2/3/2010. Est. Value—$800.00. Disposition—Retain for Official Display: Trophy case of the 38th Infantry Division Armory, 3912 Minnesota Street, Indianapolis, Indiana | His Highness General Shiekh Mohamed bin Zayed Al Nahyan, Crown Prince of Abu Dhabi, Deputy Supreme Commander of the United Arab Emirates Armed Forces and Chairman of the Abu Dhabi Executive Council | Non-acceptance would cause embarrassment to donor and U.S. Government.
Colonel Timothy N. Thombleson, O-6, Deputy Commander, Task Force Cyclone | Personalized large gold-plated castle statue encased in wood and glass. Rec'd—2/3/2010. Est. Value—$500.00. Disposition—Retain for Official Display: Trophy case of the Joint Forces Headquarters, Indiana National Guard, Indianapolis, Indiana | His Highness General Shiekh Mohamed bin Zayed Al Nahyan, Crown Prince of Abu Dhabi, Deputy Supreme Commander of the United Arab Emirates Armed Forces and Chairman of the Abu Dhabi Executive Council | Non-acceptance would cause embarrassment to donor and U.S. Government.
Lieutenant General Steven Whitcomb, O-9, The Inspector General | 50ml Versace Versense cologne. 100ml Ferrari Uomo cologne. Techno Marine watch, serial number TMNC P07108287. Rec'd—2/7/2010. Est. Value—$3,068.90. Disposition—Pending Transfer to General Services Administration | Major General Hamad bin Ali Al-Attiyah, Chief of Staff of the Qatar Armed Forces | Non-acceptance would cause embarrassment to donor and U.S. Government.
Major Edlyn Smith, Aide de Camp to The Inspector General | JBR watch, serial number GL SSB 7863 D72 C. Silver pen, cufflinks, and leather wallet in solid oak gift box. Rec'd—2/7/2010. Est. Value—$1,300.00. Disposition—Pending Transfer to General Services Administration | Major General Hamad bin Ali Al-Attiyah, Chief of Staff of the Qatar Armed Forces | Non-acceptance would cause embarrassment to donor and U.S. Government.
Sergeant Major Henry Jackson, Sergeant Major to The Inspector General | Jaguar watch J636. Pierre Cardin cufflinks, black leather wallet, and roller point pen in mahogany and leather gift box. Rec'd—2/7/2010. Est. Value—$614.21. Disposition—Pending Transfer to General Services Administration | Major General Hamad bin Ali Al-Attiyah, Chief of Staff of the Qatar Armed Forces | Non-acceptance would cause embarrassment to donor and U.S. Government.
General David Petraeus, Commander, US Central Command | Two Navitec men's wristwatches Rec'd—4/26/2010. Est. Value—$25,000.00. Disposition—Pending Transfer to General Services Administration | Major General Hamad bin Ali Al-Attiyah, Chief of Staff of the Qatar Armed Forces | Non-acceptance would cause embarrassment to donor and U.S. Government.
Major General Anthony A. Cucolo III, O-8, Commander, 3rd Infantry Division and United States Division-North | 80cm x 123cm mauve and tan hand-made silk rug. Rec'd—7/18/2010. Est. Value—$450.00. Disposition—Retain for Official Display: 3rd Infantry Division | Staff Major General Aziz, Zervani, Commander of Peshmerga, Republic of Iraq | Non-acceptance would cause embarrassment to donor and U.S. Government.
Colonel William F. Roy, O-6, Brigade Commander, Task Force Wolverine | Presentation sword with the emblem of the United Arab Emirates and a leather case. Rec'd—7/22/2010. Est. Value—$456.00. Disposition—Retain for Official Display: Currently at HQ Task Force Wolverine, Bagram Airfield Afghanistan APO AE 09354. Will go on display at 86th IBCT (MTN) Headquarters, 7846 Williston road, Williston, Vermont | Colonel Hassan, Commander of Task Force 110 of the Army of the United Arab Emirates | Non-acceptance would cause embarrassment to donor and U.S. Government.
Major General James E. Rogers, O-8, Commanding General, US Army Aviation and Missile Command | Tissot “T-Touch” men's wristwatch, model number T33.7.498.51. Rec'd—11/2/2010. Est. Value—$589.00. Disposition—Pending Transfer to General Services Administration | Major General Hussein M. Al Assaf, Commander of the Royal Saudi Arabian Land Forces Aviation Command | Non-acceptance would cause embarrassment to donor and U.S. Government.

AGENCY: Department of the Navy
[Report of Tangible Gifts and Travel Furnished by the Department of the Navy]
Name and title of person accepting the gift on behalf of the U.S. Government | Gift, date of acceptance on behalf of the U.S. Government, estimated value, and current disposition or location | Identity of foreign donor and government | Circumstances justifying acceptance
Admiral Gary Roughead, US Navy, Chief of Naval Operations | Hand-crafted wooden chest. Rec'd—8/23/2009. Est. Value—$850.00. Disposition—Retained for Display by Recipient for Official Use | Admiral Noman Bashir, Chief of Naval Staff of the Islamic Republic of Pakistan | Non-acceptance would cause embarrassment to donor and U.S. Government.
Admiral Gary Roughead, US Navy, Chief of Naval Operations | Giampaolo Nason glass vase. Rec'd—10/1/2009. Est. Value—$335.00. Disposition—Retained for Display by Recipient for Official Use | Mrs. Adele La Rosa, spouse of Admiral Paolo La Rosa, Chief of Staff of the Italian Navy | Non-acceptance would cause embarrassment to donor and U.S. Government.
Admiral Gary Roughead, US Navy, Chief of Naval Operations | Decorative woven vase. Rec'd—10/8/2009. Est. Value—$508.00. Disposition—Retained for Display by Recipient for Official Use | Admiral Guillermo Enrique Barrera Hurtado, Commander of the Navy of the Republic of Colombia | Non-acceptance would cause embarrassment to donor and U.S. Government.
Admiral Gary Roughead, US Navy, Chief of Naval Operations | Decorative glass bowl. Rec'd—10/8/2009. Est. Value—$350.00. Disposition—Retained for Display by Recipient for Official Use | Mrs. Hege Bruun-Hanssen, wife of Rear Admiral Haakon Bruun-Hanssen of Norway | Non-acceptance would cause embarrassment to donor and U.S. Government.
Admiral Gary Roughead, US Navy, Chief of Naval Operations | Russian coin set containing six small and one large coin. Rec'd—10/8/2009. Est. Value—$480.00. Disposition—Transferred to the General Services Administration | Admiral Vladimir Sergeevich Vysotsky, Commander in Chief of the Navy of the Russian Federation | Non-acceptance would cause embarrassment to donor and U.S. Government.
Admiral Gary Roughead, US Navy, Chief of Naval Operations | Nigerian floor mat and four cushions in tan and blue with Nigerian Navy Symbol in center. Rec'd—10/8/2009. Est. Value—$850.00. Disposition—Transferred to the General Services Administration | Vice Admiral Ishaya Iko Ibrahim, Chief of Naval Staff Nigerian Navy | Non-acceptance would cause embarrassment to donor and U.S. Government.
Admiral Gary Roughead, US Navy, Chief of Naval Operations | CD box set, title: “Buenos Aires: Dias y Noches De Tango.”. Rec'd—11/12/2009. Est. Value—$397.00. Disposition—Transferred to the General Services Administration | Admiral Oscar Adolfo Arce, Commander of the Argentine Coast Guard | Non-acceptance would cause embarrassment to donor and U.S. Government.
Admiral Gary Roughead, US Navy, Chief of Naval Operations | Necklace, bracelet and ring set in gold with white and brown diamonds. Rec'd—11/12/2009. Est. Value—$500.00. Disposition—Transferred to the General Services Administration | Admiral Oscar Adolfo Arce, Commander of the Argentine Coast Guard | Non-acceptance would cause embarrassment to donor and U.S. Government.
Admiral Gary Roughead, US Navy, Chief of Naval Operations | JB Robinson men's wristwatch round dual function, white face with black leather band, serial number 81.644. Pen set. Rec'd—3/29/2010. Est. Value—$1,070.00. Disposition—Transferred to the General Services Administration | His Highness Sheikh Hamad Bin Khalifa Al-Thani, Amir of the State of Qatar | Non-acceptance would cause embarrassment to donor and U.S. Government.
Admiral Gary Roughead, US Navy, Chief of Naval Operations | Longines men's stainless steel Classique watch with two-tone stainless steel band and gold-tone stainless steel case, white dial with sapphire crystal, serial number L4.766.2. Longines women's stainless steel classique watch, two-tone stainless steel band with gold-tone stainless steel case, white dial, with sapphire crystal, serial number L4.209.2. Rec'd—4/8/2010. Est. Value—$2,500.00. Disposition—Transferred to the General Services Administration | Vice Admiral Mohab Mameesh, Commander in Chief of Naval the Egyptian Naval Forces | Non-acceptance would cause embarrassment to donor and U.S. Government.
Admiral Gary Roughead, US Navy, Chief of Naval Operations | 2′ x 1′ Vazhavilakku metal lamp. Rec'd—4/15/2010. Est. Value—$380.00. Disposition—Transferred to the General Services Administration | Vice Admiral Krishnan Nair Sushil, Flag Officer Commanding in Chief of Southern Naval Command of the Republic of India | Non-acceptance would cause embarrassment to donor and U.S. Government.
Admiral Gary Roughead, US Navy, Chief of Naval Operations | Dagger with curved double-edged 6″ blade and silver handle. 18-karat gold, diamond, and turquoise jewelry including a ring, earrings and pendant. Rec'd—7/14/2010. Est. Value—$410.00. Disposition—Transferred to the General Services Administration | Brigadier General Abdulla Saeed Al-Mansoori, Royal Bahrain Naval Forces Commander | Non-acceptance would cause embarrassment to donor and U.S. Government.
Admiral Gary Roughead, US Navy, Chief of Naval Operations | Set of three Malaysian coins issued to commemorate the 75th Anniversary of the Royal Malaysian Navy. Rec'd—8/4/2010. Est. Value—$425.00. Disposition—Transferred to GSA | Admiral Tan Sri Abdul Aziz Jaafar, Chief of the Navy of Malaysia | Non-acceptance would cause embarrassment to donor and U.S. Government.
Admiral Gary Roughead, US Navy, Chief of Naval Operations | 7″ 18-karat yellow gold bracelet featuring three dimensional hollow scarab bettle flanked by links of papyrus blossoms. Rec'd—11/19/2010. Est. Value—$700.00. Disposition—Transferred to GSA | His Excellency Lieutenant General Samy Enan, Chief of Staff of the Amred Forces of the Arab Republic of Egypt | Non-acceptance would cause embarrassment to donor and U.S. Government.
Admiral Gary Roughead, US Navy, Chief of Naval Operations | 7″ 18-karat white gold bracelet featuring three dimensional hollow scarab bettle flanked by links of papyrus blossoms. Rec'd—11/19/2010. Est. Value—$700.00. Disposition—Transferred to GSA | Vice Admiral Mohab Mameesh, Commander in Chief of the Egyptian Naval Forces | Non-acceptance would cause embarrassment to donor and U.S. Government.
Mrs. Sherrie Gortney, spouse of Vice Admiral W.E. Gortney, US Navy, Commander US Naval Forces Central Command | 18-karat gold bracelet. Rec'd—1/21/2009. Est. Value—$818.67. Disposition—Purchased by Recipient | Spouse of Vice Admiral Mohab Mameesh, Commander in Chief of the Egyptian Naval Forces | Non-acceptance would cause embarrassment to donor and U.S. Government.
Vice Admiral John Bird, US Navy, Commander Seventh Fleet | 36″ x 48″ framed oil painting of the USS BLUE RIDGE (LCC 19) on canvas. Rec'd—10/5/2009. Est. Value—$469.00. Disposition—Retained for Display by Recipient for Official Use | Vice Admiral Park Jung Hwa, Commander of the Navy of the Republic of Korea | Non-acceptance would cause embarrassment to donor and U.S. Government.
Commander Paul Hobbes, US Naval, Middle East Affairs Officer | Stainless steel men's wristwatch with flex band and round mother of pearl face marked “Brogeh/Sapphire/Japan Movt.” Stainless steel women's wristwatch with flex band and round mother of pearl face marked “Brogeh/Sapphire/Japan Movt.” Rec'd—10/17/2009. Est. Value—$1,200.00. Disposition—Transferred to the General Services Administration | Captain Nassir Al-Rakf, Royal Saudi Naval Forces of the Kingdom of Saudi Arabia | Non-acceptance would cause embarrassment to donor and U.S. Government.
Lieutenant General John Allen, US Marine Corps, Commander, US Central Command | 11.5″ 18-karat gold necklace with gold cross. Rec'd—10/29/2009. Est. Value—$1,500.00. Disposition—Transferred to the General Services Administration | His Highness Sheikh Hamad Bin Khalifa Al-Thani, Amir of the State of Qatar | Non-acceptance would cause embarrassment to donor and U.S. Government.
Mass Communications Specialist First Class Tiffani Vanderwyst, US Navy, Chief of Naval Operations Photographer | Pierre Cardin Swiss-made silver water-resistant watch with rectangle homme dual black dial and silver and black link band, serial number PC10191S01. Rec'd—3/29/2010. Est. Value—$350.00. Disposition—Transferred to the General Services Administration | His Highness Sheikh Hamad Bin Khalifa Al-Thani, Amir of the State of Qatar | Non-acceptance would cause embarrassment to donor and U.S. Government.
Chief Culinary Specialist Wesley Tavares, US Navy, Chief of Naval Operations personal Staff | Pierre Cardin Swiss-made silver water-resistant watch with rectangle homme dual black dial with silver & black link band, serial number PC10191S01. Rec'd—3/29/2010. Est. Value—$350.00. Disposition—Transferred to the General Services Administration | His Highness Sheikh Hamad Bin Khalifa Al-Thani, Amir of the State of Qatar | Non-acceptance would cause embarrassment to donor and U.S. Government.
Mr. Steve McMains, Chief of Operations Personal Security Advisor | Pierre Cardin stainless steel water-resistant watch with black face and rose tone link band. Rec'd—3/29/2010. Est. Value—$350.00. Disposition—Transferred to the General Services Administration | His Highness Sheikh Hamad Bin Khalifa Al-Thani, Amir of the State of Qatar | Non-acceptance would cause embarrassment to donor and U.S. Government.
Captain Christopher Grady, US Navy, Chief of Naval Operations Executive Assistant | Pierre Cardin stainless steel water-resistant watch with black face with rose tone link band, serial number PC101291S02. Rec'd—3/29/2010. Est. Value—$350.00. Disposition—Transferred to the General Services Administration | His Highness Sheikh Hamad Bin Khalifa Al-Thani, Amir of the State of Qatar | Non-acceptance would cause embarrassment to donor and U.S. Government.
Commander Charlie Brown, US Navy, Chief of Naval Operations Public Affairs Officer | Pierre Cardin stainless steel water-resistant watch with black face and rose tone link band, serial number PC101291S02. Rec'd—3/29/2010. Est. Value—$350.00. Disposition—Transferred to the General Services Administration | His Highness Sheikh Hamad Bin Khalifa Al-Thani, Amir of the State of Qatar | Non-acceptance would cause embarrassment to donor and U.S. Government.
Rear Admiral Stephen S. Voetsch, US Navy, Deputy Assistant Secretary of the navy (International Programs)/Director, Navy Internal Programs Office | 42mm diameter Men's stainless steel Tissot wristwatch with sapphire crystal, black dial, black leather strap, serial number T014427. Rec'd—4/8/2010. Est. Value—$825.00. Disposition—Transferred to the General Services Administration | Vice Admiral Mohab Mameesh, Commander in Chief of the Egyptian Naval Forces | Non-acceptance would cause embarrassment to donor and U.S. Government.
Rear Admiral Robert L. Thomas, US Navy, Commander, Submarine Group 7 | 24-karat gold Korean Chunma Chong Crown of Silla replica. Rec'd—6/28/2010. Est. Value—$1,250.00. Disposition—Retained for Display by Recipient for Official Use | Rear Admiral Ha Jin-Yong, Commander of the Submarine Flotilla NINE of the Royal Korean Navy | Non-acceptance would cause embarrassment to donor and U.S. Government.
Vice Admiral John Bird, US Navy, Commander Seventh Fleet | Wooden block from the Mikasa, decorated with multiple command coins and designators. Rec'd—7/20/2010. Est. Value—$335.00. Disposition—Retained for Display by Recipient for Official Use | Vice Admiral Masahiko Sugimoto, Commander in Chief of the Self-Defense Fleet of Japan | Non-acceptance would cause embarrassment to donor and U.S. Government.
Rear Admiral Kevin Sweeney, US Navy, US Navy Executive Office to the Commander, U.S. Central Command | JBR men's quartz watch with jewel, water-resistant, stainless steel bracelet with fold claps, serial GOR 3576L. JBR 1.7 cologne. Pierre Cardin sterling silver cufflinks with Pierre Cardin emblem. Black and silver pen. Rec'd—10/4/2010. Est. Value—$2,137.00. Disposition—Transferred to GSA | His Highness Sheikh Hamad Bin Khalifa Al-Thani, Amir of the State of Qatar | Non-acceptance would cause embarrassment to donor and U.S. Government.
Captain James Malloy, US Navy, Commodore, destroyer Squadron FIFTY | Rado men's watch, scratch resistant sapphire crystal with gold dial and day/date feature, polished with brushed gold tone steel bracelet, Model number R12391633. Rado women's watch, scratch resistant sapphire crystal with gold dial, polished with brushed gold-tone steel bracelet, model number R48728253. Rec'd—10/19/2010. Est. Value—$706.00. Disposition—CNO (DNS-35), Pending Transfer to General Services Administration | Major Abdullah Al Shamri, Navy Liaison Officer of the Royal Saudi Naval Force | Non-acceptance would cause embarrassment to donor and U.S. Government.
Admiral James G. Stavridis, Commander, U.S. European Command | Israeli Defense Forces rifle, model MTAR21, demilled. Rec'd—10/25/2010. Est. Value—$2,300.00. Disposition—National Defense University for Official Use | Government of the State of Israel | Non-acceptance would cause embarrassment to donor and U.S. Government.
Admiral Mark Fitzgerald, US Navy, Commander US Naval Forces, Europe/Commander, US Naval Forces, Africa and three accompanying staff members | TRAVEL: Expended for lodgings in Skopje, Macedonia. Rec'd—3/16-17/2010. Est. Value—$2,479.00 | Major Ivan Atanasoski, Chief of Protocol Section, General Staff of the Army of the Republic of Macedonia | Non-acceptance would cause embarrassment to donor and U.S. Government.
Admiral Samuel Locklear, US Navy, Commander, US Naval Forces, Europe/Commander, US Naval Forces, Africa and one accompanying staff member | TRAVEL: Expended for lodgings in Venice, Italy. Rec'd—10/19-22/2010. Est. Value—$3,378.00 | Admiral Bruno Branciforte, Chief of Staff of the Italian Navy | Non-acceptance would cause embarrassment to donor and U.S. Government.
Vice Admiral Harry Harris, Jr., US Navy, Commander, US Naval Forces, Europe/Commander US Naval Forces, Africa and one accompanying staff member | TRAVEL: Expended for lodgings in Venice, Italy. Rec'd—10/19-22/2010. Est. Value—$3,378.00 | Admiral Bruno Branciforte, Chief of Staff of the Italian Navy | Non-acceptance would cause embarrassment to donor and U.S. Government.
Admiral Samuel Locklear, US Navy, Commander, US Naval Forces, Europe/Commander, US Naval Forces, Africa and one accompanying staff member | TRAVEL: Expended for lodgings in Skopje, Macedonia. Rec'd—11/3-5/2010. Est. Value—$1,450.50 | His Excellency Zoran Konjanovski, Minister of Defense of the Republic of Macedonia | Non-acceptance would cause embarrassment to donor and U.S. Government.
Lieutenant Commander Jennifer Jones, US Navy, Commander, US Naval Forces Europe/Commander US Naval Forces Africa and one accompanying staff member | TRAVEL: Expended for lodgings in Rome Italy. Rec'd—11/29/2010-12/2/2010. Est. Value—$1,150.26 | Lieutenant Commander Michele Avino, Office of Navy Policy, Italian Navy General Staff | Non-acceptance would cause embarrassment to donor and U.S. Government.
Rear Admiral Joseph Rixey, US Navy, Deputy Assistant Secretary of the Navy (International Programs)/Director, Navy International Programs Office | TRAVEL: Expended for lodgings in Vina Del Mar, Chile. Rec'd—11/29/2010-12/3/2010. Est. Value—$1,299.25 | Admiral Edmundo González Robles, Commander in Chief of the Chilean Navy | Non-acceptance would cause embarrassment to donor and U.S. Government.
Lieutenant Drew Thomas, US Navy, Aide to Director, Navy International Programs Office | TRAVEL: Expended for lodgings in Vina Del Mar, Chile. Rec'd—11/29/2010-12/3/2010. Est. Value—$1,299.25 | Admiral Edmundo González Robles, Commander in Chief of the Chilean Navy | Non-acceptance would cause embarrassment to donor and U.S. Government.

AGENCY: United States Marine Corps
[Report of Tangible Gifts and Travel Furnished by the United States Marine Corps]
Name and title of person accepting the gift on behalf of the U.S. Government | Gift, date of acceptance on behalf of the U.S. Government, estimated value, and current disposition or location | Identity of foreign donor and government | Circumstances justifying acceptance
Lieutenant General Joseph F. Dunford, Jr., Commander, U.S. Marine Corps Forces, U.S. Central Command (CENTCOM) | 2m x 3m Afghan wool run in blue and green. Rec'd—4/5/2010. Est. Value—$ 1440. Disposition—Recipient purchased from General Services Administration | Brigadier General Ghulam Mohayadin Ghori, Deputy Corps Commander of the 207th Corps of the Afghan National Army | Non-acceptance would cause embarrassment to donor and U.S. Government.
Lieutenant Colonel Christopher L. Naler USMC, then-Commanding Officer, 5th Battalion, 10th Marines (MARCENT AO) | TRAVEL: Formal invitation to join Royal Family in ceremony to welcome home Bahrain company (which was under his charge in AFG) on 14 Jun 2010. Gifts of travel include OCONUS air fare, lodging, and meals. Rec'd—6/22/2010. Est. Value—$11,500 | Government of the Kingdom of Bahrain | Non-acceptance would cause embarrassment to donor and U.S. Government.

AGENCY: Department of Homeland Security
[Report of Tangible Gifts Furnished by the Department of Homeland Security]
Name and title of person accepting the gift on behalf of the U.S. Government | Gift, date of acceptance on behalf of the U.S. Government, estimated value, and current disposition or location | Identity of foreign donor and government | Circumstances justifying acceptance
The Honorable Michael Chertoff, Secretary of Homeland Security of the United States | Granat gold cufflinks with garnets. Rec'd—10/27/2008. Est. Value—$480.00. Disposition—On display in Room 5103, Department of Homeland Security Headquarters | Mr. Alexandr Vondra, Deputy Prime Minister for European Affairs of the Czech Republic | Non-acceptance would cause embarrassment to donor and U.S. Government.
The Honorable Michael Chertoff, Secretary of Homeland Security of the United States | Set of six shot-style crystal glasses. Rec'd—10/27/2008. Est. Value—$510.00. Disposition—On display in Room 5103, Department of Homeland Security Headquarters | His Excellency Karel Schwarzenberg, First Deputy Prime Minister and Minister of Foreign Affairs of the Czech Republic | Non-acceptance would cause embarrassment to donor and U.S. Government.
The Honorable Michael Chertoff, Secretary of Homeland Security of the United States | Limited mint edition Slovak Crowns (various denominations) Rec'd—10/28/2008 Est. Value—$609.81. Disposition—On display in Room 5103, Department of Homeland Security Headquarters | His Excellency Robert Kalinák, Deputy Prime Minister and Minister of Interior, Slovak Republic | Non-acceptance would cause embarrassment to donor and U.S. Government.
The Honorable Janet Napolitano, Secretary of Homeland Security of the United States | Book, title: “Tamaya: A Modern Icon Reinterpreted.” Rec'd—12/2/2009. Est. Value—$377.76. Disposition—Secretary's office—For official use | His Excellency Arturo Sarukhan, Ambassador of the United Mexican States | Non-acceptance would cause embarrassment to donor and U.S. Government.
The Honorable Janet Napolitano, Secretary of Homeland Security of the United States | Amati-Denak clarinet S.R.O., Model #ACL 612-C. Rec'd—12/14/2009. Est. Value—$1,128.03. Disposition—On display in Room 5103, Department of Homeland Security Headquarters | His Excellency Robert Kalinák, Deputy Prime Minister and Minister of Interior, Slovak Republic | Non-acceptance would cause embarrassment to donor and U.S. Government.
The Honorable Janet Napolitano, Secretary of Homeland Security of the United States | 11.5″ Lladro porcelain “Butterfly Treasures” figurine. Rec'd—4/10/2010. Est. Value—$440.00. Disposition—Transferred to GSA | His Excellency Felix Sanz Roldán, Director of the Center of National Intelligence of Spain | Non-acceptance would cause embarrassment to donor and U.S. Government.
The Honorable Janet Napolitano, Secretary of Homeland Security of the United States | Diamond and ruby necklace, bracelet, earrings, and ring. Rec'd—5/30/2010. Est. Value—$294,140.00. Disposition—In storage, Room 43205, (locked safe), Department of Homeland Security Headquarters | King Abdullah bin Abd al-Aziz Al Saud, Custodian of the Two Holy Mosques, King of the Kingdom of Saudi Arabia | Non-acceptance would cause embarrassment to donor and U.S. Government.
The Honorable Janet Napolitano, Secretary of Homeland Security of the United States | 54″ x 75″ silk hand-knotted yellow, pink, green, brown, cream, and red rug with floral pattern. Rec'd—9/17/2010. Est. Value—$6,625.00. Disposition—In storage, Room 5-01-111-F, Department of Homeland Security Headquarters | Ali Bin Mohsen Bin Fetais Al Marri, Attorney General of the State of Qatar | Non-acceptance would cause embarrassment to donor and U.S. Government.
The Honorable Jane Holl Lute, Deputy Secretary of Homeland Security of the United States | Delta fountain pen and ink set. Rec'd—5/30/2009. Est. Value—$380.25. Disposition—On display in Room 5103, Department of Homeland Security Headquarters | His Excellency Roberto Maroni, Minister of Interior of the Italian Republic | Non-acceptance would cause embarrassment to donor and U.S. Government.
Mr. Nick Ahloe, Immigration & Customs Enforcement Assistant Attaché in Amman, Jordan, Department of Homeland Security | Cover watch of Switzerland (Co89.ST2M) inscribed with Jordan Customs seal. Rec'd—1/7/2010. Est. Value—$500.00. Disposition—U.S. Embassy in Amman, Jordan, Immigration & Customs Enforcement Attache's office (locked safe) | Major General Ghaleb Al Sarayreh, Director General of Jordan Customs of the Hashemite Kingdom of Jordan | Non-acceptance would cause embarrassment to donor and U.S. Government.
Mr. Akil Baldwin, Operation Manager, HIS International Affairs, Immigration & Customs Enforcement, (Washington, DC) Department of Homeland Security | Cover Watch of Switzerland (Co89.ST2M) inscribed with JordanCustoms seal. Rec'd—1/7/2010. Est. Value—$500.00. Disposition—U.S. Embassy in Amman, Jordan, Immigration & Customs Enforcement Attache's office (locked safe) | Major General Ghaleb Al Sarayreh, Director General of Jordan Customs of the Hashemite Kingdom of Jordan | Non-acceptance would cause embarrassment to donor and U.S. Government.
Mr. Bruce Swartley, Immigration & Customs Enforcement Assistant Attaché in Abu Dhabi, United Arab Emirates, Department of Homeland Security | Longines Master Collection chrome watch in Ministry of Interior box. Rec'd—8/10/2010. Est. Value—$1,700.00. Disposition—Transferred to Department of State Post Management officer, United Arab Emirates | Brigadier General Jasim Al Marzouki, Ministry of Interior of the United Arab Emirates | Non-acceptance would cause embarrassment to donor and U.S. Government.
Mr. Majdi Haddad, Immigration & Customs Enforcement Foreign Service National Investigator in Abu Dhabi, United Arab Emirates, Department of Homeland Security | Longines Master Collection chrome watch in Ministry of Interior box. Rec'd—8/10/2010. Est. Value—$1,700.00. Disposition—Transferred to Department of State Post Management officer, United Arab Emirates | Brigadier General Jasim Al Marzouki, Ministry of Interior of the United Arab Emirates | Non-acceptance would cause embarrassment to donor and U.S. Government.
Ms. Lynda Williams, Resident Agent in Charge, U.S. Secret Service, Department of Homeland Security | Currency. Rec'd—9/24/2010. Est. Value—$350.00. Disposition—Returned to His Excellency Patrick Nandago, Namibian Ambassador to the United States on October 9, 2010 | His Excellency Hifikepunye Pohamba and Mrs. Penehupifo Pohamba, President of the Republic of Namibia and Spouse | Non-acceptance would cause embarrassment to donor and U.S. Government.

AGENCY: Department of Treasury
[Report of Tangible Gifts Furnished by the Department of Treasury]
Name and title of person accepting the gift on behalf of the U.S. Government | Gift, date of acceptance on behalf of the U.S. Government, estimated value, and current disposition or location | Identity of foreign donor and government | Circumstances justifying acceptance
The Honorable Timothy Geithner, Secretary of the Treasury | Franz hibiscus vase in white and red. Rec'd—4/4/2010. Est. Value—$850.00. Disposition—Department of Treasury | His Excellency Hu Jintao, President of the People's Republic of China | Non-acceptance would cause embarrassment to donor and U.S. Government.
Lael Brainard, Under Secretary for International Affairs | Heli-Artic parka and seal skin mitts. Rec'd—5/4/2010. Est. Value—$1,029.00. Disposition—Pending Transfer to the General Services Administration | The Honorable James M. Flaherty, P.C., M.P., Minister of Finance of Canada | Non-acceptance would cause embarrassment to donor and U.S. Government.
David Cohen, Assistant Secretary for Terrorist Financing | Cartier Tank wristwatch and 100 Riyah gold coin. Rec'd—10/4/2010. Est. Value—$4,265.00. Disposition—Pending Transfer to General Service Administration | Ali Bin Mohsen Bin Fathis Al-Marri, Attorney General of the State of Qatar | Non-acceptance would cause embarrassment to donor and U.S. Government.

AGENCY: Environmental Protection Agency
[Report of Tangible Gifts Furnished by the Environmental Protection Agency]
Name and title of person accepting the gift on behalf of the U.S. Government | Gift, date of acceptance on behalf of the U.S. Government, estimated value, and current disposition or location | Identity of foreign donor and government | Circumstances justifying acceptance
Kenneth J Davis, Program Analyst, Office of International and Tribal Affairs | TRAVEL: UNITAR will provide housing in Geneva, Switzerland to the employee on detail for the duration of the assignment. The traveler will perform approximately a 3-month detail assignment with UNITAR and UNEP Chemicals in Geneva, Switzerland. The traveler will be working with UNITAR and UNEP on global mercury issues that are very important to the US, EPA, and the Office of International and Tribal Affairs. In particular, he will be assisting with the effort, currently supported by EPA, to help the government of Kyrgyzstan address primary mercury mining. This is an important part of the international effort to reduce mercury use and emissions, which EPA strongly supports. Rec'd—5/15/2010—7/29/2010 Est. Value—$6,000.00 | United Nations Institute for Training and Research | Non-acceptance would cause embarrassment to donor and U.S. Government.
Weihsueh Chiu, Environmental Health Scientist | TRAVEL: Per diem to cover hotel, meals, and incidentals ($1350.00). Numerous scientific advisory groups have urged the U.S. EPA to incorporate probabilistic methods for uncertainty and variability in quantitative dose-response analysis, including the recent National Research Council report “Science and Decisions.” Dr. Weihsueh Chiu has substantial expertise and interest in this area, and it is important that he provide input into the development of the WHO/IPCS guidance, quidance which influences others globally and which ultimately has a bearing on how EPA conducts its own analyses. Stakeholders may evaluate the practices of ORD in comparison to this IPCS guidance, thus being part of the IPCS process is informative for EPA and helps insure that the IPCS and EPA practice are harmonized to the extent practical. This guidance may also be useful in training ORD risk assessors in the application of probabilistic methods to characterize uncertainty and variability in chemical risk assessment. Rec'd—9/14/2010—9/18/2010 Est. Value—$1,350.00 | World Health Organization | Non-acceptance would cause embarrassment to donor and U.S. Government.
David Bussard, Director, Washington Division, NCEA, ORD, USEPA | TRAVEL: $1,350 in traveler's checks to cover meals, lodging, local travel, and incidental expenses. Traveler provided advice to the World Health Organization at a meeting of experts. Traveler was also one of the authors of a discussion paper for the meeting. Rec'd—9/14/2010—9/18/2010 Est. Value—$1,350.00 | World Health Organization | Non-acceptance would cause embarrassment to donor and U.S. Government.
Jennifer Seed, Ph.D. Deputy Division Director, Risk Assessment Division, Office of Pollution Prevention and Toxics | TRAVEL: Plane ticket—$1056.30; Hotel (2 nights)—$541.00; Meals and misc expenses (3 days)—$ 225.00 in London, United Kingdom. The World Health Organization convened an international meeting to develop a global “umbrella plan” for activities on Mode of Action of chemicals, including the establishment of a Mode of Action Database. This strategic planning meeting also responded to recommendations of an ECETOC/ILSI/HESI Workshop on Using Mode of Action Information to Improve Regulatory Decision Making on 2-3 November 2009, London. Issues discussed at the meeting include, 1) for the umbrella plan—key new activities, relationship with existing activities, implementing bodies, resources, and 2) for the database—the purpose of the database, general content and broad criteria for inclusion of data, the “home” of the database and its possible management arrangements, resources and relationship to any other relevant data holdings. Dr. Jennifer Seed was invited to attend as she has been involved in the use of mode of action information in human health risk assessment for over 12 years, and was a leader in the development of the WHO/IPCS Mode of Action Framework which is now being used worldwide in the hazard assessment of chemicals. She participated as a member of the planning group. Rec'd—10/12/2010—10/15/2010 Est. Value—$1822.30 | World Health Organization | Non-acceptance would cause embarrassment to donor and U.S. Government.
(Norma) Lynn Flowers, Acting Associate Director of Health, Immediate Office, NCEA, ORD, EPA | TRAVEL: $140 × 3.5 days Per Diem = $490; $235 × 3 days Lodging = $705; $1,195 Total For London, UK from October 12, 2010 to October 16, 2010. Traveler was invited to attend the World Health Organization International Programme on Chemical Safety Harmonization of Approaches on Risk from Exposure to Chemicals Mode of Action Planning Meeting on behalf of USEPA as a result of her expertise in the field of risk assessment and cancer mode of action. Rec'd—10/12/2010—10/16/2010 Est. Value—$1,195.00 | World Health Organization | Non-acceptance would cause embarrassment to donor and U.S. Government.
Robert J Kavlock; Director, National Center for Computational Toxicology, Office of Research and Development, US EPA | TRAVEL: Per diem expenses related to participation in the WHO Expert Working Group for the Risk Assessment of DDT including hotel, meals, and local transportation for travel from November 27 to December 2, 2010. The WHO per diem in Geneva is 383 Swiss Francs (approximately $387 USD). Due to weather delays (airport closed for +36 hours due to snow), WHO covered 5 instead of the original 4 days of per diem. Invited expert on DDT risk assessment. DDT use in Internal Residential Spraying for malarial control will be considered as an exemption from the Stockholm Convention banning the use of persistent organic pollutants this coming spring. Rec'd—11/27/2010-12/2/2010 Est. Value—$1,935.00 | World Health Organization | Non-acceptance would cause embarrassment to donor and U.S. Government.
Vicki Dellarco Senior Scientist Office of Pesticide Programs, Immediate Office | TRAVEL: Hotel (11nights)—$2250.00; Meals, local transportation, and misc expenses (13 days)—$1746.00. Invitational travel—Travel dates: 9/19/2010 to 10/1/2010 for Rome, Italy. Dr. Dellarco attended the Joint Meeting on Pesticide Residues (JMPR) as an internationally recognized scientific expert in pesticide risk assessment. The JMPR is administered jointly by the Food and Agriculture Organization of the United Nations (FAO) and the World Health Organization (WHO). JMPR, which consists of the FAO Panel of Experts on Pesticide Residues in Food and the Environment and the WHO Core Assessment Group, is a long standing process under the United Nations. During the Meetings, the FAO and WHO Panel of Experts is responsible for reviewing the toxicology, metabolism, environmental fate, use patterns, residue and analytical aspects of the pesticides under consideration to determine if pesticide residue values will be at a safe dietary intake level for the various populations of the world. The JMPR dietary risk assessments are used to determine the proposed maximum residue limits (i.e., levels of pesticide residue that may be tolerated on food commodities in international trade). Thus, JMPR serves as a scientific advisory body to the Codex Alimentarius Commission. Advice to the Codex Alimentarius Commission on pesticides is provided through the Codex Committee on Pesticide Residues (CCPR). The JMPR provides for an exchange of information with colleagues from around the world. More importantly, it provides an avenue for the US to influence policy and to input into the technical reviews that ultimately result in international standards for food in trade. Dr. Vicki Dellarco was invited to be both a WHO reviewer and to serve as rapporteur of the meeting. Rec'd—9/19/2010-10/1/2010 Est. Value—$3,996.00 | World Health Organization | Non-acceptance would cause embarrassment to donor and U.S. Government.
Vicki Dellarco Senior Scientist Office of Pesticide Programs, Immediate Office | TRAVEL: Plane ticket—$1056.30; Hotel (2 nights)—$541.00; Meals, local transportation, and misc expenses (3 days)—$225.00; for travel to London, UK from 10/12/10 to 10/15/10. The World Health Organization convened an international meeting to develop a global “umbrella plan” for activities on Mode of Action of chemicals, including development of case studies and the establishment of a Mode of Action Database and education program. This strategic planning meeting also responded to recommendations of an ECETOC/ILSI/HESI Workshop on Using Mode of Action Information to Improve Regulatory Decision Making on 2-3 November 2009, London. Issues discussed at the meeting include, 1) for the umbrella plan—key new activities, relationship with existing activities, implementing bodies, resources, and 2) for the database—the purpose of the database, general content and broad criteria for inclusion of data, the “home” of the database and its possible management arrangements, resources and relationship to any other relevant data holdings. Dr. Vicki Dellarco was invited to co-chair the planning group. She has been involved in the use of mode of action information in human health risk assessment for over 15 years within the EPA, and help lead the development of the WHO/IPCS Mode of Action Framework which is now being used worldwide in the hazard assessment of chemicals. Rec'd—10/12/2010-10/15/2010 Est. Value—$1,822.30 | World Health Organization | Non-acceptance would cause embarrassment to donor and U.S. Government.
Richard Judson, Research Chemist | TRAVEL: Meals in kind lunch and dinner October 15 2010 (75 GBP); Meals out of pocket October 14-15 2010 (100 GBP); Hotel room (2 nights) with taxes October 14-15 2010 (169.20 GBP/night); Internet service at hotel (15 GBP); Local transportation in London—Train from airport to London October 14, 2010 (18 GBP)—Taxi from Meeting to Airport October 15, 2010 (15 GBP). Traveler is an expert on the ToxCast data, database, statistical approaches and results from the ToxCast program. The traveler is one of the project leaders for the EPA ToxCast program which is implementing the approaches to using mode of action (MOA) analysis. He has developed many of the methods the EPA is using to analyze the ToxCast data and to make use of that data for prioritization of thousands of environmental chemicals for testing. Furthermore, he has led the effort to develop the ACToR database (Aggregated Computational Toxicology Resource) which is the overall repository for related, public data being used in the EPA's screening and prioritization efforts. This data is directly used in current exploratory MOA analyses being carried out by EPA/ORD. He has been invited to this workshop to discuss how the ToxCast program can be used to improve MOA analysis. The traveller will learn about current expert opinion on performing MOA analysis being used by other governments as part of their chemical risk assessment activities, and will have a chance to contribute EPA views on this subject. Rec'd—10/12/2010-10/15/2010 Est. Value—$898.24 | World Health Organization | Non-acceptance would cause embarrassment to donor and U.S. Government.
Kimberly Nesci, Special Assistant | TRAVEL: Travel expenses accepted included meals ($842.62) and lodging ($801.38) for travel to Geneva, Switzerland from 10/03/2010 to 10/12/2010. Traveler is the designated expert to the FAO/WHO Panel on Pesticide Management. The FAO Panel of Experts on Pesticide Management is the official statutory body that advises the Organization on matters pertaining to pesticide regulation and management, and alerts it to new developments, problems, or issues that otherwise merit attention. The Panel in particular counsels FAO on the further implementation of the revised version of the International Code of Conduct on the Distribution and Use of Pesticides. This advances EPA goals of international pesticide regulatory harmonization and imported food safety. Rec'd—10/3/2010—10/12/2010. Est. Value—$1,644.00 | Food and Agriculture Organization of the United Nations | Non-acceptance would cause embarrassment to donor and U.S. Government.
Stephen Funk | TRAVEL: Hotels, meals, local transportation, and incidentals while in Slovenia, $1800. Participation in FAO/WHO Joint Meeting on Pesticide Specifications Rec'd—5/31/2010—6/8/2010. Est. Value—$1,800.00 | Food and Agriculture Organization of the United Nations | Non-acceptance would cause embarrassment to donor and U.S. Government.
Dr. Edward V. Ohanian, Associate Director for Science, Office of Water, USEPA, Washington, DC | TRAVEL: Dates of Travel to Tokyo, Japan: December 3-11, 2010. Common Carrier: $3,500 (in kind, directly billed to WHO) on 12/3. Meals: $700.00 (from cash to traveler)* on 12/4-10. Lodging $600.00 (in kind, directly billed to WHO) on 12/4-10. Local Transportation: Airport to Hotel; Hotel to Airport; Taxis to Ministry of Health and Environment: $200.00 (from cash to traveler)* on 12/4, 12/5/12/6 and 12/11. Parking at Dulles Airport; drove POV: $90.00 (from cash to traveler)* on 12/3-11. *WHO paid the traveler $950.00 in cash (travelers' check) on 12/6 to cover for above expenses (meals, local transportation and parking) Dr. Ohanian is national and international authority on human risk assessment who was invited as a Temporary Advisor to WHO to assist the Guidelines for Drinking-Water Quality Committee in reviewing of draft 4th Edition of WHO Guidelines and the draft fact sheet on PPCPs and developing the WHO Strategy for 2010-2015. Rec'd—12/3/2010—12/11/2010. Est. Value—$4,450.00 | World Health Organization | Non-acceptance would cause embarrassment to donor and U.S. Government.
Kathleen C. Raffaele, Ph.D., Senior Toxicologist, USEPA | TRAVEL: Travel expenses to be directly reimbursed include lodging/hotel, meals and incidentals, and local travel. Total amount to be directly reimbursed is $668 (Canadian dollars) or approximately $651 (US dollars). The Existing Substances Risk Assessment Bureau, Safe Environments Directorate of Health Canada is holding a 2-day meeting focusing on the use of neurotoxicity and developmental neurotoxicity data in risk assessment. Increased consistency in evaluating and using neurotoxicity data in risk assessments for environmental chemicals will enhance US and EPA goals in effectively regulating environmental chemicals to protect the public health. In addition, the focus on developmental neurotoxicty data is consistent with EPA goals in protecting children and other susceptible populations. Participation in this meeting will enhance EPA/NCEA's knowledge about the ways these data are used in international risk assessment, and promote consistent data interpretation across international organizations. Dr. Raffaele was invited to present lectures to Health Canada staff, over a two day. Her lectures involved the interpretation and use of neurotoxicity and developmental neurotoxicity data in risk assessment of environmental chemicals. Rec'd—9/7/2010-9/10/2010. Est. Value—$651.00 | Existing Substances Risk Assessment Bureau of the Safe Environments Directorate, Health Canada | Non-acceptance would cause embarrassment to donor and U.S. Government.
Rhyne Woodrow Setzer, Jr., Mathmatical Statistician | TRAVEL: Cash (traveler's checks) for $1,350.00, to cover lodging, local travel, and meals taking place in Utrecht, Netherlands from 09/14/2010-09/18/2010. Wood Setzer, Ph.D., a biostatistician who has been involved in dose-response analyses for Agency risk assessments. His work has also been addressing issues of applications of statistical methods to PBPK models. The traveler is recognized as an international expert in the area of uncertainty analysis in health effects hazard assessment, and has advised Agency Program Offices, WHO and European Food Safety Agency activities in this area. Dr. Setzer has been invited to serve as a WHO Temporary Advisor for the meeting “Characterizing and Communicating Uncertainty and Variability in Hazard Assessment“, held at RIVM in Bilthoven, Netherlands. The traveler organized and chaired the first in a series of three workshops on the use of PBPK models in risk assessment, of which this is the third, and participated in the second workshop. Dr. Setzer will confer with other world experts in this area to evaluate proposed WHO/IPCS guidance in the use of PBPK models in risk assessment, and area of direct interest for the Agency. While in the Netherlands the traveler will present on the ToxCast progress and then meet with Dr. Slob (RIVM) to collaborate on a manuscript about model uncertainty in dose-response assessment. The Agency has an interest in maintaining communication with world partners in the area of hazard assessment. In this case, the Agency both influences decisions that will affect the ways hazard assessments are carried out and interpreted, and benefits from points of view coming from other contexts. Also, the Agency will benefit from having shared ideas with other experts in this area, and in having its input heard in the proposed guidance. Rec'd—9/14/2010—9/18/2010. Est. Value—$1,350.00 | International Program for Chemical Safety of the World Health Organization | Non-acceptance would cause embarrassment to donor and U.S. Government.
P.V. Shah Chief, Inert Ingredient Assessment Branch, Registration Division Office of Pesticide Programs | TRAVEL: Invitational travel to Rome, Italy—Travel dates: 9/19/2010 to 10/2/2010. Hotel (12 nights)—$2,291.00. Meals, local transportation, and misc expenses (C2514 days)—$2,042.00. Dr. Shah attended the Joint Meeting on Pesticide Residues (JMPR) as an internationally recognized scientific expert in pesticide risk assessment. The JMPR is administered jointly by the Food and Agriculture Organization of the United Nations (FAO) and the World Health Organization (WHO). JMPR, which consists of the FAO Panel of Experts on Pesticide Residues in Food and the Environment and the WHO Core Assessment Group, is a long standing process under the United Nations. During the Meetings, the FAO and WHO Panel of Experts is responsible for reviewing the toxicology, metabolism, environmental fate, use patterns, residue and analytical aspects of the pesticides under consideration to determine if pesticide residue values will be at a safe dietary intake level for the various populations of the world. The JMPR dietary risk assessments are used to determine the proposed maximum residue limits (i.e., levels of pesticide residue that may be tolerated on food commodities in international trade). Thus, JMPR serves as a scientific advisory body to the Codex Alimentarius Commission. Advice to the Codex Alimentarius Commission on pesticides is provided through the Codex Committee on Pesticide Residues (CCPR). The JMPR provides for an exchange of information with colleagues from around the world. More importantly, it provides an avenue for the US to influence policy and to input into the technical reviews that ultimately result in international standards for food in trade. Dr. P.V. Shah was invited to be a temporary advisor to the JMPR during the meeting. Dr. Shah prepared a toxicological monograph on Tebuconazole and Cyproconazole for presentation at the meeting. Based on Dr. Shah's assessments, committee established the acceptable daily intake for cyproconazole and tebuconazole. Rec'd—9/19/2010 to 10/2/2010. Est. Value—$4,333.00 | World Health Organization | Non-acceptance would cause embarrassment to donor and U.S. Government.
Bella Tonkonogy, Environmental Protection Specialist Statistician | TRAVEL: On this 3-month detail to the OECD Climate Change, Biodiversity, and Development Division in Paris, France, the work was to systematically compare policy approaches to address competitiveness and leakage under climate change policy. Travel and living expenses in the amount of approximately $10,550 was paid by OECD. Bella Tonkonogy served on detail to the OECD Climate Change, Biodiversity, and Development Division in the Environment Directorate. The outcome was a report or policy brief for circulation at the UNFCCC meeting in Cancun in December 2010. EPA benefits from participation in this detail by interacting with experts from OECD and member countries in climate policy and competitiveness, advancing dialogue on these topics, and affirming and improving EPA's expertise in this arena. Coordinated international efforts, particularly on emission leakage, led to greater environmental benefits at lower cost. Rec'd—9/18/2010—1/2/2011. Est. Value—$10,550.00 | Organization for Economic Cooperation and Development | Non-acceptance would cause embarrassment to donor and U.S. Government.
Lesley Vazquez-Coriano, DrPH, Microbiologist | TRAVEL: Air Travel: $1,296.38; Meals: $700.00; Lodging: $600.00; Local Transportation: $200.00. Travel dates for Tokyo, Japan: December 3rd to December 10th, 2010. Dr. Vazquez-Coriano has national/international authority on Microbial Risk Assessment and provided advice in the revision of the final draft version of the Guidelines for Drinking Water Quality 4th Edition, and in the development of the WHO Water Quality Strategy for 2011-2016s. EPA/OW will benefit from these efforts by developing risk analysis efforts for rulemaking and other risk management actions and also by creating partnerships with international scientific and regulatory organizations. Rec'd—12/3/2010—12/10/2010. Est. Value—$2,796.38 | World Health Organization | Non-acceptance would cause embarrassment to donor and U.S. Government
Steve Knizer, Associate Director, HED | TRAVEL: Hotel $531.00 in Guadalajara, Mexico. Keynote speaker for 1st International Congress on Environmental Health. Title of talk is “Effects to Human Health and Risk Evaluation by Exposure to Agricultural Pesticides. Rec'd—10/18/2010—10/21/2010. Est. Value—$531.00 Location - | The Secretariat of Environment and Natural Resources of the United Mexican States | Non-acceptance would cause embarrassment to donor and U.S. Government.

AGENCY: Export Import Bank
[Report of Tangible Gifts Furnished by the Export Import Bank]
Name and title of person accepting the gift on behalf of the U.S. Government | Gift, date of acceptance on behalf of the U.S. Government, estimated value, and current disposition or location | Identity of foreign donor and government | Circumstances justifying acceptance
Mr. Bijan Kian, Board of Directors, Export-Import Bank of the U.S | Rug. Rec'd—12/14/2010. Est. Value—$500.00 | Mr. Noor Delawari, Head of the Afghanistan Investment Support Agency | Non-acceptance would cause embarrassment to donor and U.S. Government.

AGENCY: Federal Communications Commission
[Report of Travel Furnished by the Federal Communications Commission]
Name and title of person accepting the gift on behalf of the U.S. Government | Gift, date of acceptance on behalf of the U.S. Government, estimated value, and current disposition or location | Identity of foreign donor and government | Circumstances justifying acceptance
Eric Bash, Associate Bureau Chief, Enforcement Bureau | TRAVEL: Travel expenses originating and terminating entirely outside of the U.S. for 6th Korea Communications Conference in Seoul, Republic of Korea, including 3 nights lodging, 3 meals and round trip airfare from Canada to Seoul, Republic of Korea; Acceptance due to budget constraints and FCC interest in employee's participation. Rec'd—11/1/2010. Est. Value—$1,750.00 | Government of the Republic of Korea | Non-acceptance would cause embarrassment to donor and U.S. Government.
Jonathan Levy, Deputy Chief Economist, Office of Strategic Planning & Policy Analysis | TRAVEL: Travel expenses originating and terminating entirely outside of the U.S. for 6th Korea Communications Conference in Seoul, Republic of Korea, including hotel, airport transfers, 4 meals and round trip airfare from Toronto, Canada, to Seoul, Republic of Korea; Acceptance due to budget constraints and FCC interest in employee's participation. Rec'd—11/7/2010. Est. Value—$4,402.61 | Korea Communications Commission | Non-acceptance would cause embarrassment to donor and U.S. Government.
Irene Wu, Acting Chief Data Officer, International Bureau | TRAVEL: Travel expenses originating and terminating entirely outside of the U.S. for ICTNET workshop in Italy; Acceptance due to budget constraints and FCC interest in employee's participation. Rec'd—12/15/2010. Est. Value—$1,045.00 | European Parliament | Non-acceptance would cause embarrassment to donor and U.S. Government.

AGENCY: Federal Communications Commission
[Report of Travel Furnished by the Federal Communications Commission]
Name and title of person accepting the gift on behalf of the U.S. Government | Gift, date of acceptance on behalf of the U.S. Government, estimated value, and current disposition or location | Identity of foreign donor and government | Circumstances justifying acceptance
Doug Bausch, Sr Physical Scientist | TRAVEL: Earthquake Symposium in Beijing and Mianyang, China. Rec'd—10/17-23/2010. Est. Value—$4402.61 | Architectural Society of China of the Chinese Chamber of Commerce | Non-acceptance would cause embarrassment to donor and U.S. Government.
Dominick Pillot, International Affairs Specialist | TRAVEL: Risk Reduction and Emergency Management Seminar in Santiago, Chile. Rec'd—11/14-18/2010. Est. Value—$1,641.00 | National Office of Emergency of the Ministry of Interior of the Republic of Chile | Non-acceptance would cause embarrassment to donor and U.S. Government.

AGENCY: Federal Reserve Board
[Report of Tangible Gifts Furnished by the Federal Reserve Board]
Name and title of person accepting the gift on behalf of the U.S. Government | Gift, date of acceptance on behalf of the U.S. Government, estimated value, and current disposition or location | Identity of foreign donor and government | Circumstances justifying acceptance
The Honorable Ben S. Bernanke, Chairman of the Federal Reserve Board | Heli-Artic parka (Model 8502M). Rec'd—2/5/2010. Est. Value—$639.00. Disposition—Office of the Secretary for Official Use | Mr. Antoine Brunelle-Côté, Acting Chief, Department of Finance of Canada | Non-acceptance would cause embarrassment to donor and U.S. Government.
Thomas A. Conners, Deputy Director, Division of International Finance, Federal Reserve Board | Heli-Artic parka (Model 8502M). Rec'd—2/5/2010. Est. Value—$639.00. Disposition—Office of the Secretary for Official Use | Mr. Antoine Brunelle-Côté, Acting Chief, Department of Finance of Canada | Non-acceptance would cause embarrassment to donor and U.S. Government.

AGENCY: Holocaust Memorial Museum
[Report of Tangible Gifts Furnished by the Holocaust Memorial Museum]
Name and title of person accepting the gift on behalf of the U.S. Government | Gift, date of acceptance on behalf of the U.S. Government, estimated value, and current disposition or location | Identity of foreign donor and government | Circumstances justifying acceptance
Sara J. Bloomfield, Director of the United States Holocaust Memorial Museum | White leather portfolio containing nine unused postage stamps and one postmarked stamp and envelope to commemorate the International Day of Holocaust Remembrance on January 27. Rec'd—2/2/2010. Est. Value—$400.00. Disposition—United States Holocaust Memorial Museum Records Manager/Archives | Yuli-Yoel Edelstein, Minister of Public Diplomacy and the Diaspora of the State of Israel | Non-acceptance would cause embarrassment to donor and U.S. Government.
Sara J. Bloomfield, Director of the United States Holocaust Memorial Museum | 2.5″ tall figurine of a Jewish Klezmer musician playing a violin. 1.25″ medallion from the Mint of Poland (Mennica Panswowa) bearing a Star of David on one side and a Menorah on the other side. Two 1.5” medallions mounted on a ceramic plaque with one showing a child in front of the Lodz Ghetto bridge and the other engraved with Oskar Schindler on one side and the Star of David on the other side. Rec'd—12/8/2010. Est. Value—$750.00. Disposition—United States Holocaust Memorial Museum Records Manager/Archives | His Excellency Bronislaw Komorowski, President of the Republic of Poland | Non-acceptance would cause embarrassment to donor and U.S. Government.

AGENCY: National Aeronautics and Space Administration
[Report of Tangible Gifts Furnished by NASA]
Name and title of person accepting the gift on behalf of the U.S. Government | Gift, date of acceptance on behalf of the U.S. Government, estimated value, and current disposition or location | Identity of foreign donor and government | Circumstances justifying acceptance
Charles Bolden, NASA Administrator | FIYTA space watch. Rec'd—10/30/2010. Est. Value—$12,888.00. Location—NASA Headquarters For Permanent Display | Niu Hongguang, Deputy Chief Commander of the China Manned Space Engineering of the People's Republic of China | Non-acceptance would cause embarrassment to donor and U.S. Government.

AGENCY: Office of Director of National Intelligence
[Report of Tangible Gifts Furnished by the Office of Director of National Intelligence]
Name and title of person accepting the gift on behalf of the U.S. Government | Gift, date of acceptance on behalf of the U.S. Government, estimated value, and current disposition or location | Identity of foreign donor and government | Circumstances justifying acceptance
5 U.S.C. § 7342(f)(4), as amended | Hermes scarf. Rec'd—1/21/2010. Est. Value—$375.00. Disposition—Recipient Reimbursed U.S. Government for Fair Market Value | 5 U.S.C. § 7342(f)(4), as amended | Non-acceptance would cause embarrassment to donor and U.S. Government.
5 U.S.C. § 7342(f)(4), as amended | 17″ tall porcelain vase with celadon glaze decorated with inlaid white clouds and flying crane roundels. Rec'd—4/1/2010. Est. Value—$400.00. Disposition—For Official Use | 5 U.S.C. § 7342(f)(4), as amended | Non-acceptance would cause embarrassment to donor and U.S. Government.
5 U.S.C. § 7342(f)(4), as amended | 15.5″ tall Gusset AG cow bell and black leather strap. Swiss Army Knife “One Hand Master-On the Road” with rubberized grip and seven tools, 20th/21st century. Rec'd—5/20/2010. Est. Value—$445.00. Disposition—For Official Use | 5 U.S.C. § 7342(f)(4), as amended | Non-acceptance would cause embarrassment to donor and U.S. Government.
5 U.S.C. § 7342(f)(4), as amended | 13.25″ diameter Pashabahce gilded glass charger with applied imitation rubies and blue sapphires #1768/2000. Rec'd—9/22/2010. Est. Value—$375.00. Disposition—For Official Use | 5 U.S.C. 7342(f)(4), as amended | Non-acceptance would cause embarrassment to donor and U.S. Government.

AGENCY: Office of Science and Technology Policy
[Report of Tangible Gifts Furnished by the Office of Science and Technology Policy]
Name and title of person accepting the gift on behalf of the U.S. Government | Gift, date of acceptance on behalf of the U.S. Government, estimated value, and current disposition or location | Identity of foreign donor and government | Circumstances justifying acceptance
Dr. John P. Holdren, Assistant to the President for Science and Technology Policy | Metal model ship on wooden base with plaque. Rec'd—1/22/2010. Est. Value—In appraisal process. Location—White House Gifts Office | Jesús Vázquez, Mayor of Baiona, Spain | Non-acceptance would cause embarrassment to donor and U.S. Government.
Dr. John P. Holdren, Assistant to the President for Science and Technology Policy | Mother of pearl lacquered box. Rec'd—6/13/2010. Est. Value—$370.00. Location—White House Gifts Office | His Excellency Ahn Byong Man, Minister of Education, Science and Technology of the Republic of Korea | Non-acceptance would cause embarrassment to donor and U.S. Government.
Dr. John P. Holdren, Assistant to the President for Science and Technology Policy | Mother of pearl lacquered box. Rec'd—6/13/2010. Est. Value—$365.00. Location—White House Gifts Office | Seoul University, Republic of Korea | Non-acceptance would cause embarrassment to donor and U.S. Government.
Dr. John P. Holdren, Assistant to the President for Science and Technology Policy | 5″ blue glass elephant statute in blue presentation box. Rec'd—6/24/2010. Est. Value—$365.00. Location—White House Gifts Office | His Excellency Prithviraj Chavan, Minister of State for Science, Technology, and Earth Science of the Republic of India | Non-acceptance would cause embarrassment to donor and U.S. Government.

AGENCY: Peace Corps
[Report of Travel Furnished by Peace Corps]
Name and title of person accepting the gift on behalf of the U.S. Government | Gift, date of acceptance on behalf of the U.S. Government, estimated value, and current disposition or location | Identity of foreign donor and government | Circumstances justifying acceptance
The Honorable Aaron Williams, Director of the Peace Corps | TRAVEL: To attend the 2010 Special Olympics Global Congress. Rec'd—6/6-9/2010. Est. Value—$750.00 | Special Olympics and the Government of the Kingdom of Morocco | Non-acceptance would cause embarrassment to donor and U.S. Government.
Mr. Jeff West, Special Assistant to the Director of the Peace Corps | TRAVEL: To attend the 2010 Special Olympics Global Congress. Rec'd—6/6-9/2010. Est. Value—$750.00 | Special Olympics and the Government of the Kingdom of Morocco | Non-acceptance would cause embarrassment to donor and U.S. Government.
Ms. Elisa Montoya, White House Liaison and Senior Advisor to the Director of the Peace Corps | TRAVEL: To attend the 2010 Special Olympics Global Congress. Rec'd—6/6-9/2010. Est. Value—$750.00 | Special Olympics and the Government of the Kingdom of Morocco | Non-acceptance would cause embarrassment to donor and U.S. Government.

AGENCY: U.S. House of Representatives
[Report of Tangible Gifts and Travel Furnished by the House of Representatives]
Name and title of person accepting the gift on behalf of the U.S. Government | Gift, date of acceptance on behalf of the U.S. Government, estimated value, and current disposition or location | Identity of foreign donor and government | Circumstances justifying acceptance
The Honorable Nancy Pelosi, Speaker of the House | 6′ x 9′ hand-made Afghan wool rug in green and cream. Rec'd—5/8/2010. Est. Value—$500.00. Disposition—Pending Transfer to General Services Administration | His Excellency Hamid Karzai, President of the Islamic Republic of Afghanistan | Non-acceptance would cause embarrassment to donor and U.S. Government.
The Honorable Nancy Pelosi, Speaker of the House | 8′ x 10′ hand-made Afghan wool rug in beige, blue, and red. Rec'd—5/13/2010. Est. Value—$600.00. Disposition—Pending Transfer to General Services Administration | His Excellency Hamid Karzai, President of the Islamic Republic of Afghanistan | Non-acceptance would cause embarrassment to donor and U.S. Government.
The Honorable Nancy Pelosi, Speaker of the House | Hand-knotted rug. Rec'd—9/16/2010. Est. Value—$985.00. Disposition—Pending Transfer to General Services Administration | Ali Bin Mohsen Bin Fetais Al Marri, Attorney General of the State of Qatar | Non-acceptance would cause embarrassment to donor and U.S. Government.
The Honorable Nancy Pelosi, Speaker of the House | Strand of black pearls. Rec'd—10/2/2010. Est. Value—$600.00. Disposition—Pending Transfer to General Services Administration | His Excellency Hermilando I. Mandanas, Member of Parliament of the Republic of the Philippines | Non-acceptance would cause embarrassment to donor and U.S. Government.
The Honorable Brian Baird, Member of Congress | TRAVEL: Transportation was provided to and from the airport and to all official meetings and events. Rec'd—8/2/2010-8/6/2010. Est. Value—Unknown | The Ministry of Foreign Affairs of the Royal Government of Bhutan | Non-acceptance would cause embarrassment to donor and U.S. Government.
Ken Cummings, Senior Legislative Assistant | TRAVEL: Lodging in Brussels and Strasbourg. Rec'd—9/4/2010-9/9/2010. Est. Value—Unknown | Kristen Luddecke, Head of Financial Management and Ex-Ante Control of the Socialists and Democrats Party | Non-acceptance would cause embarrassment to donor and U.S. Government.
The Honorable Alcee L. Hastings, Member of Congress | TRAVEL: Lodging for 3 nights; 3 breakfasts; 3 lunches and 4 dinners. Rec'd—5/29/2010-5/31/2010. Est. Value—Unknown | His Excellency Ali Fahad al-Shahwany al Hajri, Ambassador of the State of Qatar | Non-acceptance would cause embarrassment to donor and U.S. Government.
Christopher J. King, Professional Staff, Committee on Science and Technology | TRAVEL: Transportation was provided to and from the airport and to all official meetings and events. Rec'd—8/2/2010-8/6/2010. Est. Value—Unknown | The Ministry of Foreign Affairs of the Royal Government of Bhutan | Non-acceptance would cause embarrassment to donor and U.S. Government.

AGENCY: U.S. Senate
[Report of Tangible Gifts and Travel Furnished by the Senate]
Name and title of person accepting the gift on behalf of the U.S. Government | Gift, date of acceptance on behalf of the U.S. Government, estimated value, and current disposition or location | Identity of foreign donor and government | Circumstances justifying acceptance
The Honorable Edward Kaufman, United States Senator | Aghan rug. Lapis vase. Rec'd—4/18/2009. Est. Value—$500.00. Disposition—Deposited with the Secretary of the Senate | His Excellency Abdul Rahim Wardak, Minister of Defense of the Islamic Republic of Afghanistan | Non-acceptance would cause embarrassment to donor and U.S. Government.
The Honorable John McCain, United States Senator | Two Afghan rugs. Rec'd—1/2010. Est. Value—$600.00. Disposition—Deposited with the Secretary of the Senate | His Excellency Hamid Karzai, President of the Islamic Republic of Afghanistan | Non-acceptance would cause embarrassment to donor and U.S. Government.
The Honorable Jack Reed, United States Senator | Afghan rug. Rec'd—3/31/2010. Est. Value—$400.00. Disposition—Deposited with the Secretary of the Senate | His Excellency Abdul Rahim Wardak, Minister of Defense of the Islamic Republic of Afghanistan | Non-acceptance would cause embarrassment to donor and U.S. Government
The Honorable John Barrasso, United States Senator | 3′ x 5′ hand-woven Afghan rug. 4′ x 6′ hand-woven Afghan rug. Rec'd—4/20/2010. Est. Value—$600.00. Disposition—Deposited with the Secretary of the Senate | His Excellency Hamid Karzai, President of the Islamic Republic of Afghanistan | Non-acceptance would cause embarrassment to donor and U.S. Government.
The Honorable John Thune, United States Senator | 3′ x 5′ hand-woven Afghan rug. 4′ x 6′ hand-woven Afghan rug. Rec'd—4/20/2010. Est. Value—$600.00. Disposition—Deposited with the Secretary of the Senate | His Excellency Hamid Karzai, President of the Islamic Republic of Afghanistan | Non-acceptance would cause embarrassment to donor and U.S. Government.
The Honorable Carl Levin, United States Senator | 3′ x 4′ red Afghan rug. 3′ x 6′ yellow Afghan rug. White Afghan linen table setting. Rec'd—9/1/2010. Est. Value—$1,100.00. Disposition—Deposited with the Secretary of the Senate | His Excellency Abdul Rahim Wardak, Minister of Defense of the Islamic Republic of Afghanistan | Non-acceptance would cause embarrassment to donor and U.S. Government.
The Honorable Bob Corker, United States Senator | TRAVEL: Air Transportation within Pakistan via military aircraft. Rec'd—8/21/2009. Est. Value—Unknown | Government of the Islamic Republic of Pakistan | Non-acceptance would cause embarrassment to donor and U.S. Government.
The Honorable John F. Kerry, United States Senator | TRAVEL: Air transportation within Israel via military aircraft. Rec'd—6/27/2010. Est. Value—Unknown | Israel Defense Forces of the State of Israel | Non-acceptance would cause embarrassment to donor and U.S. Government.
Perry Cammack, Professional Staff Member of the Committee on Foreign Relations | TRAVEL: Air transportation within Israel via military aircraft. Rec'd—6/27/2010. Est. Value—Unknown | Israel Defense Forces of the State of Israel | Non-acceptance would cause embarrassment to donor and U.S. Government.
Frank Lowenstein, Professional Staff Member of the Committee on Foreign Relations | TRAVEL: Air transportation within Israel via military aircraft. Rec'd—6/27/2010. Est. Value—Unknown | Israel Defense Forces of the State of Israel | Non-acceptance would cause embarrassment to donor and U.S. Government.
The Honorable John F. Kerry, United States Senator | TRAVEL: Air transportation within Pakistan via military aircraft. Rec'd—6/27/2010. Est. Value—Unknown | Government of the Islamic Republic of Pakistan | Non-acceptance would cause embarrassment to donor and U.S. Government.
Jonah Blank, Policy Director of the Committtee on Foreign Relations | TRAVEL: Air transportation within Pakistan via military aircraft. Rec'd—6/27/2010. Est. Value—Unknown | Government of the Islamic Republic of Pakistan | Non-acceptance would cause embarrassment to donor and U.S. Government.

[FR Doc. 2013-12468 Filed 5-23-13; 8:45 am]

BILLING CODE 4710-20-P